ENVIRONMENTAL PROTECTION AGENCY

40 CFR Part 302

[SW H-FRL-7241-8]

RIN 2050-AE88

Correction of Typographical Errors and Removal of Obsolete Language in Regulations on Reportable Quantities

AGENCY: Environmental Protection Agency (EPA).

ACTION: Direct final rule.

SUMMARY: The Environmental Protection Agency (EPA or “the Agency”) is correcting errors and removing obsolete or redundant language in regulations regarding notification requirements for releases of hazardous substances under the Comprehensive Environmental Response, Compensation, and Liability Act (CERCLA).

Consistent with ongoing regulatory reinvention initiatives within the Agency, EPA has reviewed the CERCLA release reporting regulations and has identified several categories of errors, including: typographical errors in the table of CERCLA hazardous substances; definitions made legally obsolete because of changes in CERCLA's statutory provisions; and redundant or unnecessary information.

DATES: This rule is effective on September 9, 2002, unless EPA receives written adverse comments by August 8, 2002. If the effective date is delayed, timely notice will be published in the Federal Register.

ADDRESSES: Comments: Interested parties may submit an original and two copies of comments referencing docket number 102RQ-CORRECT to (1) if using regular U.S. Postal Service mail: Docket Coordinator, Superfund Docket Office, (Mail Code 5201G), U.S. Environmental Protection Agency Headquarters, Ariel Rios Building, 1200 Pennsylvania Avenue, NW., Washington, DC 20460; or (2) if using special delivery such as overnight express service: Superfund Docket Office, Crystal Gateway One, 1st Floor, 1235 Jefferson Davis Highway, Arlington, VA 22202.

Release Notification: The toll-free telephone number of the National Response Center is 800/424-8802; in the Washington, DC metropolitan area, the number is 202/267-2675. The facsimile number for the National Response Center is 202/267-2165 and the telex number is 892427.

Docket: You may inspect copies of materials relevant to this rulemaking at the U.S. EPA Superfund Docket Office, located at Crystal Gateway One, 1st Floor, 1235 Jefferson Davis Highway, Arlington, VA 22202 [Docket Number 102RQ-CORRECT]. The docket is open from 9:00 a.m. to 4:00 p.m., Monday through Friday, excluding Federal holidays. To review docket materials, we recommend that you make an appointment by calling 703/603-9232. You may copy a maximum of 100 pages from any regulatory docket at no cost. Additional copies cost $0.15 per page. The Docket Office will mail copies of materials to you if you are located outside the Washington, DC metropolitan area.

FOR FURTHER INFORMATION CONTACT: For general information, contact the RCRA, Superfund, and EPCRA Hotline at 800/424-9346 (in the Washington, DC metropolitan area, contact 703/412-9810). The Telecommunications Device for the Deaf (TDD) Hotline number is 800/553-7672 (in the Washington, DC metropolitan area, contact 703/412-3323). For information on specific aspects of the rule, contact Lynn Beasley of the Office of Emergency and Remedial Response (5204G), U.S. Environmental Protection Agency, Ariel Rios Building, 1200 Pennsylvania Avenue, NW., Washington, DC 20460. Ms. Beasley's e-mail address is beasley.lynn@epa.gov and her telephone number is 703/603-9086.

SUPPLEMENTARY INFORMATION: Outline of This Document: The contents of this preamble are listed in the following outline:

I. Introduction

A. Who Potentially Will Be Affected by this Final Rule?

B. What are the Reporting Requirements Under CERCLA and EPCRA?

C. What is the Purpose of this Rule?

D. Why is EPA Making These Changes in a Final Rule, Without Prior Opportunity for Comment?

II. Corrections and Other Changes Made to 40 CFR Part 302 in Today's Rulemaking

A. Revisions to 40 CFR 302.2 (Abbreviations)

B. Revisions to 40 CFR 302.3 (Definitions)

C. Revisions to 40 CFR 302.5 (Determination of Reportable Quantities)

D. Revisions to 40 CFR 302.6 (Notification Requirements)

E. Revisions to 40 CFR 302.7 (Penalties)

F. Revisions to 40 CFR 302.8 (Continuous Releases)

G. Revisions to 40 CFR 302.4 (Designation of Hazardous Substances)

1. Formatting Changes to Table 302.4 a. Regulatory Synonyms Column

b. Statutory RQ Column c. Final RQ Category Column

2. Revisions to the Note Preceding Table 302.4

3. Corrections to Errors in Table 302.4

a. What Corrections Are Being Made to Entries for Individual Substances?

b. What Corrections Are Being Made to Entries for F- and K-Waste Streams?

c. What Corrections Are Being Made to Footnotes in Table 302.4?

d. Why Are Other Errors in Table 302.4 Not Addressed in Today's Rule?

H. Revisions to Appendix A of 40 CFR 302.4

III. Administrative Requirements

I. Introduction

A. Who Potentially Will Be Affected by This Final Rule?

This final rule may affect the following entities: (1) Persons in charge of vessels or facilities that may release CERCLA hazardous substances into the environment; and (2) entities that plan for or respond to such releases.

Potentially Affected Entities
Type of entity | Examples of affected entities
Industry | Manufacturers, handlers, transporters, and other users of CERCLA hazardous substances.
State, Local, or Tribal Governments | State Emergency Response Commissions, and Local Emergency Planning Committees.
Federal Government | National Response Center, and any Federal agency that may release or respond to releases of these substances.

EPA does not intend for this table to be exhaustive, but rather to provide a guide for readers regarding entities likely to be affected by this action. Other entities not listed in the table may also be affected. You can determine whether your organization is affected by examining the changes being made to 40 CFR part 302. If you have questions about the applicability of this action to a particular entity, consult the contact names and phone numbers listed in the preceding FOR FURTHER INFORMATION CONTACT section of this preamble.

B. What Are the Reporting Requirements Under CERCLA and EPCRA?

The Comprehensive Environmental Response, Compensation, and Liability Act of 1980 (CERCLA), 42 U.S.C. 9601 et seq., as amended, gives the Federal government broad authority to respond to releases or threats of releases of hazardous substances from vessels and facilities. The term “hazardous substance” is defined in section 101(14) of CERCLA by reference to various Federal environmental statutes.

Under CERCLA section 103(a), the person in charge of a vessel or facility from which a CERCLA hazardous substance has been released in a quantity that equals or exceeds its reportable quantity (RQ) must immediately notify the National Response Center (NRC) of the release. A release is reportable if an RQ or more is released within a 24-hour period (see 40 CFR 302.6). In addition to the reporting requirements under CERCLA section 103, section 304 of the Emergency Planning and Community Right-to-Know Act of 1986, 42 U.S.C. 11001 et seq., requires owners or operators of certain facilities to report releases of extremely hazardous substances and CERCLA hazardous substances to State and local authorities (see 40 CFR 355.40). After the release of a hazardous substance in a quantity equal to or greater than its RQ, facility owners or operators must immediately notify the community emergency coordinator for each local emergency planning committee for any area likely to be affected by the release, and the State emergency response commission of any State likely to be affected by the release.

Section 102(b) of CERCLA establishes RQs of one pound (“statutory RQs”) for releases of most CERCLA hazardous substances. Under section 102(a) of CERCLA, the Administrator of EPA has the authority to adjust these RQs by regulation (“adjusted RQs”). The list of CERCLA hazardous substances and RQs is codified in Table 302.4 of 40 CFR 302.4.

C. What Is the Purpose of This Rule?

EPA and other Federal agencies periodically review the regulations they administer to identify those rules that are obsolete or unduly burdensome. For example, on June 29, 1995, EPA published a final rule (60 FR 33912) eliminating a number of legally obsolete regulations. Now we are taking another step in the ongoing review of our rules. EPA has reviewed 40 CFR part 302 and is correcting typographical errors in the table of hazardous substances. We also are revising regulatory text to make it more concise, conform more closely to statutory language, and eliminate text that is redundant or legally obsolete. All of these changes are editorial and do not affect any substantive aspects of the CERCLA release reporting program.

Because these corrections are editorial, EPA does not anticipate that any costs will be associated with this rulemaking. Rather, we expect that these corrections will serve to reduce confusion among the regulated community and government authorities about release reporting regulations contained in 40 CFR part 302 and, therefore, reduce the burden of complying with these regulations.

D. Why Is EPA Making These Changes in a Final Rule, Without Prior Opportunity for Comment?

EPA is publishing this rule without prior proposal because we view these changes as noncontroversial amendments and anticipate no adverse comment. Section 553 of the Administrative Procedure Act, 5 U.S.C. 553(b)(3)(B), provides that, when an agency for good cause finds that notice and public procedure is impracticable, unnecessary, or contrary to the public interest, the agency may issue a rule without providing notice and an opportunity for public comment. EPA has determined that there is good cause for making today's rule final without prior proposal and opportunity for comment because the removals and revisions contained in this final rule are editorial and do not affect any substantive aspects of the CERCLA release reporting program. Thus, notice and public comment procedure are unnecessary. EPA finds that this constitutes good cause under 5 U.S.C. 553(b)(3)(B). For the same reason, EPA has also determined that it has good cause under 5 U.S.C. 553(d) to make the rule effective upon publication.

II. Corrections and Other Changes Made to 40 CFR Part 302 in Today's Rulemaking

The following section describes the specific corrections that EPA is making to 40 CFR part 302 in today's rulemaking.

A. Revisions to 40 CFR 302.2 (Abbreviations)

EPA believes that listing abbreviations in 40 CFR 302.2 is unnecessary, because these terms: (1) Are defined elsewhere in 40 CFR part 302 (as is the case with “CASRN” and “kg”); (2) are not used in this CFR part (as in the case of “lb” for pound); or (3) would more appropriately be defined when the term is first used (such as “RQ” and “RCRA”). For these reasons, EPA is removing and reserving 40 CFR 302.2.

B. Revisions to 40 CFR 302.3 (Definitions)

The definition of “release” in 40 CFR 302.3 was, at the time we codified it in the CFR in 1985, the same as the statutory definition of this term in CERCLA section 101(22). The Superfund Amendments and Reauthorization Act of 1986 (SARA), however, changed the statutory definition; for this reason, we are revising the definition of “release” in 40 CFR 302.3 to reflect these amendments, which included language regarding abandonment or discarding of containers. EPA proposed this change in a July 19, 1988, proposed rule (53 FR 27268) and did not receive any adverse comments on this issue.

In addition, the definition of “reportable quantity” in 40 CFR 302.3 is being changed to add the abbreviation “(RQ)” so that the term is defined when first used in 40 CFR part 302.

C. Revisions to 40 CFR 302.5 (Determination of Reportable Quantities)

Section 302.5(b) refers to toxicity identified in the Resource Conservation and Recovery Act (RCRA) regulations at 40 CFR 261.24. In 1990, EPA revised 40 CFR 261.24 as well as Table 302.4 to delete references to the terms “extraction procedure” and “EP” toxicity. To be consistent with these changes, EPA is revising paragraph (b) of 40 CFR 302.5 to delete references to “EP” toxicity.

D. Revisions to 40 CFR 302.6 (Notification Requirements)

An additional Washington phone number ((202) 267-2675), a facsimile number ((202) 267-2165), and a telex number (892427) are being added to the list of National Response Center (NRC) phone numbers in paragraph (a) of 40 CFR 302.6.

E. Revisions to 40 CFR 302.7 (Penalties)

The penalty description in 40 CFR 302.7(a)(3) was, at the time we codified it in the CFR in 1985, consistent with the penalty provisions in CERCLA section 103(b). In 1986, however, SARA changed CERCLA section 103(b) to include language regarding submission of false information. EPA proposed this change in the July 19, 1988 proposed rule and did not receive any adverse comments on this issue. Thus, EPA is revising paragraph (a)(3) of 40 CFR 302.7 to conform to the revised language of CERCLA section 103(b).

F. Revisions to 40 CFR 302.8 (Continuous Releases)

The reference to paragraph (a) in 40 CFR 302.8(e)(1)(iv)(H) and 40 CFR 302.8(f)(4)(viii) is incorrect, and is being changed to reference paragraph (b).

G. Revisions to 40 CFR 302.4 (Designation of Hazardous Substances)

Because corrections and other changes to Table 302.4 that are described below are numerous and pervasive, we are reprinting Table 302.4 in its entirety in today's rule. We hope that this reprint of Table 302.4 will prove to be a useful resource for the public and the regulated community until such time as the revised volume of 40 CFR part 302 that contains these changes is published. Amendatory instruction 5 in today's direct final rule accounts for the removal of the previous version of Table 302.4, and its replacement with the version published in today's final rule.

1. Formatting Changes to Table 302.4

Three columns in Table 302.4 of 40 CFR 302.4 contain information that is duplicated elsewhere in the table or is no longer relevant to the listing of hazardous substances and reportable quantities. For this reason, EPA is deleting these columns from Table 302.4 in today's rulemaking.

We believe that deleting these columns will serve to: (1) Simplify the table and reduce confusion among the regulated community and government authorities about its use; (2) reduce the number of typographical and other errors that are introduced into the table; and (3) allow the table to be printed in a “portrait” rather than “landscape” format, resulting in a reduction in the number of CFR pages. A description of each of the columns identified for deletion is included below.

a. Regulatory Synonyms Column

EPA lists substances in Table 302.4 by the names used in certain other environmental statutes (e.g., RCRA, the CWA, or the Clean Air Act (CAA)) or in their implementing regulations. When the substance is known by different names in different regulatory programs, EPA lists these names as separate entries in Table 302.4's Hazardous Substance column. In addition, Appendix A to Table 302.4 lists these synonyms together, by Chemical Abstracts Service Registry Number (CASRN).

Because the synonyms are all listed alphabetically in the Hazardous Substance column, and because Appendix A provides a per-substance grouping of all these synonyms, the Regulatory Synonyms column includes only unnecessary duplicative information. Therefore, EPA is deleting this column from Table 302.4 in today's final rule.

b. Statutory RQ Column

When Table 302.4 was first published in the Federal Register in 1985, the Statutory RQ column served a useful purpose because (1) CWA hazardous substances generally had different statutory RQs than other CERCLA hazardous substances; and (2) the Agency had not yet adjusted many of the statutory RQs for these substances.

Today, however, all of the statutory RQs for the CWA hazardous substances have been adjusted and, for any new substance added to Table 302.4, the statutory RQ is always one pound. When new substances are added to the list, footnote “##” is added to the Final RQ Pounds column indicating that the substance has a one-pound statutory RQ; thus, the Statutory RQ column provides only redundant or obsolete information. In addition, this column can be a source of errors; for example, at least seven substances have had incorrect information in the Statutory RQ column. EPA is deleting the Statutory RQ column from Table 302.4 in today's final rule.

c. Final RQ Category Column

The “Final RQ Category” column was used in Table 302.4 in the first CERCLA reporting program final rule on April 4, 1985, because members of the regulated community were familiar with a similar association between letter categories and numerical RQs (X = 1 pound, A = 10 pounds, B = 100 pounds, etc.) in the Clean Water Act (CWA) hazardous substance regulations (40 CFR part 117). The CWA categories, however, correspond to ranges of aquatic toxicity, while the CERCLA categories are simply another way of expressing the RQ value. EPA originally proposed the CWA categories (A, B, C, and D) in 1975, based on the hazardous material classification system for a 1973 international convention. A 1978 final rule for CWA RQs added another category (X).

The Category column provides little or no useful information on the CERCLA list of hazardous substances in Table 302.4, because the next column gives the RQ in pounds. Today, the category is a source of errors and confusion. For example, prior to today's rulemaking, the category for six substances was incorrectly listed as X, even though the RQs are 10, 100, or 1000 pounds. EPA is deleting the Category column from Table 302.4 in today's final rule.

2. Revisions to the Note Preceding Table 302.4

Because EPA is removing the Regulatory Synonyms, Statutory Code, and Final RQ Category columns from Table 302.4 in today's rulemaking, we are revising the note that precedes Table 302.4 to remove references to these columns. The revised note will also identify Appendix A to Section 302.4 as a source for identifying regulatory synonyms of substances that appear on the CERCLA list of hazardous substances.

3. Corrections to Errors in Table 302.4

EPA has identified other errors in Table 302.4. The majority of these errors are either typographical or the result of inadvertent omissions; the scope of what is regulated and how it is regulated will not change. Therefore, these corrections qualify for the “good cause” exemption as “minor or technical amendments.”

a. What Corrections Are Being Made to Entries for Individual Substances?

The most commonly found errors in Table 302.4 are inadvertent discrepancies between an individual hazardous substance name that appears on the CERCLA list and the same name as it appears in other statutes (i.e., RCRA section 3001, CWA sections 307 and 311, and CAA section 112) and their implementing regulations. In today's rule, EPA is making corrections to the hazardous substance names of a number of CERCLA entries to make them consistent with names that appear in these other regulatory lists. Many of these corrections are simple and involve, for example, the deletion of an unnecessary hyphen or the addition of parentheses. In addition, to help make each entry more readable, we are changing all of the CASRNs listed in Table 302.4 to include hyphens in the appropriate places (e.g., changing “50000” to “50-00-0” for formaldehyde). Other types of corrections to Table 302.4 included in today's rule that require more explanation are described below.

Table 1.—Corrections to Entries for Individual Substances in Table 302.4
Current entry in Table 302.4 of 40 CFR 302.4 | Change needed to correct error
Acetic acid, (2,4,5-trichlorophenoxy) Pentachlorophenol Phenol, pentachloro- Phenol, 2,3,4,6-tetrachloro- Phenol, 2,4,5-trichloro- Phenol, 2,4,6-trichloro- Silvex (2,4,5-TP) 2,4,5-T 2,4,5-T acid 2,3,4,6-Tetrachlorophenol 2,4,5-TP acid | RCRA “U” waste numbers are no longer associated with these substances in the RCRA regulations at 40 CFR part 261; rather, each of the RCRA waste numbers for these substances has been replaced with the following note: “See F027.” Conforming changes are being made to these entries in Table 302.4.
2,4,5-Trichlorophenol 2,4,6-Trichlorophenol | Each of these substances is listed twice in Table 302.4. We are removing the duplicative entries from Table 302.4 in today's rule. In addition, because these substances appear in CAA section 112, a “3” is being added to the statutory code column for these entries in Table 302.4. Also, “U” waste numbers are no longer associated with these substances and have been replaced with: “See F027.”
Propionic acid, 2-(2,4,5-trichlorophenoxy)- | To be consistent with RCRA regulations, the spelling of this substance name is being changed in Table 302.4 to “Propanoic acid, 2-(2,4,5-trichlorophenoxy).” In addition, RCRA waste number “U233” is no longer associated with this substance and has been replaced with: “See F027.”
Arsenic acid H3AsO4 Arsenic acid | “Arsenic acid” with CASRN 1327-52-2 is not listed in RCRA, the CAA, the CWA, or their implementing regulations. Thus, the entry for “Arsenic acid” is being deleted from Table 302.4. In addition, CASRN 1327-52-2 is being deleted from the “Arsenic acid H3AsO4” listing. Arsenic acid H3AsO4 with CASRN 7778-39-4 remains listed in Table 302.4.
Cyanogen bromide(CN)Br Cyanogen bromide | “Cyanogen bromide” is not listed in RCRA, the CAA, the CWA, or their implementing regulations, although its synonym “Cyanogen bromide(CN)Br” is listed in the RCRA regulations. Thus, the entry for “Cyanogen bromide” is being deleted from Table 302.4.
Aroclors PCBs POLYCHLORINATED BIPHENYLS | Aroclors 1016, 1221, 1232, 1242, 1248, 1254, and 1260 are listed as separate entries in Table 302.4. These seven aroclors also appear indented beneath the entries for “Aroclors,” “PCBs,” and “POLYCHLORINATED BIPHENYLS.” The duplicative indented entries for the seven aroclors are being deleted. In addition, conforming changes are being made to the Appendix A entries for these seven aroclors.
Bis(2-ethylhexyl) phthalate | This substance is listed in the CAA, but a “3” was never added to the statutory code column. A “3” is being added to the column in today's rule.
Calcium cyanide Copper cyanide Cyanogen chloride Hydrogen sulfide Nickel carbonyl Nickel cyanide Potassium cyanide Selenium sulfide Silver cyanide Sodium cyanide Thallium (I) chloride Zinc cyanide Zinc phosphide | Each of these substances is listed twice (once with a chemical formula and once without the formula) in the RCRA or CWA regulations and in Table 302.4. In the interest of avoiding duplicative entries in Table 302.4, the non-formula entries for these substances are being removed in today's rule.
1,10-(1,2-Phenylene)pyrene Methyl chloroformate Muscimol Tetrachloroethene Benzene, hydroxy- Benzo [j,k] fluorene 1,2-Benzphenanthrene Camphene, octachloro- 4-Chloro-m-cresol 1,4-Diethylenedioxide Hexachlorocyclohexane (gamma isomer) Trichloroethene | These synonyms are not listed in RCRA, the CAA, the CWA, or their implementing regulations and are being removed from Table 302.4 and Appendix A in today's rule. Other names for these same substances remain listed in Table 302.4 and Appendix A.
Carbaryl Carbofuran Mercaptodimethur Mexacarbate Propoxur (Baygon) Triethylamine | These six substances appear in Table 302.4 by virtue of their listing on the Clean Water Act or Clean Air Act. In a February 9, 1995 final rule (60 FR 7824), EPA added a number of synonyms to the RCRA regulations for these substances. To be consistent, the synonyms for these substances are being added to Table 302.4 and Appendix A in today's rule. In addition, a “4” is being added to the statutory code column for these entries in Table 302.4.
2H-1-Benzopyran-2-one, 4-hydroxy-3-(3-oxo-1-phenyl-butyl)-, & salts, when present at concentrations greater than 0.3% | The RCRA regulations include two listings for this substance: (1) One when present at concentrations greater than 0.3% (P001); and (2) another when present at concentrations of 0.3% or less (U248). Only the first currently appears on Table 302.4. This entry is being deleted from Table 302.4 and replaced with an entry that covers both RCRA listings, as follows: “2H-1-Benzopyran-2-one, 4-hydroxy-3-(3-oxo-1-phenylbutyl)-, & salts” In addition to “P001,” “U248” is being added to this entry as an additional RCRA waste number.
Warfarin, & salts, when present at concentrations greater than 0.3% | The RCRA regulations include two listings for this substance: (1) One when present at concentrations greater than 0.3% (P001); and (2) another when present at concentrations of 0.3% or less (U248). Only the first currently appears on Table 302.4. This entry is being deleted from Table 302.4 and replaced with an entry that covers both RCRA listings, as follows: “Warfarin, & salts” In addition to “P001,” “U248” is being added to this entry as an additional RCRA waste number.
Zinc phosphide Zn3P2, when present at concentrations greater than 10% | The RCRA regulations include two listings for this substance: (1) One when present at concentrations greater than 10% (P122); and (2) another when present at concentrations of 10% or less (U249). Only the first currently appears on Table 302.4. This entry is being deleted from Table 302.4 and replaced with an entry that covers both RCRA listings, as follows: “Zinc phosphide Zn3P2” In addition to “P122,” “U249” is being added to this entry as an additional RCRA waste number.
Beryllium powder | Prior to 1994, the Table listed Beryllium (from the CAA), BERYLLIUM AND COMPOUNDS (from the CWA), and Beryllium dust (from the RCRA regulations). On June 20, 1994, EPA changed the term Beryllium dust to Beryllium powder in 40 CFR part 261 (RCRA). At the same time, this change was also made in Table 302.4 and Appendix A, but the listing for Beryllium was removed inadvertently. The listing for Beryllium is being restored in Table 302.4 in today's rule.
Methane, bromo- | Although synonyms for bromomethane (e.g., methane, bromo-) appear in Table 302.4, “Bromomethane” does not appear as a separate listing in the hazardous substance column in Table 302.4. However, bromomethane is listed in section 112 of the CAA. Thus, a new entry for the synonym “Bromomethane” is being added.
Dichloromethyl ether | Although a synonym (dichloromethyl ether) for bis(chloromethyl) ether appears in Table 302.4, “Bis(chloromethyl) ether” does not appear as a separate listing. However, this chemical name is included in section 112 of the CAA. Thus, a new entry for the synonym “Bis(chloromethyl) ether” is being added.
CHLORDANE (TECHNICAL MIXTURE AND METABOLITES) | Two entries for “CHLORDANE (TECHNICAL MIXTURE AND METABOLITES)” appear in Table 302.4: (1) one with no CASRN and no RQ; and (2) another entry with CASRN 57749 and an RQ of one pound. In a June 12, 1995 final rule, EPA intended to remove the first entry and replace it with the second one; however, the first entry was never removed. The first entry with no CASRN or RQ is being removed in today's rule.
m-, o-, and p-isomers for Benzene, dimethyl and Cresylic acid | CAA section 112 lists individual isomers for Cresol and Xylenes, but not for these synonyms. To be consistent with the underlying source lists, entries for the m-, o-, and p-isomers that were indented beneath the entries for Benzene, dimethyl and Cresylic acid are being deleted from Table 302.4.
Multi Source Leachate | In a June 1, 1990 final rule (55 FR 22720), EPA erroneously listed waste stream F039 on Table 302.4 as “Multi Source Leachate” alphabetically listed under the letter “M.” In today's rule, EPA is deleting the entry for “Multi Source Leachate” and adding the correct entry for “F039” to Table 302.4, immediately following the entry for waste stream F038.
Bromoform | This substance is listed in the CAA, but a “3” was never added to the Statutory Code column. A “3” is being added to the column in today's rule.
1,4,5,8-Dimethanonaphthalene, 1,2,3,4,10,10-10-hexachloro-1,4,4a,5,8,8a-hexahydro-, (1alpha,4alpha,4abeta,5alpha, 8alpha, | A correction to this listing is needed because of a typesetting mistake; the entry should end with “8abeta)-.” This final portion was inadvertantly moved to the beginning of the next entry on Table 302.4. Other minor editorial corrections are also being made.
8abeta)-1,4,5,8-Dimethanonaphthalene,1,2,3,4, 10,10-hexachloro-1,4,4a,5,8,8a-hexahydro,(1alpha,4alpha,4abeta,5abeta,8beta, | Again, corrections are needed because of a typesetting mistake; the entry should begin with “1,4,5 . . .” and should end with “8abeta)-.”
8abeta)-2,7:3,6-Dimethanonaphth [2,3-b]oxirene,3,4,5,6,9,9-hexachloro-1a,2,2a,3,6,6a,7,7a-octahydro-,(1aalpha,2beta, 2aalpha,3beta,6beta, | Again, corrections are needed because of a typesetting mistake.
6aalpha,7beta,7aalpha)-2,7:3,6-Dimethanonaphth[2,3-b] oxirene,3,4,5,6,9,9-hexachloro-1a,2,2a,3,6,6a,7,7a-octa-hydro-,(1aalpha,2beta,2abeta,3alpha, 6alpha, | Again, corrections are needed because of a typesetting mistake. In addition, the words “& metabolites” are being added to the end of the entry to be consistent with the entry for this substance in the RCRA regulations.
6abeta,7beta,7aalpha)-Dimethoate | Again, corrections are needed because of a typesetting mistake.
1,2-Benzisothiazol-3(2H)-one, 1,1-dioxide | To be consistent with the listing for this substance in the RCRA regulations, the words “& salts” are being added to the end of this entry.
Creosote | Because the RCRA regulations do not list a CASRN for this listing, CASRN 8001589 is being removed from 302.4 and replaced with “N.A.”
Cyanides (soluble salts and complexes) not otherwise specified | Because the RCRA regulations do not list a CASRN for this listing, CASRN 57125 is being removed from 302.4 and replaced with “N.A.”
Pyridine, 3-(1-methyl-2-pyrrolidinyl)-,(S)- | To be consistent with the listing for this substance in the RCRA regulations, the words “& salts” are being added to the end of this entry.
Strychnidin-10-one | To be consistent with the listing for this substance in the RCRA regulations, the words “& salts” are being added to the end of this entry.

b. What Corrections Are Being Made to Entries for the F- and K-Waste Streams?

The most commonly found errors in the entries for hazardous waste streams (i.e., F- and K-waste streams) in Table 302.4 are inadvertent discrepancies between the waste stream description that appears on the CERCLA list and the description for the same waste stream as it appears in the RCRA regulations at 40 CFR 261.31 and 261.32. In the years since Table 302.4 was first published in the CFR in 1985, EPA has amended the descriptions of several waste streams in the RCRA regulations, but did not make conforming changes to these entries in 40 CFR 302.4. EPA does not intend to retain two different descriptions of the same waste stream in the RCRA and CERCLA regulations; thus, we are removing obsolete descriptions of certain waste streams from Table 302.4 and replacing them with the current descriptions from 40 CFR part 261. Some of these corrections are simple; other types of corrections that require more explanation are described below.

Table 2.—Corrections to Entries for F- and K-Waste Streams in Table 302.4
Current entry in Table 302.4 of 40 CFR 302.4 | Change needed to correct error
F024 * * * Wastes, including but not limited to distillation residues, heavy ends, tars, and reactor cleanout wastes, from the production of chlorinated aliphatic hydrocarbons, having carbon content from one to five, utilizing free radical catalyzed processes. (This listing does not include light ends, spent filters and filter aids, spent dessicants(sic), wastewater, wastewater treatment sludges, spent catalysts, and wastes listed in § 261.32) | To be consistent with the listing for this waste stream in the RCRA regulations, the waste stream description in Table 302.4 should be changed to read as follows: “F024 * * * Process wastes, including but not limited to, distillation residues, heavy ends, tars, and reactor clean-out wastes, from the production of certain chlorinated aliphatic hydrocarbons by free redical catalyzed processes. These chlorinated aliphatic hydrocarbons are those having carbon chain lengths ranging from one to and including five, with varying amounts and positions of chlorine substitution. (This listing does not include wastewaters, wastewater treatment sludges, spent catalysts, and wastes listed in 40 CFR 261.31 or 261.32).”
K069 * * * Emission control dust/sludge from secondary lead smelting | 40 CFR 261.32 contains a note about an administrative stay for K069. To be consistent, the following note will be added to the end of this entry in Table 302.4: “(NOTE: This listing is stayed administratively for sludge generated from secondary acid scrubber systems. The stay will remain in effect until further administrative action is taken. If EPA takes further action effecting this stay, EPA will publish a notice of the action in the Federal Register.)”
K083 * * * Distillation bottoms from aniline extraction | To be consistent with the listing for this waste stream in the RCRA regulations, the word “extraction” should be changed to read “production.”
K117 * * * Wastewater from the reaction vent gas scrubber in the production of ethylene bromide via bromination of ethene | To be consistent with the listing for this waste stream in the RCRA regulations, the word “reaction” should be changed to “reactor” and the word “bromide” should be changed to “dibromide.”
K118 * * * Spent absorbent solids from purification of ethylene dibromide in the production of ethylene dibromide | To be consistent with the listing for this waste stream in the RCRA regulation, the word “absorbent” should be changed to “adsorbent” and “via bromination of ethene” should be added to the end of the entry.
K131 * * * Wastewater from the reactor and spent sulfuric acid from the acid dryer in the production of methyl bromide | To be consistent with the listing for this waste stream in the RCRA regulations, “in the production” should be changed to read “from the production.”
K132 * * * Spent absorbent and wastewater solids from the production of methyl bromide | To be consistent with the listing for this waste stream in the RCRA regulations, the word “separator” should be added between “wastewater” and “solids.”
K141 * * * Process related from the recovery of coal tar, including, but not limited to, tar collecting sump residues from the production of coke by-products produced from coal. This listing does not include K087 (decanter tank tar sludge from coking operations.) | To be consistent with the listing for this waste stream in the RCRA regulations, the waste stream description in Table 302.4 should be changed to read as follows: “K141 * * * Process residues from the recovery of coal tar, including, but not limited to, collecting sump residues from the production of coke from coal or the recovery of coke by-products produced from coal. This listing does not include K087 (decanter tank tar sludges from coking operations).”

c. What Corrections Are Being Made to Footnotes in Table 302.4?

Because EPA is removing three columns from Table 302.4, two footnotes to the table have to be changed. Footnote “1*,” which “indicates that the 1-pound RQ is a CERCLA statutory RQ,” only appears in the Statutory RQ column. Because this column is being removed from Table 302.4, footnote “1*” also should be removed. In addition, footnote “##” is being revised to clarify that statutory RQs are set at one pound.

In addition, information contained in footnotes “1,” “2,” “3,” and “4” is repetitive of information included in the note that precedes Table 302.4. Thus, these four footnotes are being removed in today's rule. Footnote “†” is being revised to indicate that the statutory sources are defined by 1, 2, 3, and 4, as described in the note that precedes Table 302.4.

d. Why Are Other Errors in Table 302.4 Not Addressed in Today's Rule?

It is important to note that EPA is aware of additional errors in Table 302.4 that are not addressed in today's rulemaking. Because these errors appear to be more than just typographical in nature, we believe that correcting them in a final rule without notice and comment may be inappropriate. For example, the hazardous waste descriptions for F003, F004, and F005 need to be changed to be consistent with the descriptions for these wastes as they appear in the RCRA regulations. However, these waste description changes may necessitate a change in the RQs for these waste streams. Changing the RQ for these wastes would be more appropriately addressed in a notice and comment rulemaking. Although more study of these and other errors is needed, EPA may propose to make additional error corrections in a future rulemaking. EPA is soliciting information from the public identifying any additional errors in Table 302.4 not covered in today's rulemaking and how such errors should be corrected. Comments received that identify such additional errors will not be considered adverse comments on today's rulemaking; rather, these comments may be considered by the Agency in any future error correction rule.

To submit such comments, send an original and two copies of comments referencing docket number 102 RQ-CORRECT to (1) if using regular U.S. Postal Service mail: Docket Coordinator, Superfund Docket Office, (Mail Code 5201G), U.S. Environmental Protection Agency Headquarters, Ariel Rios Building, 1200 Pennsylvania Avenue, NW., Washington, DC 20460; or (2) if using special delivery such as overnight express service: Superfund Docket Office, Crystal Gateway One, 1st Floor, 1235 Jefferson Davis Highway, Arlington, VA 22202.

H. Revisions to Appendix A of 40 CFR 302.4

On June 12, 1995 (60 FR 30926), EPA published a final rule that, among other things, added 47 individual CAA hazardous air pollutants to Table 302.4 and adjusted their statutory one-pound RQs. In the same rule, EPA intended to add these 47 substances to, and revise several related entries in, Appendix A to Table 302.4. Unfortunately, the table containing these Appendix A additions and revisions was inadvertently left out of the version of the rule that was published in the Federal Register.

Although several correction notices were developed immediately after publication of the rule, the Appendix A corrections were not included among them. EPA is making the Appendix A corrections for the June 12, 1995 final rule in today's rulemaking.

In addition, several other corrections are being made to typographical errors in Appendix A, as indicated in the table below. Many of these corrections are necessary to be consistent with corresponding changes to Table 302.4 that were described previously in this preamble.

Table 3.—Corrections to Entries in Appendix A to 40 CFR 302.4
Current entry in Appendix A to 40 CFR 302.4 | Change needed to correct error
Appendix A:
1,2,3-Trichloropropane (CASRN 96-18-4) | These substances do not appear in Table 302.4 and are being removed from Appendix A.
Diphenylamine (CASRN 122-39-4)
n-2,3&-Dichloropropanol (CASRN 616-23-9)
1,10-(1,2-Phenylene)pyrene (CASRN 193-39-5) | As noted previously, this synonym is no longer listed in the RCRA regulations and is being removed from Table 302.4 and Appendix A. Another name for this same substance (“Indeno(1,2,3-cd)pyrene”) remains listed in Appendix A.
CAS #108101 | The synonym “Hexone,” which already appears in Table 302.4, is being added to this entry in Appendix A.
Arsenic Acid H3As04 (CASRN 1327522) Creosote (CASRN 8001589) Cyanides (soluble salts and complexes) not otherwise specified (CASRN 57125) | As described in Table 1, these CASRNs are removed from Table 302.4 and, thus, also are being removed from Appendix A.
CAS #492808 | The second chemical name listed should be “Benzenamine, 4,4′-carbonimidoylbis (N,N- dimethyl-.” The rest of the entry, “(N,N- D,methyl-)-,” is incorrect and is being removed in today's rule.

Amendatory instruction 7, which immediately precedes appendix A to 40 CFR 302.4 in today's direct final rule, accounts for the addition of the corrected entries for all of these listings, and amendatory instruction 6 accounts for the removal of the previously listed entries that contain errors.

III. Administrative Requirements

Under Executive Order 12866 (58 FR 51735, October 4, 1993), this action is not a “significant regulatory action” and is therefore not subject to review by the Office of Management and Budget. Because the agency has made a “good cause” finding that this action is not subject to notice-and-comment requirements under the Administrative Procedure Act or any other statute (see Section I.D of today's preamble), it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This technical correction action does not involve technical standards; thus, the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the Agency makes a good cause finding that notice and public procedure is impracticable, unnecessary or contrary to the public interest. This determination must be supported by a brief statement. 5 U.S.C. 808(2).

As stated previously (see Section I.D of today's preamble), EPA has made a good cause finding for this final rule and established an effective date of September 9, 2002. EPA will submit a report containing this rule and other required information to the U.S. Senate, the U.S. House of Representatives, and the Comptroller General of the United States prior to publication of the rule in the Federal Register. This action is not a major rule as defined by 5 U.S.C. 804(2).

List of Subjects in 40 CFR Part 302

Air pollution control, Chemicals, Emergency Planning and Community Right-to-Know Act, Extremely hazardous substances, Hazardous chemicals, Hazardous materials, Hazardous materials transportation, Hazardous substances, Hazardous wastes, Intergovernmental relations, Natural resources, Pesticides and pests, Reporting and recordkeeping requirements, Superfund, Waste treatment and disposal, Water pollution control, Water supply.

Dated: June 28, 2002.
Christine Todd Whitman,
Administrator.

For the reasons set out in the preamble, Chapter I of title 40 of the Code of Federal Regulations is amended as follows:

PART 302—DESIGNATION, REPORTABLE QUANTITIES, AND NOTIFICATION

1. The authority citation for part 302 continues to read as follows:

Authority: 42 U.S.C. 9602, 9603, and 9604; 33 U.S.C. 1321 and 1361.

2. Section 302.2 is removed and reserved.

§ 302.2 [Removed and Reserved]

3. Section 302.3 is amended by revising the definitions for “Release” and “Reportable quantity” to read as follows:

§ 302.3 Definitions.

* * * * *

Release means any spilling, leaking, pumping, pouring, emitting, emptying, discharging, injecting, escaping, leaching, dumping, or disposing into the environment (including the abandonment or discarding of barrels, containers, and other closed receptacles containing any hazardous substance or pollutant or contaminant), but excludes:

(1) Any release which results in exposure to persons solely within a workplace, with respect to a claim which such persons may assert against the employer of such persons;

(2) Emissions from the engine exhaust of a motor vehicle, rolling stock, aircraft, vessel, or pipeline pumping station engine;

(3) Release of source, byproduct, or special nuclear material from a nuclear incident, as those terms are defined in the Atomic Energy Act of 1954, if such release is subject to requirements with respect to financial protection established by the Nuclear Regulatory Commission under section 170 of such Act, or for the purposes of section 104 of the Comprehensive Environmental Response, Compensation, and Liability Act or any other response action, any release of source, byproduct, or special nuclear material from any processing site designated under section 102(a)(1) or 302(a) of the Uranium Mill Tailings Radiation Control Act of 1978; and

(4) The normal application of fertilizer;

Reportable quantity (“RQ”) means that quantity, as set forth in this part, the release of which requires notification pursuant to this part;

* * * * *

4. Section 302.4 is amended by revising the note that precedes Table 302.4 and by revising table 302.4 to read as follows:

§ 302.4 Designation of hazardous substances.

* * * * *

Note: The numbers under the column headed “CASRN” are the Chemical Abstracts Service Registry Numbers for each hazardous substance. The “Statutory Code” column indicates the statutory source for designating each substance as a CERCLA hazardous substance: “1” indicates that the statutory source is section 311(b)(2) of the Clean Water Act, “2” indicates that the source is section 307(a) of the Clean Water Act, “3” indicates that the source is section 112 of the Clean Air Act, and “4” indicates that the source is section 3001 of the Resource Conservation and Recovery Act (RCRA). The “RCRA Waste Number” column provides the waste identification numbers assigned to various substances by RCRA regulations. The “Pounds (kg)” column provides the reportable quantity adjustment for each hazardous substance in pounds and kilograms. Appendix A to § 302.4, which lists CERCLA hazardous substances in sequential order by CASRN, provides a per-substance grouping of regulatory synonyms (i.e., names by which each hazardous substance is identified in other statutes and their implementing regulations).

Table 302.4.—List of Hazardous Substances and Reportable Quantities
[Note: All Comments/Notes Are Located at the End of This Table]
Hazardous substance | CASRN | Statutory code† | RCRA waste No. | Final RQ pounds (Kg)
Acenaphthene | 83-32-9 | 2 |  | 100 (45.4)
Acenaphthylene | 208-96-8 | 2 |  | 5000 (2270)
Acetaldehyde | 75-07-0 | 1,3,4 | U001 | 1000 (454)
Acetaldehyde, chloro- | 107-20- | 4 | P023 | 1000 (454)
Acetaldehyde, trichloro- | 75-87-6 | 4 | U034 | 5000 (2270)
Acetamide | 60-35-5 | 3 |  | 100 (45.4)
Acetamide, N-(aminothioxomethyl)- | 591-08-2 | 4 | P002 | 1000 (454)
Acetamide, N-(4-ethoxyphenyl)- | 62-44-2 | 4 | U187 | 100 (45.4)
Acetamide, N-9H-fluoren-2-yl- | 53-96-3 | 3,4 | U005 | 1 (0.454)
Acetamide, 2-fluoro- | 6417-640-19-7 | 4 | P057 | 100 (45.4)
Acetic acid | 64-19-7 | 1 |  | 5000 (2270)
Acetic acid, (2,4-dichlorophenoxy)-, salts & esters | 94-75-7 | 1,3,4 | U240 | 100 (45.4)
Acetic acid, ethyl ester | 141-78-6 | 4 | U112 | 5000 (2270)
Acetic acid, fluoro-, sodium salt | 62-74-8 | 4 | P058 | 10 (4.54)
Acetic acid, lead(2+) salt | 301-04-2 | 1,4 | U144 | 10 (4.54)
Acetic acid, thallium(1+) salt | 563-68-8 | 4 | U214 | 100 (45.4)
Acetic acid, (2,4,5-trichlorophenoxy)- | 93-76-5 | 1,4 | See F027 | 1000 (454)
Acetic anhydride | 108-24-7 | 1 |  | 5000 (2270)
Acetone | 67-64-1 | 4 | U002 | 5000 (2270)
Acetone cyanohydrin | 75-86-5 | 1,4 | P069 | 10 (4.54)
Acetonitrile | 75-05-8 | 3,4 | U003 | 5000 (2270)
Acetophenone | 98-86-2 | 3,4 | U004 | 5000 (2270)
2-Acetylaminofluorene | 53-96-3 | 3,4 | U005 | 1 (0.454)
Acetyl bromide | 506-96-7 | 1 |  | 5000 (2270)
Acetyl chloride | 75-36-5 | 1,4 | U006 | 5000 (2270)
1-Acetyl-2-thiourea | 591-08-2 | 4 | P002 | 1000 (454)
Acrolein | 107-02-8 | 1,2,3,4 | P003 | 1 (0.454)
Acrylamide | 79-06-1 | 3,4 | U007 | 5000 (2270)
Acrylic acid | 79-10-7 | 3,4 | U008 | 5000 (2270)
Acrylonitrile | 107-13-1 | 1,2,3,4 | U009 | 100 (45.4)
Adipic acid | 124-04-9 | 1 |  | 5000 (2270)
Aldicarb | 116-06-3 | 4 | P070 | 1 (0.454)
Aldrin | 309-00-2 | 1,2,4 | P004 | 1 (0.454)
Allyl alcohol | 107-18-6 | 1,4 | P005 | 100 (45.4)
Allyl chloride | 107-05-1 | 1,3 |  | 1000 (454)
Aluminum phosphide | 20859-73-8 | 4 | P006 | 100 (45.4)
Aluminum sulfate | 10043-01-3 | 1 |  | 5000 (2270)
4-Aminobiphenyl | 92-67-1 | 3 |  | 1 (0.454)
5-(Aminomethyl)-3-isoxazolol | 2763-96-4 | 4 | P007 | 1000 (454)
4-Aminopyridine | 504-24-5 | 4 | P008 | 1000 (454)
Amitrole | 61-82-5 | 4 | U011 | 10 (4.54)
Ammonia | 7664-41-7 | 1 |  | 100 (45.4)
Ammonium acetate | 631-61-8 | 1 |  | 5000 (2270)
Ammonium benzoate | 1863-63-4 | 1 |  | 5000 (2270)
Ammonium bicarbonate | 1066-33-7 | 1 |  | 5000 (2270)
Ammonium bichromate | 7789-09-5 | 1 |  | 10 (4.54)
Ammonium bifluoride | 1341-49-7 | 1 |  | 100 (45.4)
Ammonium bisulfilte | 10192-30-0 | 1 |  | 5000 (2270)
Ammonium carbamate | 1111-78-0 | 1 |  | 5000 (2270)
Ammonium carbonate | 506-87-6 | 1 |  | 5000 (2270)
Ammonium chloride | 12125-02-9 | 1 |  | 5000 (2270)
Ammonium chromate | 7788-98-9 | 1 |  | 10 (4.54)
Ammonium citrate, dibasic | 3012-65-5 | 1 |  | 5000 (2270)
Ammonium fluoborate | 13826-83-0 | 1 |  | 5000 (2270)
Ammonium fluoride | 12125-01-8 | 1 |  | 100 (45.4)
Ammonium hydroxide | 1336-21-6 | 1 |  | 1000 (454)
Ammonium oxalate | 6009-70-7 5972-73-6 14258-49-2 | 1 |  | 5000 (2270)
Ammonium picrate | 131-74-8 | 4 | P009 | 10 (4.54)
Ammonium silicofluoride | 16919-19-0 | 1 |  | 1000 (454)
Ammonium sulfamate | 7773-06-0 | 1 |  | 5000 (2270)
Ammonium sulfide | 12135-76-1 | 1 |  | 100 (45.4)
Ammonium sulfite | 10196-04-0 | 1 |  | 5000 (2270)
Ammonium tartrate | 14307-43-8 3164-29-2 | 1 |  | 5000 (2270)
Ammonium thiocyanate | 1762-95-4 | 1 |  | 5000 (2270)
Ammonium vanadate | 7803-55-6 | 4 | P119 | 1000 (454)
Amyl acetate | 628-63-7 | 1 |  | 5000 (2270)
iso-Amyl acetate | 123-92-2
sec-Amyl acetate | 626-38-0
tert-Amyl acetate | 625-16-1
Aniline | 62-53-3 | 1,3,4 | U012 | 5000 (2270)
o-Anisidine | 90-04-0 | 3 |  | 100 (45.4)
Anthracene | 120-12-7 | 2 |  | 5000 (2270)
Antimony†† | 7440-36-0 | 2 |  | 5000 (2270)
ANTIMONY AND COMPOUNDS | N.A. | 2,3 |  | **
Antimony Compounds | N.A. | 2,3 |  | **
Antimony pentachloride | 7647-18-9 | 1 |  | 1000 (454)
Antimony potassium tartrate | 28300-74-5 | 1 |  | 100 (45.4)
Antimony tribromide | 7789-61-9 | 1 |  | 1000 (454)
Antimony trichloride | 10025-91-9 | 1 |  | 1000 (454)
Antimony trifluoride | 7783-56-4 | 1 |  | 1000 (454)
Antimony trioxide | 1309-64-4 | 1 |  | 1000 (454)
Argentate(1-), bis(cyano-C)-, potassium | 506-61-6 | 4 | P099 | 1 (0.454)
Aroclor 1016 | 12674-11-2 | 1,2,3 |  | 1 (0.454)
Aroclor 1221 | 11104-28-2 | 1,2,3 |  | 1 (0.454)
Aroclor 1232 | 11141-16-5 | 1,2,3 |  | 1 (0.454)
Aroclor 1242 | 53469-21-9 | 1,2,3 |  | 1 (0.454)
Aroclor 1248 | 12672-29-6 | 1,2,3 |  | 1 (0.454)
Aroclor 1254 | 11097-69-1 | 1,2,3 |  | 1 (0.454)
†Aroclor 1260 | 11096-82-5 | 1,2,3 |  | 1 (0.454)
Aroclors | 1336-36-3 | 1,2,3 |  | 1 (0.454)
Arsenic†† | 7440-38-2 | 2,3 |  | 1 (0.454)
Arsenic acid H3AsO4 | 7778-39-4 | 4 | P010 | 1 (0.454)
ARSENIC AND COMPOUNDS | N.A. | 2,3 |  | **
Arsenic Compounds (inorganic including arsine) | N.A. | 2,3 |  | **
Arsenic disulfide | 1303-32-8 | 1 |  | 1 (0.454)
Arsenic oxide As2O3 | 1327-53-3 | 1,4 | P012 | 1 (0.454)
Arsenic oxide As2O5 | 1303-28-2 | 1,4 | P011 | 1 (0.454)
Arsenic pentoxide | 1303-28-2 | 1,4 | P011 | 1 (0.454)
Arsenic trichloride | 7784-34-1 | 1 |  | 1 (0.454)
Arsenic trioxide | 1327-53-3 | 1,4 | P012 | 1 (0.454)
Arsenic trisulfide | 1303-33-9 | 1 |  | 1 (0.454)
Arsine, diethyl- | 692-42-2 | 4 | P038 | 1 (0.454)
Arsinic acid, dimethyl- | 75-60-5 | 4 | U136 | 1 (0.454)
Arsonous dichloride, phenyl- | 696-28-6 | 4 | P036 | 1 (0.454)
Asbestos††† | 1332-21-4 | 2,3 |  | 1 (0.454)
Auramine | 492-80-8 | 4 | U014 | 100 (45.4)
Azaserine | 115-02-6 | 4 | U015 | 1 (0.454)
Aziridine | 151-56-4 | 3,4 | P054 | 1 (0.454)
Aziridine, 2-methyl- | 75-55-8 | 3,4 | P067 | 1 (0.454)
Azirino[2',3':3,4]pyrrolo[1,2-a]indole-4,7-dione, 6-amino-8-[[( aminocarbonyl)oxy]methyl]-1,1a,2,8,8a,8b- hexahydro-8a-methoxy-5- methyl-,[1aS- (1aalpha,8beta,8aalpha, 8balpha)]- | 50-07-7 | 4 | U010 | 10 (4.54)
Barium cyanide | 542-62-1 | 1,4 | P013 | 10 (4.54)
Benz[j]aceanthrylene, 1,2-dihydro-3-methyl- | 56-49-5 | 4 | U157 | 10 (4.54)
Benz[c]acridine | 225-51-4 | 4 | U016 | 100 (45.4)
Benzal chloride | 98-87-3 | 4 | U017 | 5000 (2270)
Benzamide, 3,5-dichloro-N-(1,1-dimethyl-2-58-5 propynyl)- | 23950-58-5 | 4 | U192 | 5000 (2270)
Benz[a]anthracene | 56-55-3 | 2,4 | U018 | 10 (4.54)
1,2-Benzanthracene | 56-55-3 | 2,4 | U018 | 10 (4.54)
Benz[a]anthracene, 7,12-dimethyl- | 57-97-6 | 4 | U094 | 1 (0.454)
Benzenamine | 62-53-3 | 1,3,4 | U012 | 5000 (2270)
Benzenamine, 4,4'-carbonimidoylbis (N,N dimethyl- | 492-80-8 | 4 | U014 | 100 (45.4)
Benzenamine, 4-chloro- | 106-47-8 | 4 | P024 | 1000 (454)
Benzenamine, 4-chloro-2-methyl-, hydrochloride | 3165-93-3 | 4 | U049 | 100 (45.4)
Benzenamine, N,N-dimethyl-4-(phenylazo)- | 60-11-7 | 3,4 | U093 | 10 (4.54)
Benzenamine, 2-methyl- | 95-53-4 | 3,4 | U328 | 100 (45.4)
Benzenamine, 4-methyl- | 106-49-0 | 4 | U353 | 100 (45.4)
Benzenamine, 4,4'-methylenebis [2-chloro- | 101-14-4 | 3,4 | U158 | 10 (4.54)
Benzenamine, 2-methyl-,hydrochloride | 636-21-5 | 4 | U222 | 100 (45.4)
Benzenamine, 2-methyl-5-nitro- | 99-55-8 | 4 | U181 | 100 (45.4)
Benzenamine, 4-nitro- | 100-01-6 | 4 | P077 | 5000 (2270)
Benzene ᵃ | 71-43-2 | 1,2,3,4 | U019 | 10 (4.54)
Benzeneacetic acid, 4-chloro-α-(4-chlorophenyl)- α-hydroxy-, ethyl ester | 510-15-6 | 3,4 | U038 | 10 (4.54)
Benzene, 1-bromo-4-phenoxy- | 101-55-3 | 2,4 | U030 | 100 (45.4)
Benzenebutanoic acid, 4-[bis(2- chloroethyl)amino]- | 305-03-3 | 4 | U035 | 10 (4.54)
Benzene, chloro- | 108-90-7 | 1,2,3,4 | U037 | 100 (45.4)
Benzene, (chloromethyl)- | 100-44-7 | 1,3,4 | P028 | 100 (45.4)
Benzenediamine, ar-methyl- | 95-80-7 496-72- 0 823-40- 5 25376- 45-8 | 3,4 | U221 | 10 (4.54)
1,2-Benzenedicarboxylic acid, bis(2-ethylhexyl) ester | 117-81-7 | 2,3,4 | U028 | 100 (45.4)
1,2-Benzenedicarboxylic acid, dibutyl ester | 84-74-2 | 1,2,3,4 | U069 | 10 (4.54)
1,2-Benzenedicarboxylic acid, diethyl ester | 84-66-2 | 2,4 | U088 | 1000 (454)
1,2-Benzenedicarboxylic acid, dimethyl ester | 131-11-3 | 2,3,4 | U102 | 5000 (2270)
1,2-Benzenedicarboxylic acid, dioctyl ester | 117-84-0 | 2,4 | U107 | 5000 (2270)
Benzene, 1,2-dichloro- | 95-50-1 | 1,2,4 | U070 | 100 (45.4)
Benzene, 1,3-dichloro- | 541-73-1 | 2,4 | U071 | 100 (45.4)
Benzene, 1,4-dichloro- | 106-46-7 | 1,2,3,4 | U072 | 100 (45.4)
Benzene, 1,1'-(2,2-dichloroethylidene) bis[4-chloro- | 72-54-8 | 1,2,4 | U060 | 1 (0.454)
Benzene, (dichloromethyl)- | 98-87-3 | 4 | U017 | 5000 (2270)
Benzene, 1,3-diisocyanatomethyl- | 91-08-7 584-84-9 26471-62-5 | 3,4 | U223 | 100 (45.4)
Benzene, dimethyl- | 1330-20-7 | 1,3,4 | U239 | 100 (45.4)
1,3-Benzenediol | 108-46-3 | 1,4 | U201 | 5000 (2270)
1,2-Benzenediol,4-[1-hydroxy-2-(methyl amino)ethyl]- | 51-43-4 | 4 | P042 | 1000 (454)
Benzeneethanamine, alpha,alpha-dimethyl- | 122-09-8 | 4 | P046 | 5000 (2270)
Benzene, hexachloro- | 118-74-1 | 2,3,4 | U127 | 10 (4.54)
Benzene, hexahydro- | 110-82-7 | 1,4 | U056 | 1000 (454)
Benzene, methyl- | 108-88-3 | 1,2,3,4 | U220 | 1000 (454)
Benzene, 1-methyl-2,4-dinitro- | 121-14-2 | 1,2,3,4 | U105 | 10 (4.54)
Benzene, 2-methyl-1,3-dinitro- | 606-20-2 | 1,2,4 | U106 | 100 (45.4)
Benzene, (1-methylethyl)- | 98-82-8 | 3,4 | U055 | 5000 (2270)
Benzene, nitro- | 98-95-3 | 1,2,3,4 | U169 | 1000 (454)
Benzene, pentachloro- | 608-93-5 | 4 | U183 | 10 (4.54)
Benzene, pentachloronitro- | 82-68-8 | 3,4 | U185 | 100 (45.4)
Benzenesulfonic acid chloride | 98-09-9 | 4 | U020 | 100 (45.4)
Benzenesulfonyl chloride | 98-09-9 | 4 | U020 | 100 (45.4)
Benzene,1,2,4,5-tetrachloro- | 95-94-3 | 4 | U207 | 5000 (2270)
Benzenethiol | 108-98-5 | 4 | P014 | 100 (45.4)
Benzene,1,1'-(2,2,2-trichloroethylidene) bis[4-chloro- | 50-29-3 | 1,2,4 | U061 | 1 (0.454)
Benzene,1,1'-(2,2,2-trichloroethylidene) bis[4-methoxy- | 72-43-5 | 1,3,4 | U247 | 1 (0.454)
Benzene, (trichloromethyl)- | 98-07-7 | 3,4 | U023 | 10 (4.54)
Benzene, 1,3,5-trinitro- | 99-35-4 | 4 | U234 | 10 (4.54)
Benzidine | 92-87-5 | 2,3,4 | U021 | 1 (0.454)
1,2-Benzisothiazol-3(2H)-one, 1,1-dioxide, & salts | 81-07-2 | 4 | U202 | 100 (45.4)
Benzo[a]anthracene | 56-55-3 | 2,4 | U018 | 10 (4.54)
1,3-Benzodioxole, 5-(1-propenyl)-1 | 120-58-1 | 4 | U141 | 100 (45.4)
1,3-Benzodioxole, 5-(2-propenyl)- | 94-59-7 | 4 | U203 | 100 (45.4)
1,3-Benzodioxole, 5-propyl- | 94-58-6 | 4 | U090 | 10 (4.54)
1,3-Benzodioxol-4-ol, 2,2-dimethyl-, (Bendiocarb phenol) | 22961-82-6 | 4 | U364 | ##
1,3-Benzodioxol-4-ol, 2,2-dimethyl-, methyl carbamate (Bendiocarb) | 22781-23-3 | 4 | U278 | ##
Benzo[b]fluoranthene | 205-99-2 | 2 |  | 1 (0.454)
Benzo(k)fluoranthene | 207-08-9 | 2 |  | 5000 (2270)
7-Benzofuranol, 2,3-dihydro-2,2-dimethyl- (Carbofuran phenol) | 1563-38-8 | 4 | U367 | ##
7-Benzofuranol, 2,3-dihydro-2,2- dimethyl-, methylcarbamate | 1563-66-2 | 1,4 | P127 | 10 (4.54)
Benzoic acid | 65-85-0 | 1 |  | 5000 (2270)
Benzoic acid, 2-hydroxy-, compd. with (3aS- cis)-1,2,3,3a,8,8a- hexahydro-1,3a,8- trimethylpyrrolo [2,3- b]indol-5-yl methylcarbamate ester (1:1) (Physostigmine salicylate) | 57-64-7 | 4 | P188 | ##
Benzonitrile | 100-47-0 | 1 | — | 5000 (2270)
Benzo[rst]pentaphene | 189-55-9 | 4 | U064 | 10 (4.54)
Benzo[ghi]perylene | 191-24-2 | — | — | 5000 (2270)
2H-1-Benzopyran-2-one, 4-hydroxy-3-(3-oxo- 1-phenylbutyl)-, & salts | 81-81-2 | 4 | P001 U248 | 100 (45.4)
Benzo[a]pyrene | 50-32-8 | 2,4 | U022 | 1 (0.454)
3,4-Benzopyrene | 50-32-8 | 2,4 | U022 | 1 (0.454)
r-Benzoquinone | 106-51-4 | 3,4 | U197 | 10 (4.54)
Benzotrichloride | 98-07-7 | 3,4 | U023 | 10 (4.54)
Benzoyl chloride | 98-88-4 | 1 | — | 1000 (454)
Benzyl chloride | 100-44-7 | 1,3,4 | P028 | 100 (45.4)
Beryllium †† | 7440-41-7 | 2,3,4 | P015 | 10 (4.54)
BERYLLIUM AND COMPOUNDS | N.A. | 2,3 |  | **
Beryllium chloride | 7787-47-5 | 1 |  | 1 (0.454)
Beryllium compounds | N.A. | 2,3 |  | **
Beryllium fluoride | 7787-49-7 | 1 |  | 1 (0.454)
Beryllium nitrate | 13597-99-4 7787-55-5 | 1 |  | 1 (0.454)
Beryllium powder †† | 7440-41-7 | 2,3,4 | P015 | 10 (4.54)
alpha-BHC | 319-84-6 | 2 |  | 10 (4.54)
beta-BHC | 319-85-7 | 2 |  | 1 (0.454)
delta-BHC | 319-86-8 | 2 |  | 1 (0.454)
gamma-BHC | 58-89-9 | 1,2,3,4 | U129 | 1 (0.454)
2,2′-Bioxirane | 1464-53-5 | 4 | U085 | 10 (4.54)
Biphenyl | 92-52-4 | 3 |  | 100 (45.4)
[1,1′-Biphenyl]-4,4′-diamine | 92-87-5 | 2,3,4 | U021 | 1 (0.454)
[1,1′-Biphenyl]-4,4′-diamine,3,3′-dichloro- | 91-94-1 | 2,3,4 | U073 | 1 (0.454)
[1,1′-Biphenyl]-4,4′-diamine,3,3′-dimethoxy- | 119-90-4 | 3,4 | U091 | 100 (45.4)
[1,1′-Biphenyl]-4,4′-diamine,3,3′-dimethyl- | 119-93-7 | 3,4 | U095 | 10 (4.54)
Bis(2-chloroethoxy) methane | 111-91-1 | 2,4 | U024 | 1000 (454)
Bis(2-chloroethyl) ether | 111-44-4 | 2,3,4 | U025 | 10 (4.54)
Bis(chloromethyl) ether | 542-88-1 | 2,3,4 | P016 | 10 (4.54)
Bis(2-ethylhexyl) phthalate | 117-81-7 | 3,4 | U028 | 100 (45.4)
Bromoacetone | 598-31-2 | 4 | P017 | 1000 (454)
Bromoform | 75-25-2 | 2,3,4 | U225 | 100 (45.4)
Bromomethane | 74-83-9 | 2,3,4 | U029 | 1000 (454)
4-Bromophenyl phenyl ether | 101-55-3 | 2,4 | U030 | 100 (45.4)
Brucine | 357-57-3 | 4 | P018 | 100 (45.4)
1,3-Butadiene | 106-99-0 | 3 |  | 10 (4.54)
1,3-Butadiene, 1,1,2,3,4,4-hexachloro- | 87-68-3 | 2,3,4 | U128 | 1 (0.454)
1-Butanamine, N-butyl-N-nitroso- | 924-16-3 | 4 | U172 | 10 (4.54)
1-Butanol | 71-36-3 | 4 | U031 | 5000 (2270)
2-Butanone | 78-93-3 | 3,4 | U159 | 5000 (2270)
2-Butanone, 3,3-dimethyl-1(methylthio)-, O-[(methylamino)carbonyl] oxime | 39196-18-4 | 4 | P045 | 100 (45.4)
2-Butanone peroxide | 1338-23-4 | 4 | U160 | 10 (4.54)
2-Butenal | 123-73-9 4170-30-3 | 1,4 | U053 | 100 (45.4)
2-Butene, 1,4-dichloro- | 764-41-0 | 4 | U074 | 1 (0.454)
2-Butenoic acid, 2-methyl-, 7-[[2,3-dihydroxy-2-(1-methoxyethyl)-3- methyl-1-oxobutoxy] methyl]-2,3, 5,7a-tetrahydro- 1H-pyrrolizin-1-yl ester, [1S-[1alpha(Z), 7(2S*,3R*),7aalpha]]- | 303-34-4 | 4 | U143 | 10 (4.54)
Butyl acetate | 123-86-4 | 1 |  | 5000 (2270)
iso-Butyl acetate | 110-19-0 |  |  |
sec-Butyl acetate | 105-46-4 |  |  |
tert-Butyl acetate | 540-88-5 |  |  |
n-Butyl alcohol | 71-36-3 | 4 | U031 | 5000 (2270)
Butylamine | 109-73-9 | 1 |  | 1000 (454)
iso-Butylamine | 78-81-9 |  |  |
sec-Butylamine | 513-49-5 13952-84-6 |  |  |
tert-Butylamine | 75-64-9 |  |  |
Butyl benzyl phthalate | 85-68-7 | 2 |  | 100 (45.4)
n-Butyl phthalate | 84-74-2 | 1,2,3,4 | U069 | 10 (4.54)
Butyric acid | 107-92-6 | 1 |  | 5000 (2270)
iso-Butyric acid | 79-31-2 |  |  |
Cacodylic acid | 75-60-5 | 4 | U136 | 1 (0.454)
Cadmium †† | 7440-43-9 | 2 |  | 10 (4.54)
Cadmium acetate | 543-90-8 | 1 |  | 10 (4.54)
CADMIUM AND COMPOUNDS | N.A. | 2,3 |  | **
Cadmium bromide | 7789-42-6 | 1 |  | 10 (4.54)
Cadmium chloride | 10108-64-2 | 1 |  | 10 (4.54)
Cadmium compounds | N.A. | 2,3 |  | **
Calcium arsenate | 7778-44-1 | 1 |  | 1 (0.454)
Calcium arsenite | 52740-16-6 | 1 |  | 1 (0.454)
Calcium carbide | 75-20-7 | 1 |  | 10 (4.54)
Calcium chromate | 13765-19-0 | 1,4 | U032 | 10 (4.54)
Calcium cyanamide | 156-62-7 | 3 |  | 1000 (454)
Calcium cyanide Ca(CN)2 | 592-01-8 | 1,4 | P021 | 10 (4.54)
Calcium dodecylbenzenesulfonate | 26264-06-2 | 1 |  | 1000 (454)
Calcium hypochlorite | 7778-54-3 | 1 |  | 10 (4.54)
Captan | 133-06-2 | 1,3 |  | 10 (4.54)
Carbamic acid, 1H-benzimidazol-2-yl, methyl ester (Carbendazim) | 10605-21-7 | 4 | U372 | ##
Carbamic acid, [1-[(butylamino)carbonyl]-1H-benzimidazol-2-yl]-, methyl ester (Benomyl) | 17804-35-2 | 4 | U271 | ##
Carbamic acid, (3-chlorophenyl)-, 4-chloro-2-butynyl ester (Barban) | 101-27-9 | 4 | U280 | ##
Carbamic acid, [(dibutylamino)thio]methyl-, 2,3-dihydro-2,2-dimethyl-7-benzofuranyl ester (Carbosulfan) | 55285-14-8 | 4 | P189 | ##
Carbamic acid, dimethyl-,1-[(dimethylamino)carbonyl]-5-methyl-1H-pyrazol-3-yl ester (Dimetilan) | 644-64-4 | 4 | P191 | ##
Carbamic acid, dimethyl-, 3-methyl-1-(1-methylethyl)-1H-pyrazol-5-yl ester (Isolan) | 119-38-0 | 4 | P192 | ##
Carbamic acid, ethyl ester | 51-79-6 | 3,4 | U238 | 100 (45.4)
Carbamic acid, methyl-, 3-methylphenyl ester (Metolcarb) | 1129-41-5 | 4 | P190 | ##
Carbamic acid, methylnitroso-, ethyl ester | 615-53-2 | 4 | U178 | 1 (0.454)
Carbamic acid, [1,2-phenylenebis(iminocarbonothioyl)] bis-, dimethyl ester (Thiophanate-methyl) | 23564-05-8 | 4 | U409 | ##
Carbamic acid, phenyl-, 1-methylethyl ester (Propham) | 122-42-9 | 4 | U373 | ##
Carbamic chloride, dimethyl- | 79-44-7 | 3,4 | U097 | 1 (0.454)
Carbamodithioic acid, 1,2-ethanediylbis-, salts & esters | 111-54-6 | 4 | U114 | 5000 (2270)
Carbamothioic acid, bis(1-methylethyl)-, S-(2,3-dichloro-2- propenyl) ester | 2303-16-4 | 4 | U062 | 100 (45.4)
Carbamothioic acid, bis(1-methylethyl)-, S-(2,3,3-trichloro-2- propenyl) ester (Triallate) | 2303-17-5 | 4 | U389 | ##
Carbamothioic acid, dipropyl-, S - (phenylmethyl) ester (Prosulfocarb) | 52888-80-9 | 4 | U387 | ##
Carbaryl | 63-25-2 | 1,3,4 | U279 | 100 (45.4)
Carbofuran | 1563-66-2 | 1,4 | P127 | 10 (4.54)
Carbon disulfide | 75-15-0 | 1,3,4 | P022 | 100 (45.4)
Carbonic acid, dithallium(1+) salt | 6533-73-9 | 4 | U215 | 100 (45.4)
Carbonic dichloride | 75-44-5 | 1,3,4 | P095 | 10 (4.54)
Carbonic difluoride | 353-50-4 | 4 | U033 | 1000 (454)
Carbonochloridic acid, methyl ester | 79-22-1 | 4 | U156 | 1000 (454)
Carbon oxyfluoride | 353-50-4 | 4 | U033 | 1000 (454)
Carbon tetrachloride | 56-23-5 | 1,2,3,4 | U211 | 10 (4.54)
Carbonyl sulfide | 463-58-1 | 3 |  | 100 (45.4)
Catechol | 120-80-9 | 3 |  | 100 (45.4)
Chloral | 75-87-6 | 4 | U034 | 5000 (2270)
Chloramben | 133-90-4 | 3 |  | 100 (45.4)
Chlorambucil | 305-03-3 | 4 | U035 | 10 (4.54)
Chlordane | 57-74-9 | 1,2,3,4 | U036 | 1 (0.454)
Chlordane, alpha & gamma isomers | 57-74-9 | 1,2,3,4 | U036 | 1 (0.454)
CHLORDANE (TECHNICAL MIXTURE AND METABOLITES) | 57-74-9 | 1,2,3,4 | U036 | 1 (0.454)
CHLORINATED BENZENES | N.A. | 2 |  | **
Chlorinated camphene | 8001-35-2 | 1,2,3,4 | P123 | 1 (0.454)
CHLORINATED ETHANES | N.A. | 2 |  | **
CHLORINATED NAPHTHALENE | N.A. | 2 |  | **
CHLORINATED PHENOLS | N.A. | 2 |  | **
Chlorine | 7782-50-5 | 1,3 |  | 10 (4.54)
Chlornaphazine | 494-03-1 | 4 | U026 | 100 (45.4)
Chloroacetaldehyde | 107-20-0 | 4 | P023 | 1000 (454)
Chloroacetic acid | 79-11-8 | 3 |  | 100 (45.4)
2-Chloroacetophenone | 532-27-4 | 3 |  | 100 (45.4)
CHLOROALKYL ETHERS | N.A. | 2 |  | **
p-Chloroaniline | 106-47-8 | 4 | P024 | 1000 (454)
Chlorobenzene | 108-90-7 | 1,2,3,4 | U037 | 100 (45.4)
Chlorobenzilate | 510-15-6 | 3,4 | U038 | 10 (4.54)
p-Chloro-m-cresol | 59-50-7 | 2,4 | U039 | 5000 (2270)
Chlorodibromomethane | 124-48-1 | 2 |  | 100 (45.4)
1-Chloro-2,3-epoxypropane | 106-89-8 | 1,3,4 | U041 | 100 (45.4)
Chloroethane | 75-00-3 | 2,3 |  | 100 (45.4)
2-Chloroethyl vinyl ether | 110-75-8 | 2,4 | U042 | 1000 (454)
Chloroform | 67-66-3 | 1,2,3,4 | U044 | 10 (4.54)
Chloromethane | 74-87-3 | 2,3,4 | U045 | 100 (45.4)
Chloromethyl methyl ether | 107-30-2 | 3,4 | U046 | 10 (4.54)
beta-Chloronaphthalene | 91-58-7 | 2,4 | U047 | 5000 (2270)
2-Chloronaphthalene | 91-58-7 | 2,4 | U047 | 5000 (2270)
2-Chlorophenol | 95-57-8 | 2,4 | U048 | 100 (45.4)
o-Chlorophenol | 95-57-8 | 2,4 | U048 | 100 (45.4)
4-Chlorophenyl phenyl ether | 7005-72-3 | 2 |  | 5000 (2270)
1-(o-Chlorophenyl)thiourea | 5344-82-1 | 4 | P026 | 100 (45.4)
Chloroprene | 126-99-8 | 3 |  | 100 (45.4)
3-Chloropropionitrile | 542-76-7 | 4 | P027 | 1000 (454)
Chlorosulfonic acid | 7790-94-5 | 1 |  | 1000 (454)
4-Chloro-o-toluidine, hydrochloride | 3165-93-3 | 4 | U049 | 100 (45.4)
Chlorpyrifos | 2921-88-2 | 1 |  | 1 (0.454)
Chromic acetate | 1066-30-4 | 1 |  | 1000 (454)
Chromic acid | 11115-74-5 7738-94-5 | 1 |  | 10 (4.54)
Chromic acid H2CrO4, calcium salt | 13765-19-0 | 1,4 | U032 | 10 (4.54)
Chromic sulfate | 10101-53-8 | 1 |  | 1000 (454)
Chromium †† | 7440-47-3 | 2 |  | 5000 (2270)
CHROMIUM AND COMPOUNDS | N.A. | 2,3 |  | **
Chromium Compounds | N.A. | 2,3 |  | **
Chromous chloride | 10049-05-5 | 1 |  | 1000 (454)
Chrysene | 218-01-9 | 2,4 | U050 | 100 (45.4)
Cobalt Compounds | N.A. | 3 |  | **
Cobaltous bromide | 7789-43-7 | 1 |  | 1000 (454)
Cobaltous formate | 544-18-3 | 1 |  | 1000 (454)
Cobaltous sulfamate | 14017-41-5 | 1 |  | 1000 (454)
Coke Oven Emissions | N.A. | 3 |  | 1 (0.454)
Copper †† | 7440-50-8 | 2 |  | 5000 (2270)
COPPER AND COMPOUNDS | N.A. | 2 |  | **
Copper cyanide Cu(CN) | 544-92-3 | 4 | P029 | 10 (4.54)
Coumaphos | 56-72-4 | 1 |  | 10 (4.54)
Creosote | N.A. | 4 | U051 | 1 (0.454)
Cresol (cresylic acid) | 1319-77-3 | 1,3,4 | U052 | 100 (45.4)
m-Cresol | 108-39-4 | 3 |  | 100 (45.4)
o-Cresol | 95-48-7 | 3 |  | 100 (45.4)
p-Cresol | 106-44-5 | 3 |  | 100 (45.4)
Cresols (isomers and mixture) | 1319-77-3 | 1,3,4 | U052 | 100 (45.4)
Cresylic acid (isomers and mixture) | 1319-77-3 | 1,3,4 | U052 | 100 (45.4)
Crotonaldehyde | 123-73-9 4170-30-3 | 1,4 | U053 | 100 (45.4)
Cumene | 98-82-8 | 3,4 | U055 | 5000 (2270)
Cupric acetate | 142-71-2 | 1 |  | 100 (45.4)
Cupric acetoarsenite | 12002-03-8 | 1 |  | 1 (0.454)
Cupric chloride | 7447-39-4 | 1 |  | 10 (4.54)
Cupric nitrate | 3251-23-8 | 1 |  | 100 (45.4)
Cupric oxalate | 589366-3 | 1 |  | 100 (45.4)
Cupric sulfate | 7758-98-7 | 1 |  | 10 (4.54)
Cupric sulfate, ammoniated | 10380-29-7 | 1 |  | 100 (45.4)
Cupric tartrate | 815-82-7 | 1 |  | 100 (45.4)
Cyanide Compounds | N.A. | 2,3 |  | **
CYANIDES | N.A. | 2,3 |  | **
Cyanides (soluble salts and complexes) not otherwise specified | N.A. | 4 | P030 | 10 (4.54)
Cyanogen | 460-19-5 | 4 | P031 | 100 (45.4)
Cyanogen bromide (CN)Br | 506-68-3 | 4 | U246 | 1000 (454)
Cyanogen chloride (CN)Cl | 506-77-4 | 1,4 | P033 | 10 (4.54)
2,5-Cyclohexadiene-1,4-dione | 106-51-4 | 3,4 | U197 | 10 (4.54)
Cyclohexane | 110-82-7 | 1,4 | U056 | 1000 (454)
Cyclohexane, 1,2,3,4,5,6-hexachloro-, (1α, 2α, 3β, 4α, 5α, 6β) | 58-89-9 | 1,2,3,4 | U129 | 1 (0.454)
Cyclohexanone | 108-94-1 | 4 | U057 | 5000 (2270)
2-Cyclohexyl-4,6-dinitrophenol | 131-89-5 | 4 | P034 | 100 (45.4)
1,3-Cyclopentadiene, 1,2,3,4,5,5-hexachloro- | 77-47-4 | 1,2,3,4 | U130 | 10 (4.54)
Cyclophosphamide | 50-18-0 | 4 | U058 | 10 (4.54)
2,4-D Acid | 94-75-7 | 1,3,4 | U240 | 100 (45.4)
2,4-D Ester | 94-11-1 94-79-1 94-80-4 1320-18-9 1928-38-7 1928-61-6 1929-73-3 2971-38-2 25168-26-7 53467-11-1 | 1 |  | 100 (45.4)
2,4-D, salts and esters | 94-75-7 | 1,3,4 | U240 | 100 (45.4)
Daunomycin | 20830-81-3 | 4 | U059 | 10 (4.54)
DDD | 72-54-8 | 1,2,4 | U060 | 1 (0.454)
4,4′-DDD | 72-54-8 | 1,2,4 | U060 | 1 (0.454)
DDE ᵇ | 72-55-9 | 2 |  | 1 (0.454)
DDE ᵇ | 3547-04-4 | 3 |  | 5000 (2270)
4,4′-DDE | 72-55-9 | 2 |  | 1 (0.454)
DDT | 50-29-3 | 1,2,4 | U061 | 1 (0.454)
4,4′-DDT | 50-29-3 | 1,2,4 | U061 | 1 (0.454)
DDT AND METABOLITES | N.A. | 2 |  | **
DEHP | 117-81-7 | 2,3,4 | U028 | 100 (45.4)
Diallate | 2303-16-4 | 4 | U062 | 100 (45.4)
Diazinon | 333-41-5 | 1 |  | 1 (0.454)
Diazomethane | 334-88-3 | 3 |  | 100 (45.4)
Dibenz[a,h]anthracene | 53-70-3 | 2,4 | U063 | 1 (0.454)
1,2:5,6-Dibenzanthracene | 53-70-3 | 2,4 | U063 | 1 (0.454)
Dibenzo[a,h]anthracene | 53-70-3 | 2,4 | U063 | 1 (0.454)
Dibenzofuran | 132-64-9 | 3 |  | 100 (45.4)
Dibenzo[a,i]pyrene | 189-55-9 | 4 | U064 | 10 (4.54)
1,2-Dibromo-3-chloropropane | 96-12-8 | 3,4 | U066 | 1 (0.454)
Dibromoethane | 106-93-4 | 1,3,4 | U067 | 1 (0.454)
Dibutyl phthalate | 84-74-2 | 1,2,3,4 | U069 | 10 (4.54)
Di-n-butyl phthalate | 84-74-2 | 1,2,3,4 | U069 | 10 (4.54)
Dicamba | 1918-00-9 | 1 |  | 1000 (454)
Dichlobenil | 1194-1-65-6 | 1 |  | 100 (45.4)
Dichlone | 117-80-6 | 1 |  | 1 (0.454)
Dichlorobenzene | 25321-22-6 | 1 |  | 100 (45.4)
1,2-Dichlorobenzene | 95-50-1 | 1,2,4 | U070 | 100 (45.4)
1,3-Dichlorobenzene | 541-73-1 | 2,4 | U071 | 100 (45.4)
1,4-Dichlorobenzene | 106-46-7 | 1,2,3,4 | U072 | 100 (45.4)
m-Dichlorobenzene | 541-73-1 | 2,4 | U071 | 100 (45.4)
o-Dichlorobenzene | 95-50-1 | 1,2,4 | U070 | 100 (45.4)
p-Dichlorobenzene | 106-46-7 | 1,2,3,4 | U072 | 100 (45.4)
DICHLOROBENZIDINE | N.A. | 2 |  | **
3,3′-Dichlorobenzidine | 91-94-1 | 2,3,4 | U073 | 1 (0.454)
Dichlorobromomethane | 75-27-4 | 2 |  | 5000 (2270)
1,4-Dichloro-2-butene | 764-41-0 | 4 | U074 | 1 (0.454)
Dichlorodifluoromethane | 75-71-8 | 4 | U075 | 5000 (2270)
1,1-Dichloroethane | 75-34-3 | 2,3,4 | U076 | 1000 (454)
1,2-Dichloroethane | 107-06-2 | 1,2,3,4 | U077 | 100 (45.4)
1,1-Dichloroethylene | 75-35-4 | 1,2,3,4 | U078 | 100 (45.4)
1,2-Dichloroethylene | 156-60-5 | 2,4 | U079 | 1000 (454)
Dichloroethyl ether | 111-44-4 | 2,3,4 | U025 | 10 (4.54)
Dichloroisopropyl ether | 108-60-1 | 2,4 | U027 | 1000 (454)
Dichloromethane | 75-09-2 | 2,3,4 | U080 | 1000 (454)
Dichloromethoxyethane | 111-91-1 | 2,4 | U024 | 1000 (454)
Dichloromethyl ether | 542-88-1 | 2,3,4 | P016 | 10 (4.54)
2,4-Dichlorophenol | 120-83-2 | 2,4 | U081 | 100 (45.4)
2,6-Dichlorophenol | 87-65-0 | 4 | U082 | 100 (45.4)
Dichlorophenylarsine | 696-28-6 | 4 | P036 | 1 (0.454)
Dichloropropane | 26638-19-7 | 1 |  | 1000 (454)
1,1-Dichloropropane | 78-99-9
1,3-Dichloropropane | 142-28-9
1,2-Dichloropropane | 78-87-5 | 1,2,3,4 | U083 | 1000 (454)
Dichloropropane—Dichloropropene (mixture) | 8003-19-8 | 1 |  | 100 (45.4)
Dichloropropene | 26952-23-8 | 1 |  | 100 (45.4)
2,3-Dichloropropene | 78-88-6
1,3-Dichloropropene | 542-75-6 | 1,2,3,4 | U084 | 100 (45.4)
2,2-Dichloropropionic acid | 75-99-0 | 1 |  | 5000 (2270)
Dichlorvos | 62-73-7 | 1,3 |  | 10 (4.54)
Dicofol | 115-32-2 | 1 |  | 10 (4.54)
Dieldrin | 60-57-1 | 1,2,4 | P037 | 1 (0.454)
1,2:3,4-Diepoxybutane | 1464-53-5 | 4 | U085 | 10 (4.54)
Diethanolamine | 111-42-2 | 3 |  | 100 (45.4)
Diethylamine | 109-89-7 | 1 |  | 100 (45.4)
N,N-Diethylaniline | 91-66-7 | 3 |  | 1000 (454)
Diethylarsine | 692-42-2 | 4 | P038 | 1 (0.454)
1,4-Diethyleneoxide | 123-91-1 | 3,4 | U108 | 100 (45.4)
Diethylhexyl phthalate | 117-81-7 | 2,3,4 | U028 | 100 (45.4)
N,N′-Diethylhydrazine | 1615-80-1 | 4 | U086 | 10 (4.54)
O,O-Diethyl S-methyl dithiophosphate | 3288-58-2 | 4 | U087 | 5000 (2270)
Diethyl-p-nitrophenyl phosphate | 311-45-5 | 4 | P041 | 100 (45.4)
Diethyl phthalate | 84-66-2 | 2,4 | U088 | 1000 (454)
O,O-Diethyl O-pyrazinyl phosphorothioate | 297-97-2 | 4 | P040 | 100 (45.4)
Diethylstilbestrol | 56-53-1 | 4 | U089 | 1 (0.454)
Diethyl sulfate | 64-67-5 | 3 |  | 10 (4.54)
Dihydrosafrole | 94-58-6 | 4 | U090 | 10 (4.54)
Diisopropylfluorophosphate (DFP) | 55-91-4 | 4 | P043 | 100 (45.4)
1,4:5,8-Dimethanonaphthalene, 1,2,3,4,10,10-hexachloro-1,4,4a,5,8,8a-hexahydro-, (1alpha,4alpha,4abeta,5alpha, 8alpha,8abeta)- | 309-00-2 | 1,2,4 | P004 | 1 (0.454)
1,4:5,8-Dimethanonaphthalene, 1,2,3,4,10,10-hexachloro- 1,4,4a,5,8,8a-hexahydro-, (1alpha,4alpha,4abeta, 5beta,8beta,8abeta)- | 465-73-6 | 4 | P060 | 1 (0.454)
2,7:3,6-Dimethanonaphth[2,3- b]oxirene,3,4,5,6,9,9- hexachloro-1a,2,2a,3,6,6a,7,7a- octahydro-,(1aalpha,2beta, 2aalpha,3beta,6beta,6aalpha, 7beta,7aalpha)- | 60-57-1 | 1,2,4 | P037 | 1 (0.454)
2,7:3,6-Dimethanonaphth[2, 3-b]oxirene,3,4,5,6,9,9- hexachloro-1a,2,2a,3,6,6a,7,7a- octahydro-,(1aalpha,2beta, 2abeta,3alpha,6alpha, 6abeta,7beta,7aalpha)-, & metabolites | 72-20-8 | 1,2,4 | P051 | 1 (0.454)
Dimethoate | 60-51-5 | 4 | P044 | 10 (4.54)
3,3′-Dimethoxybenzidine | 119-90-4 | 3,4 | U091 | 100 (45.4)
Dimethylamine | 124-40-3 | 1,4 | U092 | 1000 (454)
Dimethyl aminoazobenzene | 60-11-7 | 3,4 | U093 | 10 (4.54)
p-Dimethylaminoazobenzene | 60-11-7 | 3,4 | U093 | 10 (4.54)
N,N-Dimethylaniline | 121-69-7 | 3 |  | 100 (45.4)
7,12-Dimethylbenz[a]anthracene | 57-97-6 | 4 | U094 | 1 (0.454)
3,3′-Dimethylbenzidine | 119-93-7 | 3,4 | U095 | 10 (4.54)
alpha,alpha-Dimethylbenzylhydroperoxide | 80-15-9 | 4 | U096 | 10 (4.54)
Dimethylcarbamoyl chloride | 79-44-7 | 3,4 | U097 | 1 (0.454)
Dimethylformamide | 68-12-2 | 3 |  | 100 (45.4)
1,1-Dimethylhydrazine | 57-14-7 | 3,4 | U098 | 10 (4.54)
1,2-Dimethylhydrazine | 540-73-8 | 4 | U099 | 1 (0.454)
alpha,alpha-Dimethylphenethylamine | 122-09-8 | 4 | P046 | 5000 (2270)
2,4-Dimethylphenol | 105-67-9 | 2,4 | U101 | 100 (45.4)
Dimethyl phthalate | 131-11-3 | 2,3,4 | U102 | 5000 (2270)
Dimethyl sulfate | 77-78-1 | 3,4 | U103 | 100 (45.4)
Dinitrobenzene (mixed) | 25154-54-5 | 1 |  | 100 (45.4)
m-Dinitrobenzene | 99-65-0
o-Dinitrobenzene | 528-29-0
p-Dinitrobenzene | 100-25-4
4,6-Dinitro-o-cresol, and salts | 534-52-1 | 2,3,4 | P047 | 10 (4.54)
Dinitrophenol | 25550-58-7 | 1 |  | 10 (4.54)
2,5-Dinitrophenol | 329-71-5
2,6-Dinitrophenol | 573-56-8
2,4-Dinitrophenol | 51-28-5 | 1,2,3,4 | P048 | 10 (4.54)
Dinitrotoluene | 25321-14-6 | 1,2 |  | 10 (4.54)
3,4-Dinitrotoluene | 610-39-9
2,4-Dinitrotoluene | 121-14-2 | 1,2,3,4 | U105 | 10 (4.54)
2,6-Dinitrotoluene | 606-20-2 | 1,2,4 | U106 | 100 (45.4)
Dinoseb | 88-85-7 | 4 | P020 | 1000 (454)
Di-n-octyl phthalate | 117-84-0 | 2,4 | U107 | 5000 (2270)
1,4-Dioxane | 123-91-1 | 3,4 | U108 | 100 (45.4)
DIPHENYLHYDRAZINE | N.A. | 2 |  | **
1,2-Diphenylhydrazine | 122-66-7 | 2,3,4 | U109 | 10 (4.54)
Diphosphoramide, octamethyl- | 152-16-9 | 4 | P085 | 100 (45.4)
Diphosphoric acid, tetraethyl ester | 107-49-3 | 1,4 | P111 | 10 (4.54)
Dipropylamine | 142-84-7 | 4 | U110 | 5000 (2270)
Di-n-propylnitrosamine | 621-64-7 | 2,4 | U111 | 10 (4.54)
Diquat | 85-00-7 2764-72-9 | 1 |  | 1000 (454)
Disulfoton | 298-04-4 | 1,4 | P039 | 1 (0.454)
Dithiobiuret | 541-53-7 | 4 | P049 | 100 (45.4)
1,3-Dithiolane-2- carboxaldehyde, 2,4- dimethyl-O- [(methylamino)carbonyl] oxime (Tirpate) | 26419-73-8 | 4 | P185 | ##
Diuron | 330-54-1 | 1 |  | 100 (45.4)
Dodecylbenzenesulfonic acid | 27176-87-0 | 1 |  | 1000 (454)
Endosulfan | 115-29-7 | 1,2,4 | P050 | 1 (0.454)
alpha-Endosulfan | 959-98-8 | 2 |  | 1 (0.454)
beta-Endosulfan | 33213-65-9 | 2 |  | 1 (0.454)
ENDOSULFAN AND METABOLITES | N.A. | 2 |  | **
Endosulfan sulfate | 1031-07-8 | 2 |  | 1 (0.454)
Endothall | 145-73-3 | 4 | P088 | 1000 (454)
Endrin | 72-20-8 | 1,2,4 | P051 | 1 (0.454)
Endrin aldehyde | 7421-93-4 | 2 |  | 1 (0.454)
ENDRIN AND METABOLITES | N.A. | 2 |  | **
Endrin, & metabolites | 72-20-8 | 1,2,4 | P051 | 1 (0.454)
Epichlorohydrin | 106-89-8 | 1,3,4 | U041 | 100 (45.4)
Epinephrine | 51-43-4 | 4 | P042 | 1000 (454)
1,2-Epoxybutane | 106-88-7 | 3 |  | 100 (45.4)
Ethanal | 75-07-0 | 1,3,4 | U001 | 1000 (454)
Ethanamine, N,N-diethyl- | 121-44-8 | 1,3,4 | U404 | 5000 (2270)
Ethanamine, N-ethyl-N-nitroso- | 55-18-5 | 4 | U174 | 1 (0.454)
1,2-Ethanediamine, N,N-dimethyl-N′-2- pyridinyl-N′-(2- thienylmethyl)- | 91-80-5 | 4 | U155 | 5000 (2270)
Ethane, 1,2-dibromo- | 106-93-4 | 1,3,4 | U067 | 1 (0.454)
Ethane, 1,1-dichloro- | 75-34-3 | 2,3,4 | U076 | 1000 (454)
Ethane, 1,2-dichloro- | 107-06-2 | 1,2,3,4 | U077 | 100 (45.4)
Ethanedinitrile | 460-19-5 | 4 | P031 | 100 (45.4)
Ethane, hexachloro- | 67-72-1 | 2,3,4 | U131 | 100 (45.4)
Ethane, 1,1′-[methylenebis(oxy)]bis[2- chloro- | 111-91-1 | 2,4 | U024 | 1000 (454)
Ethane, 1,1′-oxybis- | 60-29-7 | 4 | U117 | 100 (45.4)
Ethane, 1,1′-oxybis[2-chloro- | 111-44-4 | 2,3,4 | U025 | 10 (4.54)
Ethane, pentachloro- | 76-01-7 | 4 | U184 | 10 (4.54)
Ethane, 1,1,1,2-tetrachloro- | 630-20-6 | 4 | U208 | 100 (45.4)
Ethane, 1,1,2,2-tetrachloro- | 79-34-5 | 2,3,4 | U209 | 100 (45.4)
Ethanethioamide | 62-55-5 | 4 | U218 | 10 (4.54)
Ethane, 1,1,1-trichloro- | 71-55-6 | 2,3,4 | U226 | 1000 (454)
Ethane, 1,1,2-trichloro- | 79-00-5 | 2,3,4 | U227 | 100 (45.4)
Ethanimidothioic acid, 2-(dimethylamino)-N-hydroxy-2-oxo-, methyl ester (A2213) | 30558-43-1 | 4 | U394 | ##
Ethanimidothioic acid, 2-(dimethylamino)-N-[[(methylamino)carbonyl]oxy]-2-oxo-, methyl ester (Oxamyl) | 23135-22-0 | 4 | P194 | ##
Ethanimidothioic acid, N-[[(methylamino) carbonyl]oxy]-, methyl ester | 16752-77-5 | 4 | P066 | 100 (45.4)
Ethanimidothioic acid, N,N′[thiobis[(methylimino) carbonyloxy]]bis-, dimethyl ester (Thiodicarb) | 59669-26-0 | 4 | U410 | ##
Ethanol, 2-ethoxy- | 110-80-5 | 4 | U359 | 1000 (454)
Ethanol, 2,2′-(nitrosoimino)bis- | 1116-54-7 | 4 | U173 | 1 (0.454)
Ethanol, 2,2′-oxybis-, dicarbamate (Diethylene glycol, dicarbamate) | 5952-26-1 | 4 | U395 | ##
Ethanone, 1-phenyl- | 98-86-2 | 3,4 | U004 | 5000 (2270)
Ethene, chloro- | 75-01-4 | 2,3,4 | U043 | 1 (0.454)
Ethene, (2-chloroethoxy)- | 110-75-8 | 2,4 | U042 | 1000 (454)
Ethene, 1,1-dichloro- | 75-35-4 | 1,2,3,4 | U078 | 100 (45.4)
Ethene, 1,2-dichloro-(E) | 156-60-5 | 2,4 | U079 | 1000 (454)
Ethene, tetrachloro- | 127-18-4 | 2,3,4 | U210 | 100 (45.4)
Ethene, trichloro- | 79-01-6 | 1,2,3,4 | U228 | 100 (45.4)
Ethion | 563-12-2 | 1 |  | 10 (4.54)
Ethyl acetate | 141-78-6 | 4 | U112 | 5000 (2270)
Ethyl acrylate | 140-88-5 | 3,4 | U113 | 1000 (454)
Ethylbenzene | 100-41-4 | 1,2,3 |  | 1000 (454)
Ethyl carbamate | 51-79-6 | 3,4 | U238 | 100 (45.4)
Ethyl chloride | 75-00-3 | 2,3 |  | 100 (45.4)
Ethyl cyanide | 107-12-0 | 4 | P101 | 10 (4.54)
Ethylenebisdithiocarbamic acid, salts & esters | 111-54-6 | 4 | U114 | 5000 (2270)
Ethylenediamine | 107-15-3 | 1 |  | 5000 (2270)
Ethylenediamine-tetraacetic acid (EDTA) | 60-00-4 | 1 |  | 5000 (2270)
Ethylene dibromide | 106-93-4 | 1,3,4 | U067 | 1 (0.454)
Ethylene dichloride | 107-06-2 | 1,2,3,4 | U077 | 100 (45.4)
Ethylene glycol | 107-21-1 | 3 |  | 5000 (2270)
Ethylene glycol monoethyl ether | 110-80-5 | 4 | U359 | 1000 (454)
Ethylene oxide | 75-21-8 | 3,4 | U115 | 10 (4.54)
Ethylenethiourea | 96-45-7 | 3,4 | U116 | 10 (4.54)
Ethylenimine | 151-56-4 | 3,4 | P054 | 1 (0.454)
Ethyl ether | 60-29-7 | 4 | U117 | 100 (45.4)
Ethylidene dichloride | 75-34-3 | 2,3,4 | U076 | 1000 (454)
Ethyl methacrylate | 97-63-2 | 4 | U118 | 1000 (454)
Ethyl methanesulfonate | 62-50-0 | 4 | U119 | 1 (0.454)
Famphur | 52-85-7 | 4 | P097 | 1000 (454)
Ferric ammonium citrate | 1185-57-5 | 1 |  | 1000 (454)
Ferric ammonium oxalate | 2944-67-4 55488-87-4 | 1 |  | 1000 (454)
Ferric chloride | 7705-08-0 | 1 |  | 1000 (454)
Ferric fluoride | 7783-50-8 | 1 |  | 100 (45.4)
Ferric nitrate | 10421-48-4 | 1 |  | 1000 (454)
Ferric sulfate | 10028-22-5 | 1 |  | 1000 (454)
Ferrous ammonium sulfate | 10045-89-3 | 1 |  | 1000 (454)
Ferrous chloride | 7758-94-3 | 1 |  | 100 (45.4)
Ferrous sulfate | 7720-78-7 7782- 63-0 | 1 |  | 1000 (454)
Fine mineral fibers ᶜ | N.A. | 3 |  | **
Fluoranthene | 206-44-0 | 2,4 | U120 | 100 (45.4)
Fluorene | 86-73-7 | 2 |  | 5000 (2270)
Fluorine | 7782-41-4 | 4 | P056 | 10 (4.54)
Fluoroacetamide | 640-19-7 | 4 | P057 | 100 (45.4)
Fluoroacetic acid, sodium salt | 62-74-8 | 4 | P058 | 10 (4.54)
Formaldehyde | 50-00-0 | 1,3,4 | U122 | 100 (45.4)
Formic acid | 64-18-6 | 1,4 | U123 | 5000 (2270)
Fulminic acid, mercury(2+)salt | 628-86-4 | 4 | P065 | 10 (4.54)
Fumaric acid | 110-17-8 | 1 |  | 5000 (2270)
Furan | 110-00-9 | 4 | U124 | 100 (45.4)
2-Furancarboxaldehyde | 98-01-1 | 1,4 | U125 | 5000 (2270)
2,5-Furandione | 108-31-6 | 1,3,4 | U147 | 5000 (2270)
Furan, tetrahydro- | 109-99-9 | 4 | U213 | 1000 (454)
Furfural | 98-01-1 | 1,4 | U125 | 5000 (2270)
Furfuran | 110-00-9 | 4 | U124 | 100 (45.4)
Glucopyranose, 2-deoxy-2-(3-methyl-3-nitrosoureido)-,D- | 18883-66-4 | 4 | U206 | 1 (0.454)
D-Glucose, 2-deoxy-2-[[(methylnitrosoamino)-carbonyl]amino]- | 18883-66-4 | 4 | U206 | 1 (0.454)
Glycidylaldehyde | 765-34-4 | 4 | U126 | 10 (4.54)
Glycol ethers ᵈ | N.A. | 3 |  | **
Guanidine, N-methyl-N'-nitro-N-nitroso- | 70-25-7 | 4 | U163 | 10 (4.54)
Guthion | 86-50-0 | 1 |  | 1 (0.454)
HALOETHERS | N.A. | 2 |  | **
HALOMETHANES | N.A. | 2 |  | **
Heptachlor | 76-44-8 | 1,2,3,4 | P059 | 1 (0.454)
HEPTACHLOR AND METABOLITES | N.A. | 2 |  | **
Heptachlor epoxide | 1024-57-3 | 2 |  | 1 (0.454)
Hexachlorobenzene | 118-74-1 | 2,3,4 | U127 | 10 (4.54)
Hexachlorobutadiene | 87-68-3 | 2,3,4 | U128 | 1 (0.454)
HEXACHLOROCYCLOHEXANE (all isomers) | 608-73-1 | 2 |  | **
Hexachlorocyclopentadiene | 77-47-4 | 1,2,3,4 | U130 | 10 (4.54)
Hexachloroethane | 67-72-1 | 2,3,4 | U131 | 100 (45.4)
Hexachlorophene | 70-30-4 | 4 | U132 | 100 (45.4)
Hexachloropropene | 1888-71-7 | 4 | U243 | 1000 (454)
Hexaethyl tetraphosphate | 757-58-4 | 4 | P062 | 100 (45.4)
Hexamethylene-1,6-diisocyanate | 822-06-0 | 3 |  | 100 (45.4)
Hexamethylphosphoramide | 680-31-9 | 3 |  | 1 (0.454)
Hexane | 110-54-3 | 3 |  | 5000 (2270)
Hexone | 108-10-1 | 3,4 | U161 | 5000 (2270)
Hydrazine | 302-01-2 | 3,4 | U133 | 1 (0.454)
Hydrazinecarbothioamide | 79-19-6 | 4 | P116 | 100 (45.4)
Hydrazine, 1,2-diethyl- | 1615-80-1 | 4 | U086 | 10 (4.54)
Hydrazine, 1,1-dimethyl- | 57-14-7 | 3,4 | U098 | 10 (4.54)
Hydrazine, 1,2-dimethyl- | 540-73-8 | 4 | U099 | 1 (0.454)
Hydrazine, 1,2-diphenyl- | 122-66-7 | 2,3,4 | U109 | 10 (4.54)
Hydrazine, methyl- | 60-34-4 | 3,4 | P068 | 10 (4.54)
Hydrochloric acid | 7647-01-0 | 1,3 |  | 5000 (2270)
Hydrocyanic acid | 74-90-8 | 1,4 | P063 | 10 (4.54)
Hydrofluoric acid | 7664-39-3 | 1,3,4 | U134 | 100 (45.4)
Hydrogen chloride | 7647-01-0 | 1,3 |  | 5000 (2270)
Hydrogen cyanide | 74-90-8 | 1,4 | P063 | 10 (4.54)
Hydrogen fluoride | 7664-39-3 | 1,3,4 | U134 | 100 (45.4)
Hydrogen phosphide | 7803-51-2 | 3,4 | P096 | 100 (45.4)
Hydrogen sulfide H2S | 7783-06-4 | 1,4 | U135 | 100 (45.4)
Hydroperoxide, 1-methyl-1-phenylethyl- | 80-15-9 | 4 | U096 | 10 (4.54)
Hydroquinone | 123-31-9 | 3 |  | 100 (45.4)
2-Imidazolidinethione | 96-45-7 | 3,4 | U116 | 10 (4.54)
Indeno(1,2,3-cd)pyrene | 193-39-5 | 2,4 | U137 | 100 (45.4)
Iodomethane | 74-88-4 | 3,4 | U138 | 100 (45.4)
1,3-Isobenzofurandione | 85-44-9 | 3,4 | U190 | 5000 (2270)
Isobutyl alcohol | 78-83-1 | 4 | U140 | 5000 (2270)
Isodrin | 465-73-6 | 4 | P060 | 1 (0.454)
Isophorone | 78-59-1 | 2,3 |  | 5000 (2270)
Isoprene | 78-79-5 | 1 |  | 100 (45.4)
Isopropanolamine dodecylbenzenesulfonate | 42504-46-1 | 1 |  | 1000 (454)
Isosafrole | 120-58-1 | 4 | U141 | 100 (45.4)
3(2H)-Isoxazolone, 5-(aminomethyl)- | 2763-96-4 | 4 | P007 | 1000 (454)
Kepone | 143-50-0 | 1,4 | U142 | 1 (0.454)
Lasiocarpine | 303-34-4 | 4 | U143 | 10 (4.54)
Lead‡‡ | 7439-92-1 | 2 |  | 10 (4.54)
Lead acetate | 301-04-2 | 1,4 | U144 | 10 (4.54)
LEAD AND COMPOUNDS | N.A. | 2,3 |  | **
Lead arsenate | 7784-40-9 7645-25-2 10102-48-4 | 1 |  | 1 (0.454)
Lead, bis(acetato-O)tetrahydroxytri- | 1335-32-6 | 4 | U146 | 10 (4.54)
Lead chloride | 7758-95-4 | 1 |  | 10 (4.54)
Lead compounds | N.A. | 2,3 |  | **
Lead fluoborate | 13814-96-5 | 1 |  | 10 (4.54)
Lead fluoride | 7783-46-2 | 1 |  | 10 (4.54)
Lead iodide | 10101-63-0 | 1 |  | 10 (4.54)
Lead nitrate | 10099-74-8 | 1 |  | 10 (4.54)
Lead phosphate | 7446-27-7 | 4 | U145 | 10 (4.54)
Lead stearate | 1072-35-1 7428-48-0 52652-59-2 56189-09-4 | 1 |  | 10 (4.54)
Lead subacetate | 1335-32-6 | 4 | U146 | 10 (4.54)
Lead sulfate | 7446-14-2 15739-80-7 | 1 |  | 10 (4.54)
Lead sulfide | 1314-87-0 | 1 |  | 10 (4.54)
Lead thiocyanate | 592-87-0 | 1 |  | 10 (4.54)
Lindane | 58-89-9 | 1,2,3,4 | U129 | 1 (0.454)
Lindane (all isomers) | 58-89-9 | 1,2,3,4 | U129 | 1 (0.454)
Lithium chromate | 14307-35-8 | 1 |  | 10 (4.54)
Malathion | 121-75-5 | 1 |  | 100 (45.4)
Maleic acid | 110-16-7 | 1 |  | 5000 (2270)
Maleic anhydride | 108-31-6 | 1,3,4 | U147 | 5000 (2270)
Maleic hydrazide | 123-33-1 | 4 | U148 | 5000 (2270)
Malononitrile | 109-77-3 | 4 | U149 | 1000 (454)
Manganese, bis(dimethylcarbamodithioato-S,S′)-Manganese dimethyldithio- carbamate) | 15339-36-3 | 4 | P196 | ##
Manganese Compounds | N.A. | 3 |  | **
MDI | 101-68-8 | 3 |  | 5000 (2270)
MEK | 78-93-3 | 3,4 | U159 | 5000 (2270)
Melphalan | 148-82-3 | 4 | U150 | 1 (0.454)
Mercaptodimethur | 2032-65-7 | 1,4 | P199 | 10 (4.54)
Mercuric cyanide | 592-04-1 | 1 |  | 1(0.454)
Mercuric nitrate | 10045-94-0 | 1 |  | 10 (4.54)
Mercuric sulfate | 7783-35-9 | 1 |  | 10 (4.54)
Mercuric thiocyanate | 592-85-8 | 1 |  | 10 (4.54)
Mercurous nitrate | 10415-75-5 | 1 |  | 10 (4.54)
Mercury | 7782-86-7 7439-97-6 | 2,3,4 | U151 | 1 (0.454)
MERCURY AND COMPOUNDS | N.A. | 2,3 |  | **
Mercury, (acetato-O)phenyl- | 62-38-4 | 4 | P092 | 100 (45.4)
Mercury Compounds | N.A. | 2,3 |  | **
Mercury fulminate | 628-86-4 | 4 | P065 | 10 (4.54)
Methacrylonitrile | 126-98-7 | 4 | U152 | 1000 (454)
Methanamine, N-methyl- | 124-40-3 | 1,4 | U092 | 1000 (454)
Methanamine, N-methyl-N-nitroso- | 62-75-9 | 2,3,4 | P082 | 10 (4.54)
Methane, bromo- | 74-83-9 | 2,3,4 | U029 | 1000 (454)
Methane, chloro- | 74-87-3 | 2,3,4 | U045 | 100 (45.4)
Methane, chloromethoxy- | 107-30-2 | 3,4 | U046 | 10 (4.54)
Methane, dibromo- | 74-95-3 | 4 | U068 | 1000 (454)
Methane, dichloro- | 75-09-2 | 2,3,4 | U080 | 1000 (454)
Methane, dichlorodifluoro- | 75-71-8 | 4 | U075 | 5000 (2270)
Methane, iodo- | 74-88-4 | 3,4 | U138 | 100 (45.4)
Methane, isocyanato- | 624-83-9 | 3,4 | P064 | 10 (4.54)
Methane, oxybis(chloro- | 542-88-1 | 2,3,4 | P016 | 10 (4.54)
Methanesulfenyl chloride, trichloro- | 594-42-3 | 4 | P118 | 100 (45.4)
Methanesulfonic acid, ethyl ester | 62-50-0 | 4 | U119 | 1 (0.454)
Methane, tetrachloro- | 56-23-5 | 1,2,3,4 | U211 | 10 (4.54)
Methane, tetranitro- | 509-14-8 | 4 | P112 | 10 (4.54)
Methanethiol | 74-93-1 | 1,4 | U153 | 100 (45.4)
Methane, tribromo- | 75-25-2 | 2,3,4 | U225 | 100 (45.4)
Methane, trichloro- | 67-66-3 | 1,2,3,4 | U044 | 10 (4.54)
Methane, trichlorofluoro- | 75-69-4 | 4 | U121 | 5000 (2270)
Methanimidamide, N,N-dimethyl-N′-[3-[[(methylamino)carbonyl]oxy]phenyl]-, monohydrochloride (Formetanate hydrochloride) | 23422-53-9 | 4 | P198 | ##
Methanimidamide, N,N-dimethyl-N′-[2-methyl-4-[[(methylamino)carbonyl]oxy]phenyl]-(Formparanate) | 17702-57-7 | 4 | P197 | ##
6,9-Methano-2,4,3-benzodioxathiepin, 6,7,8,9,10,10-hexachloro- 1,5,5a,6,9,9a-hexahydro-, 3-oxide | 115-29-7 | 1,2,4 | P050 | 1 (0.454)
4,7-Methano-1H-indene, 1,4,5,6,7,8,8-heptachloro-3a,4,7,7a-tetrahydro- | 76-44-8 | 1,2,3,4 | P059 | 1 (0.454)
4,7-Methano-1H-indene, 1,2,4,5,6,7,8,8-octachloro- 2,3,3a,4,7,7a-hexahydro-— | 57-74-9 | 1,2,3,4 | U036 | 1 (0.454)
Methanol | 67-56-1 | 3,4 | U154 | 5000 (2270)
Methapyrilene | 91-80-5 | 4 | U155 | 5000 (2270)
1,3,4-Metheno-2H-cyclobuta[cd]pentalen-2-0one, 1,1a,3,3a,4,5,5,5a,5b,6-decachlorooctahydro- | 143-50-0 | 1,4 | U142 | 1 (0.454)
Methiocarb | 2032-65-7 | 1,4 | P199 | 10 (4.54)
Methomyl | 16752-77-5 | 4 | P066 | 100 (45.4)
Methoxychlor | 72-43-5 | 1,3,4 | U247 | 1 (0.454)
Methyl alcohol | 67-56-1 | 3,4 | U154 | 5000 (2270)
2-Methyl aziridine | 75-55-8 | 3,4 | P067 | 1 (0.454)
Methyl bromide | 74-83-9 | 2,3,4 | U029 | 1000 (454)
1-Methylbutadiene | 504-60-9 | 4 | U186 | 100 (45.4)
Methyl chloride | 74-87-3 | 2,3,4 | U045 | 100 (45.4)
Methyl chlorocarbonate | 79-22-1 | 4 | U156 | 1000 (454)
Methyl chloroform | 71-55-6 | 2,3,4 | U226 | 1000 (454)
3-Methylcholanthrene | 56-49-5 | 4 | U157 | 10 (4.54)
4,4′-Methylenebis(2-chloroaniline) | 101-14-4 | 3,4 | U158 | 10 (4.54)
Methylene bromide | 74-95-3 | 4 | U068 | 1000 (454)
Methylene chloride | 75-09-2 | 2,3,4 | U080 | 1000 (454)
4,4′-Methylenedianiline | 101-77-9 | 3 |  | 10 (4.54)
Methylene diphenyl diisocyanate | 101-68-8 | 3 |  | 5000 (2270)
Methyl ethyl ketone | 78-93-3 | 3,4 | U159 | 5000 (2270)
Methyl ethyl ketone peroxide | 1338-23-4 | 4 | U160 | 10 (4.54)
Methyl hydrazine | 60-34-4 | 3,4 | P068 | 10 (4.54)
Methyl iodide | 74-88-4 | 3,4 | U138 | 100 (45.4)
Methyl isobutyl ketone | 108-10-1 | 3,4 | U161 | 5000 (2270)
Methyl isocyanate | 624-83-9 | 3,4 | P064 | 10 (4.54)
2-Methyllactonitrile | 75-86-5 | 1,4 | P069 | 10 (4.54)
Methyl mercaptan | 74-93-1 | 1,4 | U153 | 100 (45.4)
Methyl methacrylate | 80-62-6 | 1,3,4 | U162 | 1000 (454)
Methyl parathion | 298-00-0 | 1,4 | P071 | 100 (45.4)
4-Methyl-2-pentanone | 108-10-1 | 3,4 | U161 | 5000 (2270)
Methyl tert-butyl ether | 1634-04-4 | 3 |  | 1000 (454)
Methylthiouracil | 56-04-2 | 4 | U164 | 10 (4.54)
Mevinphos | 7786-34-7 | 1 |  | 10 (4.54)
Mexacarbate | 315-18-4 | 1,4 | P128 | 1000 (454)
Mitomycin C | 50-07-7 | 4 | U010 | 10 (4.54)
MNNG | 70-25-7 | 4 | U163 | 10 (4.54)
Monoethylamine | 75-04-7 | 1 |  | 100 (45.4)
Monomethylamine | 74-89-5 | 1 |  | 100 (45.4)
Naled | 300-76-5 | 1 |  | 10 (4.54)
5,12-Naphthacenedione, 8-acetyl-10-[(3-amino-2,3,6-trideoxy-alpha-L-lyxo-hexopyranosyl)oxy]-7,8,9,10-tetrahydro-6,8,11-trihydroxy-1-methoxy-, (8S-cis)- | 20830-81-3 | 4 | U059 | 10 (4.54)
1-Naphthalenamine | 134-32-7 | 4 | U167 | 100 (45.4)
2-Naphthalenamine | 91-59-8 | 4 | U168 | 10 (4.54)
Naphthalenamine, N,N'-bis(2-chloroethyl)- | 494-03-1 | 4 | U026 | 100 (45.4)
Naphthalene | 91-20-3 | 1,2,3,4 | U165 | 100 (45.4)
Naphthalene, 2-chloro- | 91-58-7 | 2,4 | U047 | 5000 (2270)
1,4-Naphthalenedione | 130-15-4 | 4 | U166 | 5000 (2270)
2,7-Naphthalenedisulfonic acid, 3,3‡-[(3,3‡-dimethyl-(1,1‡-biphenyl)-4,4‡-diyl)-bis(azo)]bis(5-amino-4-hydroxy)-tetrasodium salt | 72-57-1 | 4 | U236 | 10 (4.54)
1-Naphthalenol, methylcarbamate | 63-25-2 | 1,3,4 | U279 | 100 (45.4)
Naphthenic acid | 1338-24-5 | 1 |  | 100 (45.4)
1,4-Naphthoquinone | 130-15-4 | 4 | U166 | 5000 (2270)
alpha-Naphthylamine | 134-32-7 | 4 | U167 | 100 (45.4)
beta-Naphthylamine | 91-59-8 | 4 | U168 | 10 (4.54)
alpha-Naphthylthiourea | 86-88-4 | 4 | P072 | 100 (45.4)
Nickel‡‡ | 7440-02-0 | 2 |  | 100 (45.4)
Nickel ammonium sulfate | 15699-18-0 | 1 |  | 100 (45.4)
NICKEL AND COMPOUNDS | N.A. | 2,3 |  | **
Nickel carbonyl Ni(CO)4, (T-4)- | 13463-39-3 | 4 | P073 | 10 (4.54)
Nickel chloride | 7718-54-9 37211-05-5 | 1 |  | 100 (45.4)
Nickel compounds | N.A. | 2,3 |  | **
Nickel cyanide Ni(CN)2 | 557-19-7 | 4 | P074 | 10 (4.54)
Nickel hydroxide | 12054-48-7 | 1 |  | 10 (4.54)
Nickel nitrate | 14216-75-2 | 1 |  | 100 (45.4)
Nickel sulfate | 7786-81-4 | 1 |  | 100 (45.4)
Nicotine, & salts | 54-11-5 | 4 | P075 | 100 (45.4)
Nitric acid | 7697-37-2 | 1 |  | 1000 (454)
Nitric acid, thallium (1+) salt | 10102-45-1 | 4 | U217 | 100 (45.4)
Nitric oxide | 10102-43-9 | 4 | P076 | 10 (4.54)
p-Nitroaniline | 100-01-6 | 4 | P077 | 5000 (2270)
Nitrobenzene | 98-95-3 | 1,2,3,4 | U169 | 1000 (454)
4-Nitrobiphenyl | 92-93-3 | 3 |  | 10 (4.54)
Nitrogen dioxide | 10102-44-0 10544-72-6 | 1,4 | P078 | 10 (4.54)
Nitrogen oxide NO | 10102-43-9 | 4 | P076 | 10 (4.54)
Nitrogen oxide NO2 | 10102-44-0 10544-72-6 | 1,4 | P078 | 10 (4.54)
Nitroglycerine | 55-63-0 | 4 | P081 | 10 (4.54)
Nitrophenol (mixed) | 25154-55-6 | 1 |  | 100 (45.4)
m-Nitrophenol | 554-84-7 |  |  |
o-Nitrophenol | 88-75-5 | 1,2 |  | 100 (45.4)
p-Nitrophenol | 100-02-7 | 1,2,3,4 | U170 | 100 (45.4)
2-Nitrophenol | 88-75-5 | 1,2 |  | 100 (45.4)
4-Nitrophenol | 100-02-7 | 1,2,3,4 | U170 | 100 (45.4)
NITROPHENOLS | N.A. | 2 |  | **
2-Nitropropane | 79-46-9 | 3,4 | U171 | 10 (4.54)
NITROSAMINES | N.A. | 2 |  | **
N-Nitrosodi-n-butylamine | 924-16-3 | 4 | U172 | 10 (4.54)
N-Nitrosodiethanolamine | 1116-54-7 | 4 | U173 | 1 (0.454)
N-Nitrosodiethylamine | 55-18-5 | 4 | U174 | 1 (0.454)
N-Nitrosodimethylamine | 62-75-9 | 2,3,4 | P082 | 10 (4.54)
N-Nitrosodiphenylamine | 86-30-6 | 2 |  | 100 (45.4)
N-Nitroso-N-ethylurea | 759-73-9 | 4 | U176 | 1 (0.454)
N-Nitroso-N-methylurea | 684-93-5 | 3,4 | U177 | 1 (0.454)
N-Nitroso-N-methylurethane | 615-53-2 | 4 | U178 | 1 (0.454)
N-Nitrosomethylvinylamine | 4549-40-0 | 4 | P084 | 10 (4.54)
N-Nitrosomorpholine | 59-89-2 | 3 |  | 1 (0.454)
N-Nitrosopiperidine | 100-75-4 | 4 | U179 | 10 (4.54)
N-Nitrosopyrrolidine | 930-55-2 | 4 | U180 | 1 (0.454)
Nitrotoluene | 1321-12-6 | 1 |  | 1000 (454)
m-Nitrotoluene | 99-08-1 |  |  |
o-Nitrotoluene | 88-72-2 |  |  |
p-Nitrotoluene | 99-99-0 |  |  |
5-Nitro-o-toluidine | 99-55-8 | 4 | U181 | 100 (45.4)
Octamethylpyrophosphoramide | 152-16-9 | 4 | P085 | 100 (45.4)
Osmium oxide OsO4, (T-4)- | 20816-12-0 | 4 | P087 | 1000 (454)
Osmium tetroxide | 20816-12-0 | 4 | P087 | 1000 (454)
7-Oxabicyclo[2.2.1]heptane-2,3-dicarboxylic acid | 145-73-3 | 4 | P088 | 1000 (454)
1,2-Oxathiolane, 2,2-dioxide | 1120-71-4 | 3,4 | U193 | 10 (4.54)
2H-1,3,2-Oxazaphosphorin-2-amine, N,N- bis(2-chloroethyl)tetrahydro-, 2-oxide | 50-18-0 | 4 | U058 | 10 (4.54)
Oxirane | 75-21-8 | 3,4 | U115 | 10 (4.54)
Oxiranecarboxyaldehyde | 765-34-4 | 4 | U126 | 10 (4.54)
Oxirane, (chloromethyl)- | 106-89-8 | 1,3,4 | U041 | 100 (45.4)
Paraformaldehyde | 30525-89-4 | 1 |  | 1000 (454)
Paraldehyde | 123-63-7 | 4 | U182 | 1000 (454)
Parathion | 56-38-2 | 1,3,4 | P089 | 10 (4.54)
PCBs | 1336-36-3 | 1,2,3 |  | 1 (0.454)
PCNB | 82-68-8 | 3,4 | U185 | 100 (45.4)
Pentachlorobenzene | 608-93-5 | 4 | U183 | 10 (4.54)
Pentachloroethane | 76-01-7 | 4 | U184 | 10 (4.54)
Pentachloronitrobenzene | 82-68-8 | 3,4 | U185 | 100 (45.4)
Pentachlorophenol | 87-86-5 | 1,2,3,4 | See F027 | 10 (4.54)
1,3-Pentadiene | 504-60-9 | 4 | U186 | 100 (45.4)
Perchloroethylene | 127-18-4 | 2,3,4 | U210 | 100 (45.4)
Phenacetin | 62-44-2 | 4 | U187 | 100 (45.4)
Phenanthrene | 85-01-8 | 2 |  | 5000 (2270)
Phenol | 108-95-2 | 1,2,3,4 | U188 | 1000 (454)
Phenol, 2-chloro- | 95-57-8 | 2,4 | U048 | 100 (45.4)
Phenol, 4-chloro-3-methyl- | 59-50-7 | 2,4 | U039 | 5000 (2270)
Phenol, 2-cyclohexyl-4,6-dinitro- | 131-89-5 | 4 | P034 | 100 (45.4)
Phenol, 2,4-dichloro- | 120-83-2 | 2,4 | U081 | 100 (45.4)
Phenol, 2,6-dichloro- | 87-65-0 | 4 | U082 | 100 (45.4)
Phenol, 4,4′-(1,2-diethyl-1,2-ethenediyl)bis-, (E) | 56-53-1 | 4 | U089 | 1 (0.454)
Phenol, 2,4-dimethyl- | 105-67-9 | 2,4 | U101 | 100 (45.4)
Phenol, 4-(dimethylamino)-3,5-dimethyl-, 4 methylcarbamate (ester) | 315-18-4 | 1,4 | P128 | 1000 (454)
Phenol, (3,5-dimethyl-4-(methylthio)-, methylcarbamate | 2032-65-7 | 1,4 | P199 | 10 (4.54)
Phenol, 2,4-dinitro- | 51-28-5 | 1,2,3,4 | P048 | 10 (4.54)
Phenol, methyl- | 1319-77-3 | 1,3,4 | U052 | 100 (45.4)
Phenol, 2-methyl-4,6-dinitro-, & salts | 534-52-1 | 2,3,4 | P047 | 10 (4.54)
Phenol, 2,2′-methylenebis[3,4,6- trichloro- | 70-30-4 | 4 | U132 | 100 (45.4)
Phenol, 2-(1-methylethoxy)-, methylcarbamate | 114-26-1 | 3,4 | U411 | 100 (45.4)
Phenol, 3-(1-methylethyl)-, methyl carbamate (m-Cumenyl methylcarbamate) | 64-00-6 | 4 | P202 | ##
Phenol, 3-methyl-5-(1-methylethyl)-, methyl carbamate (Promecarb) | 2631-37-0 | 4 | P201 | ##
Phenol, 2-(1-methylpropyl)-4,6-dinitro- | 88-85-7 | 4 | P020 | 1000 (454)
Phenol, 4-nitro- | 100-02-7 | 1,2,3,4 | U170 | 100 (45.4)
Phenol, pentachloro- | 87-86-5 | 1,2,3,4 | See F027 | 10 (4.54)
Phenol, 2,3,4,6-tetrachloro- | 58-90-2 | 4 | See F027 | 10 (4.54)
Phenol, 2,4,5-trichloro- | 95-95-4 | 1,3,4 | See F027 | 10 (4.54)
Phenol, 2,4,6-trichloro- | 88-06-2 | 1,2,3,4 | See F027 | 10 (4.54)
Phenol, 2,4,6-trinitro-, ammonium salt | 131-74-8 | 4 | P009 | 10 (4.54)
L-Phenylalanine, 4-[bis(2-chloroethyl)amino]- | 148-82-3 | 4 | U150 | 1 (0.454)
p-Phenylenediamine | 106-50-3 | 3 |  | 5000 (2270)
Phenylmercury acetate | 62-38-4 | 4 | P092 | 100 (45.4)
Phenylthiourea | 103-85-5 | 4 | P093 | 100 (45.4)
Phorate | 298-02-2 | 4 | P094 | 10 (4.54)
Phosgene | 75-44-5 | 1,3,4 | P095 | 10 (4.54)
Phosphine | 7803-51-2 | 3,4 | P096 | 100 (45.4)
Phosphoric acid | 7664-38-2 | 1 |  | 5000 (2270)
Phosphoric acid, diethyl 4-nitrophenyl ester | 311-45-5 | 4 | P041 | 100 (45.4)
Phosphoric acid, lead(2+) salt (2:3) | 7446-27-7 | 4 | U145 | 10 (4.54)
Phosphorodithioic acid, O,O-diethyl S-[2-(ethylthio)ethyl] ester | 298-04-4 | 1,4 | P039 | 1 (0.454)
Phosphorodithioic acid, O,O-diethyl S-[(ethylthio)methyl] ester | 298-02-2 | 4 | P094 | 10 (4.54)
Phosphorodithioic acid, O,O-diethyl S-methyl ester | 3288-58-2 | 4 | U087 | 5000 (2270)
Phosphorodithioic acid, O,O-dimethyl S-[2(methylamino)-2-oxoethyl] ester | 60-51-5 | 4 | P044 | 10 (4.54)
Phosphorofluoridic acid, bis(1-methylethyl) ester | 55-91-4 | 4 | P043 | 100 (45.4)
Phosphorothioic acid, O,O-diethyl O-(4-nitrophenyl) ester | 56-38-2 | 1,3,4 | P089 | 10 (4.54)
Phosphorothioic acid, O,O-diethyl O-pyrazinyl ester | 297-97-2 | 4 | P040 | 100 (45.4)
Phosphorothioic acid, O-[4-[(dimethylamino) sulfonyl]phenyl] O,O-dimethyl ester | 52-85-7 | 4 | P097 | 1000 (454)
Phosphorothioic acid, O,O-dimethyl O-(4-nitrophenyl) ester | 298-00-0 | 1,4 | P071 | 100 (45.4)
Phosphorus | 7723-14-0 | 1,3 |  | 1 (0.454)
Phosphorus oxychloride | 10025-87-3 | 1 |  | 1000 (454)
Phosphorus pentasulfide | 1314-80-3 | 1,4 | U189 | 100 (45.4)
Phosphorus sulfide | 1314-80-3 | 1,4 | U189 | 100 (45.4)
Phosphorus trichloride | 7719-12-2 | 1 |  | 1000 (454)
PHTHALATE ESTERS | N.A. | 2 |  | **
Phthalic anhydride | 85-44-9 | 3,4 | U190 | 5000 (2270)
2-Picoline | 109-06-8 | 4 | U191 | 5000 (2270)
Piperidine, 1-nitroso- | 100-75-4 | 4 | U179 | 10 (4.54)
Plumbane, tetraethyl- | 78-00-2 | 1,4 | P110 | 10 (4.54)
POLYCHLORINATED BIPHENYLS | 1336-36-3 | 1,2,3 |  | 1 (0.454)
Polycyclic Organic Matter ᵉ | N.A. | 3 |  | **
POLYNUCLEAR AROMATIC HYDROCARBONS | N.A. | 2 |  | **
Potassium arsenate | 7784-41-0 | 1 |  | 1 (0.454)
Potassium arsenite | 10124-50-2 | 1 |  | 1 (0.454)
Potassium bichromate | 7778-50-9 | 1 |  | 10 (4.54)
Potassium chromate | 7789-00-6 | 1 |  | 10 (4.54)
Potassium cyanide K(CN) | 151-50-8 | 1,4 | P098 | 10 (4.54)
Potassium hydroxide | 1310-58-3 | 1 |  | 1000 (454)
Potassium permanganate | 7722-64-7 | 1 |  | 100 (45.4)
Potassium silver cyanide | 506-61-6 | 4 | P099 | 1 (0.454)
Pronamide | 23950-58-5 | 4 | U192 | 5000 (2270)
Propanal, 2-methyl-2-(methylsulfonyl)-, O-[(methylamino)carbonyl] oxime (Aldicarb sulfone) | 1646-88-4 | 4 | P203 | ##
Propanal, 2-methyl-2-(methylthio)-, O-[(methylamino)carbonyl]oxime | 116-06-3 | 4 | P070 | 1 (0.454)
1-Propanamine | 107-10-8 | 4 | U194 | 5000 (2270)
1-Propanamine, N-propyl- | 142-84-7 | 4 | U110 | 5000 (2270)
1-Propanamine, N-nitroso-N-propyl- | 621-64-7 | 2,4 | U111 | 10 (4.54)
Propane, 1,2-dibromo-3-chloro- | 96-12-8 | 3,4 | U066 | 1 (0.454)
Propane, 1,2-dichloro- | 78-87-5 | 1,2,3,4 | U083 | 1000 (454)
Propanedinitrile | 109-77-3 | 4 | U149 | 1000 (454)
Propanenitrile | 107-12-0 | 4 | P101 | 10 (4.54)
Propanenitrile, 3-chloro- | 542-76-7 | 4 | P027 | 1000 (454)
Propanenitrile, 2-hydroxy-2-methyl- | 75-86-5 | 1,4 | P069 | 10 (4.54)
Propane, 2-nitro- | 79-46-9 | 3,4 | U171 | 10 (4.54)
Propane, 2,2'-oxybis[2-chloro- | 108-60-1 | 2,4 | U027 | 1000 (454)
1,3-Propane sultone | 1120-71-4 | 3,4 | U193 | 10 (4.54)
1,2,3-Propanetriol, trinitrate | 55-63-0 | 4 | P081 | 10 (4.54)
Propanoic acid, 2-(2,4,5-trichlorophenoxy)- | 93-72-1 | 1,4 | See F027 | 100 (45.4)
1-Propanol, 2,3-dibromo-, phosphate (3:1) | 126-72-7 | 4 | U235 | 10 (4.54)
1-Propanol, 2-methyl- | 78-83-1 | 4 | U140 | 5000 (2270)
2-Propanone | 67-64-1 | 4 | U002 | 5000 (2270)
2-Propanone, 1-bromo- | 598-31-2 | 4 | P017 | 1000 (454)
Propargite | 2312-35-8 | 1 |  | 10 (4.54)
Propargyl alcohol | 107-19-7 | 4 | P102 | 1000 (454)
2-Propenal | 107-02-8 | 1,2,3,4 | P003 | 1 (0.454)
2-Propenamide | 79-06-1 | 3,4 | U007 | 5000 (2270)
1-Propene, 1,3-dichloro- | 542-75-6 | 1,2,3,4 | U084 | 100 (45.4)
1-Propene, 1,1,2,3,3,3-hexachloro- | 1888-71-7 | 4 | U243 | 1000 (454)
2-Propenenitrile | 107-13-1 | 1,2,3,4 | U009 | 100 (45.4)
2-Propenenitrile, 2-methyl- | 126-98-7 | 4 | U152 | 1000 (454)
2-Propenoic acid | 79-10-7 | 3,4 | U008 | 5000 (2270)
2-Propenoic acid, ethyl ester | 140-88-5 | 3,4 | U113 | 1000 (454)
2-Propenoic acid, 2-methyl-, ethyl ester | 97-63-2 | 4 | U118 | 1000 (454)
2-Propenoic acid, 2-methyl-, methyl ester | 80-62-6 | 1,3,4 | U162 | 1000 (454)
2-Propen-1-ol | 107-18-6 | 1,4 | P005 | 100 (45.4)
beta-Propiolactone | 57-57-8 | 3 |  | 10 (4.54)
Propionaldehyde | 123-38-6 | 3 | 1000 (454)
Propionic acid | 79-09-4 | 1 |  | 5000 (2270)
Propionic anhydride | 123-62-6 | 1 |  | 5000 (2270)
Propoxur (Baygon) | 114-26-1 | 3,4 | U411 | 100 (45.4)
n-Propylamine | 107-10-8 | 4 | U194 | 5000 (2270)
Propylene dichloride | 78-87-5 | 1,2,3,4 | U083 | 1000 (454)
Propylene oxide | 75-56-9 | 1,3 |  | 100 (45.4)
1,2-Propylenimine | 75-55-8 | 3,4 | P067 | 1 (0.454)
2-Propyn-1-ol | 107-19-7 | 4 | P102 | 1000 (454)
Pyrene | 129-00-0 | 2 |  | 5000 (2270)
Pyrethrins | 121-29-9 121-21-1 8003-34-7 | 1 |  | 1 (0.454)
3,6-Pyridazinedione, 1,2-dihydro- | 123-33-1 | 4 | U148 | 5000 (2270)
4-Pyridinamine | 504-24-5 | 4 | P008 | 1000 (454)
Pyridine | 110-86-1 | 4 | U196 | 1000 (454)
Pyridine, 2-methyl- | 109-06-8 | 4 | U191 | 5000 (2270)
Pyridine, 3-(1-methyl-2-pyrrolidinyl)-, (S)-, & salts | 54-11-5 | 4 | P075 | 100 (45.4)
2,4-(1H,3H)-Pyrimidinedione, 5-[bis(2- chloroethyl)amino]- | 66-75-1 | 4 | U237 | 10 (4.54)
4(1H)-Pyrimidinone, 2,3-dihydro-6-methyl-2-thioxo- | 56-04-2 | 4 | U164 | 10 (4.54)
Pyrrolidine, 1-nitroso- | 930-55-2 | 4 | U180 | 1 (0.454)
Pyrrolo[2,3-b] indol-5-ol, 1,2,3,3a,8,8a-hexahydro-1,3a,8-trimethyl-, methylcarbamate (ester), (3aS-cis)-(Physostigmine) | 57-47-6 | 4 | P204 | ##
Quinoline | 91-22-5 | 1,3 |  | 5000 (2270)
Quinone | 106-51-4 | 3,4 | U197 | 10 (4.54)
Quintobenzene | 82-68-8 | 3,4 | U185 | 100 (45.4)
Radionuclides (including radon) | N.A. | 3 |  | §
Reserpine | 50-55-5 | 4 | U200 | 5000 (2270)
Resorcinol | 108-46-3 | 1,4 | U201 | 5000 (2270)
Saccharin, & salts | 81-07-2 | 4 | U202 | 100 (45.4)
Safrole | 94-59-7 | 4 | U203 | 100 (45.4)
Selenious acid | 7783-00-8 | 4 | U204 | 10 (4.54)
Selenious acid, dithallium (1+) salt | 12039-52-0 | 4 | P114 | 1000 (454)
Selenium†† | 7782-49-2 | 2 |  | 100 (45.4)
SELENIUM AND COMPOUNDS | N.A. | 2,3 |  | **
Selenium Compounds | N.A. | 2,3 |  | **
Selenium dioxide | 7446-08-4 | 1,4 | U204 | 10 (4.54)
Selenium oxide | 7446-08-4 | 1,4 | U204 | 10 (4.54)
Selenium sulfide SeS2 | 7488-56-4 | 4 | U205 | 10 (4.54)
Selenourea | 630-10-4 | 4 | P103 | 1000 (454)
L-Serine, diazoacetate (ester) | 115-02-6 | 4 | U015 | 1 (0.454)
Silver †† | 7440-22-4 | 2 |  | 1000 (454)
SILVER AND COMPOUNDS | N.A. | 2 |  | **
Silver cyanide Ag(CN) | 506-64-9 | 4 | P104 | 1 (0.454)
Silver nitrate | 7761-88-8 | 1 |  | 1 (0.454)
Silvex (2,4,5-TP) | 93-72-1 | 1,4 | See F027 | 100 (45.4)
Sodium | 7440-23-5 | 1 |  | 10 (4.54)
Sodium arsenate | 7631-89-2 | 1 |  | 1 (0.454)
Sodium arsenite | 7784-46-5 | 1 |  | 1 (0.454)
Sodium azide | 26628-22-8 | 4 | P105 | 1000 (454)
Sodium bichromate | 10588-01-9 | 1 |  | 10 (4.54)
Sodium bifluoride | 1333-83-1 | 1 |  | 100 (45.4)
Sodium bisulfite | 7631-90-5 | 1 |  | 5000 (2270)
Sodium chromate | 7775-11-3 | 1 |  | 10 (4.54)
Sodium cyanide Na(CN) | 143-33-9 | 1,4 | P106 | 10 (4.54)
Sodium dodecylbenzenesulfonate | 25155-30-0 | 1 |  | 1000 (454)
Sodium fluoride | 7681-49-4 | 1 |  | 1000 (454)
Sodium hydrosulfide | 16721-80-5 | 1 |  | 5000 (2270)
Sodium hydroxide | 1310-73-2 | 1 |  | 1000 (454)
Sodium hypochlorite | 7681-52-9 10022-70-5 | 1 |  | 100 (45.4)
Sodium methylate | 124-41-4 | 1 |  | 1000 (454)
Sodium nitrite | 7632-00-0 | 1 |  | 100 (45.4)
Sodium phosphate, dibasic | 7558-79-4 10039-32-4 10140-65-5 | 1 |  | 5000 (2270)
Sodium phosphate, tribasic | 7601-54-9 7758-29-4 7785-84-4 10101-89-0 10124-56-8 10361-89-4 | 1 |  | 5000 (2270)
Sodium selenite | 7782-82-3 10102-18-8 | 1 |  | 100 (45.4)
Streptozotocin | 18883-66-4 | 4 | U206 | 1 (0.454)
Strontium chromate | 7789-06-2 | 1 |  | 10 (4.54)
Strychnidin-10-one, & salts | 57-24-9 | 1,4 | P108 | 10 (4.54)
Strychnidin-10-one, 2,3-dimethoxy- | 357-57-3 | 4 | P018 | 100 (45.4)
Strychnine, & salts | 57-24-9 | 1,4 | P108 | 10 (4.54)
Styrene | 100-42-5 | 1,3 |  | 1000 (454)
Styrene oxide | 96-09-3 | 3 |  | 100 (45.4)
Sulfuric acid | 7664-93-9 8014-95-7 | 1 |  | 1000 (454)
Sulfuric acid, dimethyl ester | 77-78-1 | 3,4 | U103 | 100 (45.4)
Sulfuric acid, dithallium (1+) salt | 7446-18-6 10031-59-1 | 1,4 | P115 | 100 (45.4)
Sulfur monochloride | 12771-08-3 | 1 |  | 1000 (454)
Sulfur phosphide | 1314-80-3 | 1,4 | U189 | 100 (45.4)
2,4,5-T | 93-76-5 | 1,4 | See F027 | 1000 (454)
2,4,5-T acid | 93-76-5 | 1,4 | See F027 | 1000 (454)
2,4,5-T amines | 2008-46-0 1319-72-8 3813-14-7 6369-96-6 6369-97-7 | 1 |  | 5000 (2270)
2,4,5-T esters | 93-79-8 1928-47-8 2545-59-7 25168-15-4 61792-07-2 | 1 |  | 1000 (454)
2,4,5-T salts | 13560-99-1 | 1 |  | 1000 (454)
TCDD | 1746-01-6 | 2,3 |  | 1 (0.454)
TDE | 72-54-8 | 1,2,4 | U060 | 1 (0.454)
1,2,4,5-Tetrachlorobenzene | 95-94-3 | 4 | U207 | 5000 (2270)
2,3,7,8-Tetrachlorodibenzo-p-dioxin | 1746-01-6 | 2,3 |  | 1 (0.454)
1,1,1,2-Tetrachloroethane | 630-20-6 | 4 | U208 | 100 (45.4)
1,1,2,2-Tetrachloroethane | 79-34-5 | 2,3,4 | U209 | 100 (45.4)
Tetrachloroethylene | 127-18-4 | 2,3,4 | U210 | 100 (45.4)
2,3,4,6-Tetrachlorophenol | 58-90-2 | 4 | See F027 | 10 (4.54)
Tetraethyl pyrophosphate | 107-49-3 | 1,4 | P111 | 10 (4.54)
Tetraethyl lead | 78-00-2 | 1,4 | P110 | 10 (4.54)
Tetraethyldithiopyrophosphate | 3689-24-5 | 4 | P109 | 100 (45.4)
Tetrahydrofuran | 109-99-9 | 4 | U213 | 1000 (454)
Tetranitromethane | 509-14-8 | 4 | P112 | 10 (4.54)
Tetraphosphoric acid, hexaethyl ester | 757-58-4 | 4 | P062 | 100 (45.4)
Thallic oxide | 1314-32-5 | 4 | P113 | 100 (45.4)
Thallium †† | 7440-28-0 | 2 |  | 1000 (454)
THALLIUM AND COMPOUNDS | N.A. | 2 |  | **
Thallium (I) acetate | 563-68-8 | 4 | U214 | 100 (45.4)
Thallium (I) carbonate | 6533-73-9 | 4 | U215 | 100 (45.4)
Thallium chloride TlCl | 7791-12-0 | 4 | U216 | 100 (45.4)
Thallium (I) nitrate | 10102-45-1 | 4 | U217 | 100 (45.4)
Thallium oxide Tl2O3 | 1314-32-5 | 4 | P113 | 100 (45.4)
Thallium (l) selenite | 12039-52-0 | 4 | P114 | 1000 (454)
Thallium (I) sulfate | 7446-18-6 10031-59-1 | 1,4 | P115 | 100 (45.4)
Thioacetamide | 62-55-5 | 4 | U218 | 10 (4.54)
Thiodiphosphoric acid, tetraethyl ester | 3689-24-5 | 4 | P109 | 100 (45.4)
Thiofanox | 39196-18-4 | 4 | P045 | 100 (45.4)
Thioimidodicarbonic diamide [(H2N)C(S)] 2NH | 541-53-7 | 4 | P049 | 100 (45.4)
Thiomethanol | 74-93-1 | 1,4 | U153 | 100 (45.4)
Thioperoxydicarbonic diamide [(H2N)C(S)] 2S2, tetramethyl- | 137-26-8 | 4 | U244 | 10 (4.54)
Thiophenol | 108-98-5 | 4 | P014 | 100 (45.4)
Thiosemicarbazide | 79-19-6 | 4 | P116 | 100 (45.4)
Thiourea | 62-56-6 | 4 | U219 | 10 (4.54)
Thiourea, (2-chlorophenyl)- | 5344-82-1 | 4 | P026 | 100 (45.4)
Thiourea, 1-naphthalenyl- | 86-88-4 | 4 | P072 | 100 (45.4)
Thiourea, phenyl- | 103-85-5 | 4 | P093 | 100 (45.4)
Thiram | 137-26-8 | 4 | U244 | 10 (4.54)
Titanium tetrachloride | 7550-45-0 | 3 |  | 1,2,41000 (454)
Toluene | 108-88-3 | 1,2,3,4 | U220 | 1000 (454)
Toluenediamine | 95-80-7 496-72-0 823-40-5 25376-45-8 | 3,4 | U221 | 10 (4.54)
2,4-Toluene diamine | 95-80-7 496-72-0 823-40-5 25376-45-8 | 3,4 | U221 | 10 (4.54)
Toluene diisocyanate | 91-08-7 584-84-9 26471-62-5 | 3,4 | U223 | 100 (45.4)
2,4-Toluene diisocyanate | 91-08-7 584-84-9 26471-62-5 | 3,4 | U223 | 100 (45.4)
o-Toluidine | 95-53-4 | 3,4 | U328 | 100 (45.4)
p-Toluidine | 106-49-0 | 4 | U353 | 100 (45.4)
o-Toluidine hydrochloride | 636-21-5 | 4 | U222 | 100 (45.4)
Toxaphene | 8001-35-2 | 1,2,3,4 | P123 | 1 (0.454)
2,4,5-TP acid | 93-72-1 | 1,4 | See F027 | 100 (45.4)
2,4,5-TP esters | 32534-95-5 | 1 |  | 100 (45.4)
1H-1,2,4-Triazol-3-amine | 61-82-5 | 4 | U011 | 10 (4.54)
Trichlorfon | 52-68-6 | 1 |  | 100 (45.4)
1,2,4-Trichlorobenzene | 120-82-1 | 2,3 |  | 100 (45.4)
1,1,1-Trichloroethane | 71-55-6 | 2,3,4 | U226 | 1000 (454)
1,1,2-Trichloroethane | 79-00-5 | 2,3,4 | U227 | 100 (45.4)
Trichloroethylene | 79-01-6 | 1,2,3,4 | U228 | 100 (45.4)
Trichloromethanesulfenyl chloride | 594-42-3 | 4 | P118 | 100 (45.4)
Trichloromonofluoromethane | 75-69-4 | 4 | U121 | 5000 (2270)
Trichlorophenol | 25167-82-2 | 1 |  | 10 (4.54)
2,3,4-Trichlorophenol | 15950-66-0
2,3,5-Trichlorophenol | 933-78-8
2,3,6-Trichlorophenol | 933-75-5
3,4,5-Trichlorophenol | 609-19-8
2,4,5-Trichlorophenol | 95-95-4 | 1,3,4 | See F027 | 10 (4.54)
2,4,6-Trichlorophenol | 88-06-2 | 1,2,3,4 | See F027 | 10 (4.54)
Triethanolamine dodecylbenzenesulfonate | 27323-41-7 | 1 |  | 1000 (454)
Triethylamine | 121-44-8 | 1,3,4 | U404 | 5000 (2270)
Trifluralin | 1582-09-8 | 3 |  | 10 (4.54)
Trimethylamine | 75-50-3 | 1 |  | 100 (45.4)
2,2,4-Trimethylpentane | 540-84-1 | 3 |  | 1000 (454)
1,3,5-Trinitrobenzene | 99-35-4 | 4 | U234 | 10 (4.54)
1,3,5-Trioxane, 2,4,6-trimethyl- | 123-63-7 | 4 | U182 | 1000 (454)
Tris(2,3-dibromopropyl) phosphate | 126-72-7 | 4 | U235 | 10 (4.54)
Trypan blue | 72-57-1 | 4 | U236 | 10 (4.54)
Unlisted Hazardous Wastes Characteristic of Corrosivity | N.A. | 4 | D002 | 100 (45.4)
Unlisted Hazardous Wastes Characteristic of Ignitability | N.A. | 4 | D001 | 100 (45.4)
Unlisted Hazardous Wastes Characteristic of Reactivity | N.A. | 4 | D003 | 100 (45.4)
Unlisted Hazardous Wastes Characteristic of Toxicity:
Arsenic (D004) | N.A. | 4 | D004 | 1 (0.454)
Barium (D005) | N.A. | 4 | D005 | 1000 (454)
Benzene (D018) | N.A. | 1,2,3,4 | D018 | 10 (4.54)
Cadmium (D006) | N.A. | 4 | D006 | 10 (4.54)
Carbon tetrachloride (D019) | N.A. | 1,2,4 | D019 | 10 (4.54)
Chlordane (D020) | N.A. | 1,2,4 | D020 | 1 (0.454)
Chlorobenzene (D021) | N.A. | 1,2,4 | D021 | 100 (45.4)
Chloroform (D022) | N.A. | 1,2,4 | D022 | 10 (4.54)
Chromium (D007) | N.A. | 4 | D007 | 10 (4.54)
o-Cresol (D023) | N.A. | 4 | D023 | 100 (45.4)
m-Cresol (D024) | N.A. | 4 | D024 | 100 (45.4)
p-Cresol (D025) | N.A. | 4 | D025 | 100 (45.4)
Cresol (D026) | N.A. | 4 | D026 | 100 (45.4)
2,4-D (D016) | N.A. | 1,4 | D016 | 100 (45.4)
1,4-Dichlorobenzene (D027) | N.A. | 1,2,4 | D027 | 100 (45.4)
1,2-Dichloroethane (D028) | N.A. | 1,2,4 | D028 | 100 (45.4)
1,1-Dichloroethylene (D029) | N.A. | 1,2,4 | D029 | 100 (45.4)
2,4-Dinitrotoluene (D030) | N.A. | 1,2,4 | D030 | 10 (4.54)
Endrin (D012) | N.A. | 1,4 | D012 | 1 (0.454)
Heptachlor (and epoxide) (D031) | N.A. | 1,2,4 | D031 | 1 (0.454)
Hexachlorobenzene (D032) | N.A. | 2,4 | D032 | 10 (4.54)
Hexachlorobutadiene (D033) | N.A. | 2,4 | D033 | 1 (0.454)
Hexachloroethane (D034) | N.A. | 2,4 | D034 | 100 (45.4)
Lead (D008) | N.A. | 4 | D008 | 10 (4.54)
Lindane (D013) | N.A. | 1,4 | D013 | 1 (0.454)
Mercury (D009) | N.A. | 4 | D009 | 1 (0.454)
Methoxychlor (D014) | N.A. | 1,4 | D014 | 1 (0.454)
Methyl ethyl ketone (D035) | N.A. | 4 | D035 | 5000 (2270)
Nitrobenzene (D036) | N.A. | 1,2,4 | D036 | 1000 (454)
Pentachlorophenol (D037) | N.A. | 1,2,4 | D037 | 10 (4.54)
Pyridine (D038) | N.A. | 4 | D038 | 1000 (454)
Selenium (D010) | N.A. | 4 | D010 | 10 (4.54)
Silver (D011) | N.A. | 4 | D011 | 1 (0.454)
Tetrachloroethylene (D039) | N.A. | 2,4 | D039 | 100 (45.4)
Toxaphene (D015) | N.A. | 1,4 | D015 | 1 (0.454)
Trichloroethylene (D040) | N.A. | 1,2,4 | D040 | 100 (45.4)
2,4,5-Trichlorophenol (D041) | N.A. | 1,4 | D041 | 10 (4.54)
2,4,6-Trichlorophenol (D042) | N.A. | 1,2,4 | D042 | 10 (4.54)
2,4,5-TP (D017) | N.A. | 1,4 | D017 | 100 (45.4)
Vinyl chloride (D043) | N.A. | 2,3,4 | D043 | 1 (0.454)
Uracil mustard | 66-75-1 | 4 | U237 | 10 (4.54)
Uranyl acetate | 541-09-3 | 1 |  | 100 (45.4)
Uranyl nitrate | 10102-06-4 36478-76-9 | 1 |  | 100 (45.4)
Urea, N-ethyl-N-nitroso- | 759-73-9 | 4 | U176 | 1 (0.454)
Urea, N-methyl-N-nitroso- | 684-93-5 | 3,4 | U177 | 1 (0.454)
Urethane | 51-79-6 | 3,4 | U238 | 100 (45.4)
Vanadic acid, ammonium salt | 7803-55-6 | 4 | P119 | 1000 (454)
Vanadium oxide V2O5 | 1314-62-1 | 1,4 | P120 | 1000 (454)
Vanadium pentoxide | 1314-62-1 | 1,4 | P120 | 1000 (454)
Vanadyl sulfate | 27774-13-6 | 1 |  | 1000 (454)
Vinyl acetate | 108-05-4 | 1,3 |  | 5000 (2270)
Vinyl acetate monomer | 108-05-4 | 1,3 |  | 5000 (2270)
Vinylamine, N-methyl-N-nitroso- | 4549-40-0 | 4 | P084 | 10 (4.54)
Vinyl bromide | 593-60-2 | 3 |  | 100 (45.4)
Vinyl chloride | 75-01-4 | 2,3,4 | U043 | 1 (0.454)
Vinylidene chloride | 75-35-4 | 1,2,3,4 | U078 | 100 (45.4)
Warfarin, & salts | 81-81-2 | 4 | P001, U248 | 100 (45.4)
Xylene | 1330-20-7 | 1,3,4 | U239 | 100 (45.4)
m-Xylene | 108-38-3 | 3 |  | 1000 (454)
o-Xylene | 95-47-6 | 3 |  | 1000 (454)
p-Xylene | 106-42-3 | 3 |  | 100 (45.4)
Xylene (mixed) | 1330-20-7 | 1,3,4 | U239 | 100 (45.4)
Xylenes (isomers and mixture) | 1330-20-7 | 1,3,4 | U239 | 100 (45.4)
Xylenol | 1300-71-6 | 1 |  | 1000 (454)
Yohimban-16-carboxylic acid,11,17-dimethoxy-18-[(3,4,5-trimethoxybenzoyl)oxy]-, methyl ester (3beta,16beta,17alpha, 18beta,20alpha) | 50-55-54 | 4 | U200 | 5000 (2270)
Zinc †† | 7440-66-6 | 2 |  | 1000 (454)
ZINC AND COMPOUNDS | N.A. | 2 |  | **
Zinc acetate | 557-34-6 | 1 |  | 1000 (454)
Zinc ammonium chloride | 52628-25-8 14639-97-5 14639-98-6 | 1 |  | 1000 (454)
Zinc, bis(dimethylcarbamodithioato-S,S')-, (Ziram) | 137-30-4 | 4 | P205 | ##
Zinc borate | 1332-07-6 | 1 |  | 1000 (454)
Zinc bromide | 7699-45-8 | 1 |  | 1000 (454)
Zinc carbonate | 3486-35-9 | 1 |  | 1000 (454)
Zinc chloride | 7646-85-7 | 1 |  | 1000 (454)
Zinc cyanide Zn(CN)2 | 557-21-1 | 1,4 | P121 | 10 (4.54)
Zinc fluoride | 7783-49-5 | 1 |  | 1000 (454)
Zinc formate | 557-41-5 | 1 |  | 1000 (454)
Zinc hydrosulfite | 7779-86-4 | 1 |  | 1000 (454)
Zinc nitrate | 7779-88-6 | 1 |  | 1000 (454)
Zinc phenolsulfonate | 127-82-2 | 1 |  | 5000 (2270)
Zinc phosphide Zn3P2 | 1314-84-7 | 1,4 | P122, U249 | 100 (45.4)
Zinc silicofluoride | 16871-71-9 | 1 |  | 5000 (2270)
Zinc sulfate | 7733-02-0 | 1 |  | 1000 (454)
Zirconium nitrate | 13746-89-9 | 1 |  | 5000 (2270)
Zirconium potassium fluoride | 16923-95-8 | 1 |  | 1000 (454)
Zirconium sulfate | 14644-61-2 | 1 |  | 5000 (2270)
Zirconium tetrachloride | 10026-11-6 | 1 |  | 5000 (2270)
F001 |  | 4 | F001 | 10 (4.54)
The following spent halogenated solvents used in degreasing; all spent solvent mixtures/blends used in degreasing containing, before use, a total of ten percent or more (by volume) of one or more of the halogenated solvents listed below or those solvents listed in F002, F004, and F005; and still bottoms from the recovery of these spent solvents and spent solvent mixtures.
(a) Tetrachloroethylene | 127-18-4 | 2,3,4 | U210 | 100 (45.4)
(b) Trichloroethylene | 79-01-6 | 1,2,3,4 | U228 | 100 (45.4)
(c) Methylene chloride | 75-09-2 | 2,3,4 | U080 | 1000 (454)
(d) 1,1,1-Trichloroethane | 71-55-6 | 2,3,4 | U226 | 1000 (454)
(e) Carbon tetrachloride | 56-23-5 | 1,2,3,4 | U211 | 10 (4.54)
(f) Chlorinated fluorocarbons | N.A. |  |  | 5000 (2270)
F002 |  | 4 | F002 | 10 (4.54)
The following spent halogenated solvents; all spent solvent mixtures/blends containing, before use, a total of ten percent or more (by volume) of one or more of the halogenated solvents listed below or those solvents listed in F001, F004, or F005; and still bottoms from the recovery of these spent solvents and spent solvent mixtures.
(a) Tetrachloroethylene | 127-18-4 | 2,3,4 | U210 | 100 (45.4)
(b) Methylene chloride | 75-09-2 | 2,3,4 | U080 | 1000 (454)
(c) Trichloroethylene | 79-01-6 | 1,2,3,4 | U228 | 100 (45.4)
(d) 1,1,1-Trichloroethane | 71-55-6 | 2,3,4 | U226 | 1000 (454)
(e) Chlorobenzene | 108-90-7 | 1,2,3,4 | U037 | 100 (45.4)
(f) 1,1,2-Trichloro-1,2,2-trifluoroethane | 76-13-1 |  |  | 5000 (2270)
(g) o-Dichlorobenzene | 95-50-1 | 1,2,4 | U070 | 100 (45.4)
(h) Trichlorofluoromethane | 75-69-4 | 4 | U121 | 5000 (2270)
(i) 1,1,2-Trichloroethane | 79-00-5 | 2,3,4 | U227 | 100 (45.4)
F003 |  | 4 | F003 | 100 (45.4)
The following spent non-halogenated solvents and the still bottoms from the recovery of these solvents.
(a) Xylene | 1330-20-7 |  |  | 1000 (454)
(b) Acetone | 67-64-1 |  |  | 5000 (2270)
(c) Ethyl acetate | 141-78-6 |  |  | 5000 (2270)
(d) Ethylbenzene | 100-41-4 |  |  | 1000 (454)
(e) Ethyl ether | 60-29-7 |  |  | 100 (45.4)
(f) Methyl isobutyl ketone | 108-10-1 |  |  | 5000 (2270)
(g) n-Butyl alcohol | 71-36-3 |  |  | 5000 (2270)
(h) Cyclohexanone | 108-94-1 |  |  | 5000 (2270)
(i) Methanol | 67-56-1 |  |  | 5000 (2270)
F004 |  | 4 | F004 | 100 (45.4)
The following spent non-halogenated solvents and the still bottoms from the recovery of these solvents:
(a) Cresols/Cresylic acid | 1319-77-3 | 1,3,4 | U052 | 100 (45.4)
(b) Nitrobenzene | 98-95-3 | 1,2,3,4 | U169 | 1000 (454)
F005 |  | 4 | F005 | 100 (45.4)
The following spent non-halogenated solvents and the still bottoms from the recovery of these solvents:
(a) Toluene | 108-88-3 | 1,2,3,4 | U220 | 1000 (454)
(b) Methyl ethyl ketone | 78-93-3 | 3,4 | U159 | 5000 (2270)
(c) Carbon disulfide | 75-15-0 | 1,3,4 | P022 | 100 (45.4)
(d) Isobutanol | 78-83-1 | 4 | U140 | 5000 (2270)
(e) Pyridine | 110-86-1 | 4 | U196 | 1000 (454)
F006 |  | 4 | F006 | 10 (4.54)
Wastewater treatment sludges from electroplating operations except from the following processes: (1) sulfuric acid anodizing of aluminum, (2) tin plating on carbon steel, (3) zinc plating (segregated basis) on carbon steel, (4) aluminum or zinc-aluminum plating on carbon steel, (5) cleaning/stripping associated with tin, zinc and aluminum plating on carbon steel, and (6) chemical etching and milling of aluminum.
F007 |  | 4 | F007 | 10 (4.54)
Spent cyanide plating bath solutions from electroplating operations.
F008 |  | 4 | F008 | 10 (4.54)
Plating bath residues from the bottom of plating baths from electroplating operations where cyanides are used in the process.
F009 |  | 4 | F009 | 10 (4.54)
Spent stripping and cleaning bath solutions from electroplating operations where cyanides are used in the process.
F010 |  | 4 | F010 | 10 (4.54)
Quenching bath residues from oil baths from metal heat treating operations where cyanides are used in the process.
F011 |  | 4 | F011 | 10 (4.54)
Spent cyanide solutions from salt bath pot cleaning from metal heat treating operations.
F012 |  | 4 | F012 | 10 (4.54)
Quenching wastewater treatment sludges from metal heat treating operations where cyanides are used in the process.
F019 |  | 4 | F019 | 10 (4.54)
Wastewater treatment sludges from the chemical conversion coating of aluminum except from zirconium phosphating in aluminum can washing when such phosphating is an exclusive conversion coating process.
F020 |  | 4 | F020 | 1 (0.454)
Wastes (except wastewater and spent carbon from hydrogen chloride purification) from the production or manufacturing use (as a reactant, chemical intermediate, or component in a formulating process) of tri- or tetrachlorophenol or of intermediates used to produce their pesticide derivatives. (This listing does not include wastes from the production of hexachlorophene from highly purified 2,4,5-trichlorophenol.)
F021 |  | 4 | F021 | 1 (0.454)
Wastes (except wastewater and spent carbon from hydrogen chloride purification) from the production or manufacturing use (as a reactant, chemical intermediate, or component in a formulating process) of pentachlorophenol or of intermediates used to produce its derivatives.
F022 |  | 4 | F022 | 1 (0.454)
Wastes (except wastewater and spent carbon from hydrogen chloride purification) from the manufacturing use (as a reactant, chemical intermediate, or component in a formulating process) of tetra-, penta-, or hexachlorobenzenes under alkaline conditions.
F023 |  | 4 | F023 | 1 (0.454)
Wastes (except wastewater and spent carbon from hydrogen chloride purification) from the production of materials on equipment previously used for the production or manufacturing use (as a reactant, chemical intermediate, or a component in a formulating process) of tri- and tetrachlorophenols. (This listing does not include wastes from equipment used only for the production or use of hexachlorophene from highly purified 2,4,5-trichlorophenol.)
F024 |  | 4 | F024 | 1 (0.454)
Process wastes, including but not limited to, distillation residues, heavy ends, tars, and reactor clean-out wastes, from the production of certain chlorinated aliphatic hydrocarbons by free radical catalyzed processes. These chlorinated aliphatic hydrocarbons are those having carbon chain lengths ranging from one to and including five, with varying amounts and positions of chlorine substitution. (This listing does not include wastewaters, wastewater treatment sludges, spent catalysts, and wastes listed in 40 CFR 261.31 or 261.32.)
F025 |  | 4 | F025 | 1 (0.454)
Condensed light ends, spent filters and filter aids, and spent desiccant wastes from the production of certain chlorinated aliphatic hydrocarbons, by free radical catalyzed processes. These chlorinated aliphatic hydrocarbons are those having carbon chain lengths ranging from one to and including five, with varying amounts and positions of chlorine substitution.
F026 |  | 4 | F026 | 1 (0.454)
Wastes (except wastewater and spent carbon from hydrogen chloride purification) from the production of materials on equipment previously used for the manufacturing use (as a reactant, chemical intermediate, or component in a formulating process) of tetra-, penta-, or hexachlorobenzene under alkaline conditions.
F027 |  | 4 | F027 | 1 (0.454)
Discarded unused formulations containing tri-, tetra-, or pentachlorophenol or discarded unused formulations containing compounds derived from these chlorophenols. (This listing does not include formulations containing hexachlorophene synthesized from prepurified 2,4,5- trichlorophenol as the sole component.)
F028 |  | 4 | F028 | 1 (0.454)
Residues resulting from the incineration or thermal treatment of soil contaminated with EPA Hazardous Waste Nos. F020, F021, F022, F023, F026, and F027.
F032 |  | 4 | F032 | 1 (0.454)
Wastewaters (except those that have not come into contact with process contaminants), process residuals, preservative drippage, and spent formulations from wood preserving processes generated at plants that currently use or have previously used chlorophenolic formulations (except potentially cross-contaminated wastes that have had the F032 waste code deleted in accordance with § 261.35 of this chapter or potentially cross-contaminated wastes that are otherwise currently regulated as hazardous wastes (i.e., F034 or F035), and where the generator does not resume or initiate use of chlorophenolic formulations). This listing does not include K001 bottom sediment sludge from the treatment of wastewater from wood preserving processes that use creosote and/or pentachlorophenol.
F034 |  | 4 | F034 | 1 (0.454)
Wastewaters (except those that have not come into contact with process contaminants), process residuals, preservative drippage, and spent formulations from wood preserving processes generated at plants that use creosote formulations. This listing does not include K001 bottom sediment sludge from the treatment of wastewater from wood preserving processes that use creosote and/or pentachlorophenol.
F035 |  | 4 | F035 | 1 (0.454)
Wastewaters (except those that have not come into contact with process contaminants), process residuals, preservative drippage, and spent formulations from wood preserving processes generated at plants that use inorganic preservatives containing arsenic or chromium. This listing does not include K001 bottom sediment sludge from the treatment of wastewater from wood preserving processes that use creosote and/or pentachlorophenol.
F037 |  | 4 | F037 | 1 (0.454)
Petroleum refinery primary oil/water/solids separation sludge-Any sludge generated from the gravitational separation of oil/water/solids during the storage or treatment of process wastewaters and oily cooling wastewaters from petroleum refineries. Such sludges include, but are not limited to those generated in oil/water/solids separators; tanks and impoundments; ditches and other conveyances; sumps; and stormwater units receiving dry weather flow. Sludges generated in stormwater units that do not receive dry weather flow, sludges generated from non-contact once-through cooling waters segregated for treatment from other process or oily cooling waters, sludges generated in aggressive biological treatment units as defined in § 261.31(b)(2) (including sludges generated in one or more additional units after wastewaters have been treated in aggressive biological treatment units) and K051 wastes are not included in this listing. This listing does include residuals generated from processing or recycling oil-bearing hazardous secondary materials excluded under § 261.4(a)(12)(i), if those residuals are to be disposed of.
F038 |  | 4 | F038 | 1 (0.454)
Petroleum refinery secondary (emulsified) oil/water/solids separation sludge-Any sludge and/or float generated from the physical and/or chemical separation of oil/water/solids in process wastewaters and oily cooling wastewaters from petroleum refineries. Such wastes include, but are not limited to, all sludges and floats generated in: induced air flotation (IAF) units, tanks and impoundments, and all sludges generated in DAF units. Sludges generated in stormwater units that do not receive dry weather flow, sludges generated from non-contact once-through cooling waters segregated for treatment from other process or oily cooling waters, sludges and floats generated in aggressive biological treatment units as defined in § 261.31(b)(2) (including sludges and floats generated in one or more additional units after wastewaters have been treated in aggressive biological treatment units) and F037, K048, and K051 wastes are not included in this listing.
F039 |  | 4 | F039 | 1 (0.454)
Leachate (liquids that have percolated through land disposed wastes) resulting from the disposal of more than one restricted waste classified as hazardous under subpart D of 40 CFR part 261. (Leachate resulting from the disposal of one or more of the following EPA Hazardous Wastes and no other hazardous wastes retains its EPA Hazardous Waste Number(s): F020, F021, F022, F026, F027, and/or F028.)
K001 |  | 4 | K001 | 1 (0.454)
Bottom sediment sludge from the treatment of wastewaters from wood preserving processes that use creosote and/or pentachlorophenol.
K002 |  | 4 | K002 | 10 (4.54)
Wastewater treatment sludge from the production of chrome yellow and orange pigments.
K003 |  | 4 | K003 | 10 (4.54)
Wastewater treatment sludge from the production of molybdate orange pigments.
K004 |  | 4 | K004 | 10 (4.54)
Wastewater treatment sludge from the production of zinc yellow pigments.
K005 |  | 4 | K005 | 10 (4.54)
Wastewater treatment sludge from the production of chrome green pigments.
K006 |  | 4 | K006 | 10 (4.54)
Wastewater treatment sludge from the production of chrome oxide green pigments (anhydrous and hydrated).
K007 |  | 4 | K007 | 10 (4.54)
Wastewater treatment sludge from the production of iron blue pigments.
K008 |  | 4 | K008 | 10 (4.54)
Oven residue from the production of chrome oxide green pigments.
K009 |  | 4 | K009 | 10 (4.54)
Distillation bottoms from the production of acetaldehyde from ethylene.
K010 |  | 4 | K010 | 10 (4.54)
Distillation side cuts from the production of acetaldehyde from ethylene.
K011 |  | 4 | K011 | 10 (4.54)
Bottom stream from the wastewater stripper in the production of acrylonitrile.
K013 |  | 4 | K013 | 10 (4.54)
Bottom stream from the acetonitrile column in the production of acrylonitrile.
K014 |  | 4 | K014 | 5000 (2270)
Bottoms from the acetonitrile purification column in the production of acrylonitrile.
K015 |  | 4 | K015 | 10 (4.54)
Still bottoms from the distillation of benzyl chloride.
K016 |  | 4 | K016 | 1 (0.454)
Heavy ends or distillation residues from the production of carbon tetrachloride.
K017 |  | 4 | K017 | 10 (4.54)
Heavy ends (still bottoms) from the purification column in the production of epichlorohydrin.
K018 |  | 4 | K018 | 1 (0.454)
Heavy ends from the fractionation column in ethyl chloride production.
K019 |  | 4 | K019 | 1 (0.454)
Heavy ends from the distillation of ethylene dichloride in ethylene dichloride production.
K020 |  | 4 | K020 | 1 (0.454)
Heavy ends from the distillation of vinyl chloride in vinyl chloride monomer production.
K021 |  | 4 | K021 | 10 (4.54)
Aqueous spent antimony catalyst waste from fluoromethanes production.
K022 |  | 4 | K022 | 1 (0.454)
Distillation bottom tars from the production of phenol/acetone from cumene.
K023 |  | 4 | K023 | 5000 (2270)
Distillation light ends from the production of phthalic anhydride from naphthalene.
K024 |  | 4 | K024 | 5000 (2270)
Distillation bottoms from the production of phthalic anhydride from naphthalene.
K025 |  | 4 | K025 | 10 (4.54)
Distillation bottoms from the production of nitrobenzene by the nitration of benzene.
K026 |  | 4 | K026 | 1000 (454)
Stripping still tails from the production of methyl ethyl pyridines.
K027 |  | 4 | K027 | 10 (4.54)
Centrifuge and distillation residues from toluene diisocyanate production.
K028 |  | 4 | K028 | 1 (0.454)
Spent catalyst from the hydrochlorinator reactor in the production of 1,1,1-trichloroethane.
K029 |  | 4 | K029 | 1 (0.454)
Waste from the product steam stripper in the production of 1,1,1- trichloroethane.
K030 |  | 4 | K030 | 1 (0.454)
Column bottoms or heavy ends from the combined production of trichloroethylene and perchloroethylene.
K031 |  | 4 | K031 | 1 (0.454)
By-product salts generated in the production of MSMA and cacodylic acid.
K032 |  | 4 | K032 | 10 (4.54)
Wastewater treatment sludge from the production of chlordane.
K033 |  | 4 | K033 | 10 (4.54)
Wastewater and scrub water from the chlorination of cyclopentadiene in the production of chlordane.
K034 |  | 4 | K034 | 10 (4.54)
Filter solids from the filtration of hexachlorocyclopentadiene in the production of chlordane.
K035 |  | 4 | K035 | 1 (0.454)
Wastewater treatment sludges generated in the production of creosote.
K036 |  | 4 | K036 | 1 (0.454)
Still bottoms from toluene reclamation distillation in the production of disulfoton.
K037 |  | 4 | K037 | 1 (0.454)
Wastewater treatment sludges from the production of disulfoton.
K038 |  | 4 | K038 | 10 (4.54)
Wastewater from the washing and stripping of phorate production.
K039 |  | 4 | K039 | 10 (4.54)
Filter cake from the filtration of diethylphosphorodithioic acid in the production of phorate.
K040 |  | 4 | K040 | 10 (4.54)
Wastewater treatment sludge from the production of phorate.
K041 |  | 4 | K041 | 1 (0.454)
Wastewater treatment sludge from the production of toxaphene.
K042 |  | 4 | K042 | 10 (4.54)
Heavy ends or distillation residues from the distillation of tetrachlorobenzene in the production of 2,4,5-T.
K043 |  | 4 | K043 | 10 (4.54)
2,6-Dichlorophenol waste from the production of 2,4-D.
K044 |  | 4 | K044 | 10 (4.54)
Wastewater treatment sludges from the manufacturing and processing of explosives.
K045 |  | 4 | K045 | 10 (4.54)
Spent carbon from the treatment of wastewater containing explosives.
K046 |  | 4 | K046 | 10 (4.54)
Wastewater treatment sludges from the manufacturing, formulation and loading of lead-based initiating compounds.
K047 |  | 4 | K047 | 10 (4.54)
Pink/red water from TNT operations.
K048 |  | 4 | K048 | 10 (4.54)
Dissolved air flotation (DAF) float from the petroleum refining industry.
K049 |  | 4 | K049 | 10 (4.54)
Slop oil emulsion solids from the petroleum refining industry.
K050 |  | 4 | K050 | 10 (4.54)
Heat exchanger bundle cleaning sludge from the petroleum refining industry.
K051 |  | 4 | K051 | 10 (4.54)
API separator sludge from the petroleum refining industry.
K052 |  | 4 | K052 | 10 (4.54)
Tank bottoms (leaded) from the petroleum refining industry.
K060 |  | 4 | K060 | 1 (0.454)
Ammonia still lime sludge from coking operations.
K061 |  | 4 | K061 | 10 (4.54)
Emission control dust/sludge from the primary production of steel in electric furnaces.
K062 |  | 4 | K062 | 10 (4.54)
Spent pickle liquor generated by steel finishing operations of facilities within the iron and steel industry (SIC Codes 331 and 332).
K064 |  | 4 | K064 | 10 (4.54)
Acid plant blowdown slurry/sludge resulting from the thickening of blowdown slurry from primary copper production.
K065 |  | 4 | K065 | 10 (4.54)
Surface impoundment solids contained in and dredged from surface impoundments at primary lead smelting facilities.
K066 |  | 4 | K066 | 10 (4.54)
Sludge from treatment of process wastewater and/or acid plant blowdown from primary zinc production.
K069 |  | 4 | K069 | 10 (4.54)
Emission control dust/sludge from secondary lead smelting. (Note: This listing is stayed administratively for sludge generated from secondary acid scrubber systems. The stay will remain in effect until further administrative action is taken. If EPA takes further action effecting the stay, EPA will publish a notice of the action in the Federal Register.)
K071 |  | 4 | K071 | 1 (0.454)
Brine purification muds from the mercury cell process in chlorine production, where separately prepurified brine is not used.
K073 |  | 4 | K073 | 10 (4.54)
Chlorinated hydrocarbon waste from the purification step of the diaphragm cellprocess using graphite anodes in chlorine production.
K083 |  | 4 | K083 | 100 (45.4)
Distillation bottoms from aniline production.
K084 |  | 4 | K084 | 1 (0.454)
Wastewater treatment sludges generated during the production of veterinary pharmaceuticals from arsenic or organo-arsenic compounds.
K085 |  | 4 | K085 | 10 (4.54)
Distillation or fractionation column bottoms from the production of chlorobenzenes.
K086 |  | 4 | K086 | 10 (4.54)
Solvent washes and sludges, caustic washes and sludges, or water washes and sludges from cleaning tubs and equipment used in the formulation of ink from pigments, driers, soaps, and stabilizers containing chromium and lead.
K087 |  | 4 | K087 | 100 (45.4)
Decanter tank tar sludge from coking operations.
K088 |  | 4 | K088 | 10 (4.54)
Spent potliners from primary aluminum reduction.
K090 |  | 4 | K090 | 10 (4.54)
Emission control dust or sludge from ferrochromiumsilicon production.
K091 |  | 4 | K091 | 10 (4.54)
Emission control dust or sludge from ferrochromium production.
K093 |  | 4 | K093 | 5000 (2270)
Distillation light ends from the production of phthalic anhydride from ortho-xylene.
K094 |  | 4 | K094 | 5000 (2270)
Distillation bottoms from the production of phthalic anhydride from ortho-xylene.
K095 |  | 4 | K095 | 100 (45.4)
Distillation bottoms from the production of 1,1,1-trichloroethane.
K096 |  | 4 | K096 | 100 (45.4)
Heavy ends from the heavy ends column from the production of 1,1,1-trichloroethane.
K097 |  | 4 | K097 | 1 (0.454)
Vacuum stripper discharge from the chlordane chlorinator in the production of chlordane.
K098 |  | 4 | K098 | 1 (0.454)
Untreated process wastewater from the production of toxaphene.
K099 |  | 4 | K099 | 10 (4.54)
Untreated wastewater from the production of 2,4-D.
K100 |  | 4 | K100 | 10 (4.54)
Waste leaching solution from acid leaching of emission control dust/sludge from secondary lead smelting.
K101 |  | 4 | K101 | 1 (0.454)
Distillation tar residues from the distillation of aniline-based compounds in the production of veterinary pharmaceuticals from arsenic or organo-arsenic compounds.
K102 |  | 4 | K102 | 1 (0.454)
Residue from the use of activated carbon for decolorization in the production of veterinary pharmaceuticals from arsenic or organo-arsenic compounds.
K103 |  | 4 | K103 | 100 (45.4)
Process residues from aniline extraction from the production of aniline.
K104 |  | 4 | K104 | 10 (4.54)
Combined wastewater streams generated from nitrobenzene/aniline production.
K105 |  | 4 | K105 | 10 (4.54)
Separated aqueous stream from the reactor product washing step in the production of chlorobenzenes.
K106 |  | 4 | K106 | 1 (0.454)
Wastewater treatment sludge from the mercury cell process in chlorine production.
K107 |  | 4 | K107 | 10 (4.54)
Column bottoms from product separation from the production of 1,1- dimethylhydrazine (UDMH) from carboxylic acid hydrazines.
K108 |  | 4 | K108 | 10 (4.54)
Condensed column overheads from product separation and condensed reactor vent gases from the production of 1,1- dimethylhydrazine (UDMH) from carboxylic acid hydrazides.
K109 |  | 4 | K109 | 10 (4.54)
Spent filter cartridges from product purification from the production of 1,1-dimethylhydrazine (UDMH) from carboxylic acid hydrazides.
K110 |  | 4 | K110 | 10 (4.54)
Condensed column overheads from intermediate separation from the production of 1,1- dimethylhydrazine (UDMH) from carboxylic acid hydrazides.
K111 |  | 4 | K111 | 10 (4.54)
Product washwaters from the production of dinitrotoluene via nitration of toluene.
K112 |  | 4 | K112 | 10 (4.54)
Reaction by-product water from the drying column in the production of toluenediamine via hydrogenation of dinitrotoluene.
K113 |  | 4 | K113 | 10 (4.54)
Condensed liquid light ends from the purification of toluenediamine in the production of toluenediamine via hydrogenation of dinitrotoluene.
K114 |  | 4 | K114 | 10 (4.54)
Vicinals from the purification of toluenediamine in the production of toluenediamine via hydrogenation of dinitrotoluene.
K115 |  | 4 | K115 | 10 (4.54)
Heavy ends from the purification of toluenediamine in the production of toluenediamine via hydrogenation of dinitrotoluene.
K116 |  | 4 | K116 | 10 (4.54)
Organic condensate from the solvent recovery column in the production of toluene diisocyanate via phosgenation of toluenediamine.
K117 |  | 4 | K117 | 1 (0.454)
Wastewater from the reactor vent gas scrubber in the production of ethylene dibromide via bromination of ethene.
K118 |  | 4 | K118 | 1 (0.454)
Spent adsorbent solids from purification of ethylene dibromide in the production of ethylene dibromide via bromination of ethene.
K123 |  | 4 | K123 | 10 (4.54)
Process wastewater (including supernates, filtrates, and washwaters) from the production of ethylenebisdithiocarbamic acid and its salts.
K124 |  | 4 | K124 | 10 (4.54)
Reactor vent scrubber water from the production of ethylenebisdithiocarbamic acid and its salts.
K125 |  | 4 | K125 | 10 (4.54)
Filtration, evaporation, and centrifugation solids from the production of ethylenebisdithiocarbamic acid and its salts.
K126 |  | 4 | K126 | 10 (4.54)
Baghouse dust and floor sweepings in milling and packaging operations from the production or formulation of ethylenebisdithiocarbamic acid and its salts.
K131 |  | 4 | K131 | 100 (45.4)
Wastewater from the reactor and spent sulfuric acid from the acid dryer from the production of methyl bromide.
K132 |  | 4 | K132 | 1000 (454)
Spent absorbent and wastewater separator solids from the production of methyl bromide.
K136 |  | 4 | K136 | 1 (0.454)
Still bottoms from the purification of ethylene dibromide in the production of ethylene dibromide via bromination of ethene.
K141 |  | 4 | K141 | 1 (0.454)
Process residues from the recovery of coal tar, including, but not limited to, collecting sump residues from the production of coke from coal or the recovery of coke by-products produced from coal. This listing does not include K087 (decanter tank tar sludges from coking operations).
K142 |  | 4 | K142 | 1 (0.454)
Tar storage tank residues from the production of coke from coal or from the recovery of coke by-products produced from coal.
K143 |  | 4 | K143 | 1 (0.454)
Process residues from the recovery of light oil, including, but not limited to, those generated in stills, decanters, and wash oil recovery units from the recovery of coke by- products produced from coal.
K144 |  | 4 | K144 | 1 (0.454)
Wastewater sump residues from light oil refining, including, but not limited to, intercepting or contamination sump sludges from the recovery of coke by-products produced from coal.
K145 |  | 4 | K145 | 1 (0.454)
Residues from naphthalene collection and recovery operations from the recovery of coke by-products produced from coal.
K147 |  | 4 | K147 | 1 (0.454)
Tar storage tank residues from coal tar refining.
K148 |  | 4 | K148 | 1 (0.454)
Residues from coal tar distillation, including, but not limited to, still bottoms.
K149 |  | 4 | K149 | 10 (4.54)
Distillation bottoms from the production of alpha-(or methyl-) chlorinated toluenes, ring-chlorinated toluenes, benzoyl chlorides, and compounds with mixtures of these functional groups. [This waste does not include still bottoms from the distillation of benzyl chloride.]
K150 |  | 4 | K150 | 10 (4.54)
Organic residuals, excluding spent carbon adsorbent, from the spent chlorine gas and hydrochloric acid recovery processes associated with the production of alpha- (or methyl-) chlorinated toluenes, ring-chlorinated toluenes, benzoyl chlorides, and compounds with mixtures of these functional groups.
K151 |  | 4 | K151 | 10 (4.54)
Wastewater treatment sludges, excluding neutralization and biological sludges, generated during the treatment of waste-waters from the production of alpha- (or methyl-) chlorinated toluenes, ring-chlorinated toluenes, benzoyl chlorides, and compounds with mixtures of these functional groups.
K156 |  | 4 | K156 | ##
Organic waste (including heavy ends, still bottoms, light ends, spent solvents, filtrates, and decantates) from the production of carbamates and carbamoyl oximes. (This listing does not apply to wastes generated from the manufacture of 3-iodo-2-propynyl n-butylcarbamate.)
K157 |  | 4 | K157 | ##
Wastewaters (including scrubber waters, condenser waters, washwaters, and separation waters) from the production of carbamates and carbamoyl oximes. (This listing does not apply to wastes generated from the manufacture of 3-iodo-2-propynyl n-butylcarbamate.)
K158 |  | 4 | K158 | ##
Bag house dusts and filter/separation solids from the production of carbamates and carbamoyl oximes. (This listing does not apply to wastes generated from the manufacture of 3-iodo-2-propynyl n-butylcarbamate.)
K159 |  | 4 | K159 | ##
Organics from the treatment of thiocarbamate wastes.
K161 |  | 4 | K161 | ##
Purification solids (including filtration, evaporation, and centrifugation solids), baghouse dust and floor sweepings from the production of dithiocarbamate acids and their salts. (This does not include K125 or K126.)
K169ᶠ |  | 4 | K169 | 10 (4.54)
Crude oil storage tank sediment from petroleum refining operations.
K170ᶠ |  | 4 | K170 | 1 (0.454)
Clarified slurry oil tank sediment and/or in-line filter/separation solids from petroleum refining operations.
K171ᶠ |  | 4 | K171 | 1 (0.454)
Spent hydrotreating catalyst from petroleum refining operations. (This listing does not include inert support media.)
K172ᶠ |  | 4 | K172 | 1 (0.454)
Spent hydrorefining catalyst from petroleum refining operations. (This listing does not include inert support media.)
K174ᶠ |  | 4 | K174 | 1 (0.454)
K175ᶠ |  | 4 | K175 | 1 (0.454)
K176 |  |  |  |
Baghouse filters from the production of antimony oxide, including filters from the production of intermediates (e.g., antimony metal or crude antimony oxide) |  | 4 | K176 | 1 (0.454)
K177 |  |  |  |
Slag from the production of antimony oxide that is speculatively accumulated or disposed, including slag from the production of intermediates (e.g., antimony metal or crude antimony oxide) |  | 4 | K177 | 5,000 (2270)
K178 |  |  |  |
Residues from manufacturing and manufacturing-site storage of ferric chloride from acids formed during the production of titanium dioxide using the chloride ilmenite process |  | 4 | K178 | 1 (0.454)
† Indicates the statutory source defined by 1,2,3, and 4, as described in the note preceding Table 302.4.
†† No reporting of releases of this hazardous substance is required if the diameter of the pieces of the solid metal released is larger than 100 micrometers (0.004 inches).
††† The RQ for asbestos is limited to friable forms only.
## The Agency may adjust the statutory RQ for this hazardous substance in a future rulemaking; until then the statutory one-pound RQ applies.
§ The adjusted RQs for radionuclides may be found in Appendix B to this table.
** Indicates that no RQ is being assigned to the generic or broad class.
ᵃ Benzene was already a CERCLA hazardous substance prior to the CAA Amendments of 1990 and received an adjusted 10-pound RQ based on potential carcinogenicity in an August 14, 1989, final rule (54 FR 33418). The CAA Amendments specify that “benzene (including benzene from gasoline)” is a hazardous air pollutant and, thus, a CERCLA hazardous substance.
ᵇ The CAA Amendments of 1990 list DDE (3547-04-4) as a CAA hazardous air pollutant. The CAS number, 3547-04-4, is for the chemical, p,p'dichlorodiphenylethane. DDE or p,p'-dichlorodiphenyldichloroethylene, CAS number 72-55-9, is already listed in Table 302.4 with a final RQ of 1 pound. The substance identified by the CAS number 3547-04-4 has been evaluated and listed as DDE to be consistent with the CAA section 112 listing, as amended.
ᶜ Includes mineral fiber emissions from facilities manufacturing or processing glass, rock, or slag fibers (or other mineral derived fibers) of average diameter 1 micrometer or less.
ᵈ Includes mono- and di-ethers of ethylene glycol, diethylene glycol, and triethylene glycol R-(OCH2CH2)n-OR' where:
n = 1, 2, or 3;
R = alkyl C7 or less; or
R = phenyl or alkyl substituted phenyl;
R' = H or alkyl C7 or less; or
OR' consisting of carboxylic acid ester, sulfate, phosphate, nitrate, or sulfonate.
ᵉ Includes organic compounds with more than one benzene ring, and which have a boiling point greater than or equal to 100°C.
ᶠ See 40 CFR 302.6(b)(1) for application of the mixture rule to this hazardous waste.

5. Appendix A to § 302.4 is amended by:

a. removing the following entries: 50293, 52857, 54115, 55630, 55914, 57125, 57249, 57976, 58899, 59507, 60117, 63252, 72208, 72548, 74931, 79016, 79221, 81072, 81812, 88857, 91941, 92875, 93721, 93765, 94757, 95476, 95487, 96184, 98873, 100447, 101144, 106423, 106445, 106503, 106934, 108101, 108383, 108394, 108952, 110758, 111444, 111546, 111911, 116063, 119904, 119937, 120581, 121448, 122394, 123911, 126998, 127184, 143339, 143500, 148823, 151508, 151564, 189559, 193395, 206440, 218019, 298022, 298044, 303344, 309002, 315184, 465736, 492808, 506616, 506649, 506683, 506774, 542881, 544923, 557197, 557211, 592018, 606202, 616239, 684935, 1314847, 1319773, 1327522, 1330207, 1563662, 2032657, 2763964, 7440417, 7488564, 7778394, 7783064, 7791120, 8001352, 8001589, 11096825, 11097691, 11104282, 11141165, 12039520, 12672296, 12674112, 13463393, 16752775, 17804352, 18883664, 20816120, 20830813, 23135220, 39196184, and 53469219.

b. adding the following entries: 50293, 52857, 54115, 55630, 55914, 57249, 57578, 57976, 58899, 59507, 59892, 60117, 60355, 63252, 64675, 68122, 72208, 72548, 74931, 79016, 79118, 79221, 81072, 81812, 88857, 90040, 91667, 91941, 92524, 92671, 92875, 92933, 93721, 93765, 94757, 95476, 95487, 96093, 98873, 100447, 101144, 101688, 101779, 106423, 106445, 106503, 106887, 106934, 106990, 107211, 108101, 108383, 108394, 108952, 110543, 110758, 111422, 111444, 111546, 111911, 114261, 116063, 119904, 119937, 120581, 120809, 121448, 121697, 123319, 123386, 123911, 126998, 127184, 132649, 133904, 143339, 143500, 148823, 151508, 151564, 156627, 189559, 193395, 206440, 218019, 298022, 298044, 303344, 309002, 315184, 334883, 463581, 465736, 492808, 506616, 506649, 506683, 506774, 532274, 540841, 542881, 544923, 557197, 557211, 592018, 593602, 606202, 680319, 684935, 822060, 1314847, 1319773, 1330207, 1563662, 1582098, 1634044, 2032657, 2763964, 3547044, 7440417, 7488564, 7550450, 7778394, 7783064, 7791120, 8001352, 11096825, 11097691, 11104282, 11141165, 12039520, 12672296, 12674112, 13463393, 16752775, 17804352, 18883664, 20816120, 20830813, 23135220, 39196184, and 53469219.

Appendix A to § 302.4—Sequential CAS Registry Number List of CERCLA Hazardous Substances
CASRN | Hazardous Substance
* * * * * * *
50293 | Benzene, 1,1′-(2,2,2- trichloroethylidene)bis[4-chloro-. DDT. 4,4′-DDT.
* * * * * * *
52857 | Famphur. Phosphorothioic acid, O-[4-[(dimethylamino)sulfonyl]phenyl] O,O-dimethyl ester.
* * * * * * *
54115 | Nicotine, & salts. Pyridine, 3-(1-methyl-2-pyrrolidinyl)-, (S)-, & salts.
* * * * * * *
55630 | Nitroglycerine. 1,2,3-Propanetriol, trinitrate.
55914 | Diisopropylfluorophosphate (DFP). Phosphorofluororidic acid, bis(1-methylethyl) ester.
* * * * * * *
57249 | Strychnidin-10-one, & salts. Strychnine, & salts.
* * * * * * *
57578 | beta-Propiolactone.
* * * * * * *
57976 | Benz[a]anthracene, 7,12-dimethyl-. 7,12-Dimethylbenz[a]anthracene.
58899 | γ-BHC. Cyclohexane, 1,2,3,4,5,6-hexachloro-(1α,2α,3β,4α,5α,6β)-. Lindane. Lindane (all isomers).
* * * * * * *
59507 | p-Chloro-m-cresol. Phenol, 4-chloro-3-methyl-.
59892 | N-Nitrosomorpholine.
* * * * * * *
60117 | Benzenamine, N,N-dimethyl-4-(phenylazo)-. Dimethyl aminoazobenzene. p-Dimethylaminoazobenzene.
* * * * * * *
60355 | Acetamide.
* * * * * * *
63252 | Carbaryl. 1-Naphthalenol, methylcarbamate.
* * * * * * *
64675 | Diethyl sulfate.
* * * * * * *
68122 | Dimethylformamide.
72208 | Endrin. Endrin, & metabolites. 2,7:3.6-Dimethanonaphth[2,3-b]oxirene,3,4,5,6,9,9-hexachloro-1a,2,2a,3,6,6a,7,7a-octahydro-, (1aalpha,2beta,2abeta,3alpha, 6alpha,6abeta,7beta,7aalpha)-, & metabolites.
* * * * * * *
72548 | Benzene, 1,1′-(2,2-dichloroethylidene)bis[4-chloro-. DDD. TDE. 4,4′-DDD.
* * * * * * *
74931 | Methanethiol. Methyl mercaptan. Thiomethanol.
* * * * * * *
79016 | Ethene, trichloro-. Trichloroethylene.
* * * * * * *
79118 | Chloroacetic acid.
* * * * * * *
79221 | Carbonochloridic acid, methyl ester. Methyl chlorocarbonate.
* * * * * * *
81072 | Saccharin, & salts. 1,2-Benzisothiazol-3(2H)-one, 1,1-dioxide, & salts.
81812 | Warfarin, & salts. 2H-1-Benzopyran-2-one, 4-hydroxy-3-(3-oxo-1-phenylbutyl)-, & salts.
* * * * * * *
88857 | Dinoseb. Phenol, 2-(1-methylpropyl)-4,6-dinitro-.
90040 | o-Anisidine.
* * * * * * *
91667 | N,N-Diethylaniline.
91941 | [1,1′-Biphenyl]-4,4′-diamine,3,3′-dichloro-. 3,3′-Dichlorobenzidine.
92524 | Biphenyl.
92671 | 4-Aminobiphenyl.
92875 | Benzidine. [1,1′-Biphenyl]-4,4′-diamine.
92933 | 4-Nitrobiphenyl. Propanoic acid, 2-(2,4,5-trichlorophenoxy)-. Silvex (2,4,5-TP). 2,4,5-TP acid.
93765 | Acetic acid, (2,4,5-trichlorophenoxy)-. 2,4,5-T. 2,4,5-T acid.
* * * * * * *
94757 | Acetic acid, (2,4-dichlorophenoxy)-, salts & esters. 2,4-D Acid. 2,4-D, salts and esters.
* * * * * * *
95476 | o-Xylene.
95487 | o-Cresol.
* * * * * * *
96093 | Styrene oxide.
* * * * * * *
98873 | Benzal chloride. Benzene, (dichloromethyl)-.
* * * * * * *
100447 | Benzene, (chloromethyl)-. Benzyl chloride.
* * * * * * *
101144 | Benzenamine, 4,4′-methylenebis[2-chloro-. 4,4′-Methylenebis(2-chloroaniline).
* * * * * * *
101688 | MDI. Methylene diphenyl diisocyanate.
101779 | 4,4′-Methylenedianiline.
* * * * * * *
106423 | p-Xylene.
106445 | p-Cresol.
* * * * * * *
106503 | p-Phenylenediamine.
* * * * * * *
106887 | 1,2-Epoxybutane.
* * * * * * *
106934 | Dibromoethane. Ethane, 1,2-dibromo-. Ethylene dibromide.
106990 | 1,3-Butadiene.
* * * * * * *
107211 | Ethylene glycol.
* * * * * * *
108101 | Hexone. Methyl isobutyl ketone. 4-Methyl-2-pentanone.
* * * * * * *
108383 | m-Xylene.
108394 | m-Cresol.
* * * * * * *
108952 | Phenol.
* * * * * * *
110543 | Hexane.
110758 | Ethene, (2-chloroethoxy)-. 2-Chloroethyl vinyl ether.
* * * * * * *
111422 | Diethanolamine.
111444 | Bis(2-chloroethyl) ether. Dichloroethyl ether. Ethane, 1,1′-oxybis[2-chloro-.
111546 | Carbamodithioic acid, 1,2-ethanediylbis-, salts & esters. Ethylenebisdithiocarbamic acid, salts & esters.
111911 | Bis(2-chloroethoxy) methane. Dichloromethoxyethane. Ethane, 1,1′-[methylenebis(oxy)]bis(2-chloro-.
114261 | Phenol, 2-(1-methylethoxy)-, methylcarbamate. Propoxur (Baygon).
* * * * * * *
116063 | Aldicarb. Propanal, 2-methyl-2-(methylthio)-, O-[(methylamino)carbonyl]oxime.
* * * * * * *
119904 | [1,1′-Biphenyl]-4,4′-diamine,3,3′-dimethoxy-. 3,3′-Dimethoxybenzidine.
119937 | [1,1′-Biphenyl]-4,4′-diamine,3,3′- dimethyl-. 3,3′-Dimethylbenzidine.
* * * * * * *
120581 | Isosafrole. 1,3-Benzodioxole, 5-(1-propenyl)-.
120809 | Catechol.
* * * * * * *
121448 | Ethanamine, N,N-diethyl-. Triethylamine.
121697 | N,N-Dimethylaniline.
* * * * * * *
123319 | Hydroquinone.
* * * * * * *
123386 | Propionaldehyde.
* * * * * * *
123911 | 1,4-Diethyleneoxide. 1,4-Dioxane.
* * * * * * *
126998 | Chloroprene.
127184 | Ethene, tertrachloro-. Perchloroethylene. Tetrachloroethylene.
* * * * * * *
132649 | Dibenzofuran.
* * * * * * *
133904 | Chloramben.
* * * * * * *
143339 | Sodium cyanide Na(CN).
143500 | Kepone. 1,3,4-Metheno-2H-cyclobuta[cd]pentalen-2-one,1,1a,3,3a,4,5,5,5a,5b,6-decachlorooctahydro-.
* * * * * * *
148823 | L-Phenylalanine, 4-[bis(2-chloroethyl)amino]-. Melphalan.
151508 | Potassium cyanide K(CN).
151564 | Aziridine. Ethylenimine.
* * * * * * *
156627 | Calcium cyanamide.
189559 | Benzo[rst]pentaphene. Dibenzo[a,i]pyrene.
* * * * * * *
193395 | Indeno(1,2,3-cd)pyrene.
* * * * * * *
206440 | Fluoranthene.
* * * * * * *
218019 | Chrysene.
* * * * * * *
298022 | Phorate. Phosphorodithioic acid, O,O-diethyl S-[(ethylthio) methyl] ester.
298044 | Disulfoton. Phosphorodithioic acid, O,O-diethyl S-[2-(ethylthio)ethyl] ester.
* * * * * * *
303344 | Lasiocarpine. 2-Butenoic acid, 2-methyl-, 7-[[2,3-dihydroxy-2-(1-methoxyethyl)-3-methyl-1-oxobutoxy]methyl]-2,3,5,7a-tetrahydro-1H-pyrrolizin-1-yl ester, [1S-[1alpha(Z),7(2S*,3R*), 7aalpha]]-.
* * * * * * *
309002 | Aldrin. 1,4:5,8-Dimethanonaphthalene, 1,2,3,4,10,10-hexachloro-1,4,4a,5,8,8a-hexahydro-, (1alpha,4alpha,4abeta,5alpha,8alpha, 8abeta)-.
* * * * * * *
315184 | Mexacarbate. Phenol, 4-(dimethylamino)-3,5-dimethyl-, methylcarbamate (ester).
* * * * * * *
334883 | Diazomethane.
* * * * * * *
463581 | Carbonyl sulfide.
465736 | Isodrin. 1,4:5,8-Dimethanonaphthalene,1,2,3,4,10,10-hexachloro-1,4,4a,5,8,8a-hexahydro-, (1alpha,4alpha,4abeta,5beta,8beta, 8abeta)-.
492808 | Auramine. Benzenamine, 4,4′-carbonimidoylbis[N,N-dimethyl-.
* * * * * * *
506616 | Argentate(1-), bis(cyano-C)-, potassium. Potassium silver cyanide.
506649 | Silver cyanide Ag(CN).
506683 | Cyanogen bromide (CN)Br.
506774 | Cyanogen chloride (CN)Cl.
* * * * * * *
532274 | 2-Chloroacetophenone.
* * * * * * *
540841 | 2,2,4-Trimethylpentane.
* * * * * * *
542881 | Bis(chloromethyl)ether. Dichloromethyl ether. Methane, oxybis(chloro-.
* * * * * * *
544923 | Copper cyanide Cu(CN).
* * * * * * *
557197 | Nickel cyanide Ni(CN)2.
557211 | Zinc cyanide Zn(CN)2.
* * * * * * *
592018 | Calcium cyanide Ca(CN)2.
* * * * * * *
593602 | Vinyl bromide.
* * * * * * *
606202 | Benzene, 2-methyl-1,3-dinitro-. 2,6-Dinitrotoluene.
* * * * * * *
680319 | Hexamethylphosphoramide.
684935 | N-Nitroso-N-methylurea. Urea, N-methyl-N-nitroso-.
* * * * * * *
822060 | Hexamethylene-1,6-diisocyanate.
* * * * * * *
1314847 | Zinc phosphide Zn3P2.
* * * * * * *
1319773 | Cresol (cresylic acid). Cresols (isomers and mixture). Cresylic acid (isomers and mixture). Phenol, methyl-.
* * * * * * *
1330207 | Benzene, dimethyl-. Xylene. Xylene (mixed). Xylenes (isomers and mixture).
* * * * * * *
1563662 | 7-Benzofuranol, 2,3-dihydro-2,2-dimethyl-, methylcarbamate. Carbofuran.
1582098 | Trifluralin.
* * * * * * *
1634044 | Methyl tert-butyl ether.
* * * * * * *
2032657 | Mercaptodimethur. Methiocarb. Phenol, (3,5-dimethyl-4-(methylthio)-, methylcarbamate.
* * * * * * *
2763964 | 3(2H)-Isoxazolone, 5-(aminomethyl)-. 5-(Aminomethyl)-3-isoxazolol.
* * * * * * *
3547044 | DDE.
* * * * * * *
7440417 | Beryllium. Beryllium powder.
* * * * * * *
7488564 | Selenium sulfide SeS2.
7550450 | Titanium tetrachloride.
* * * * * * *
7778394 | Arsenic acid H3AsO4.
* * * * * * *
7783064 | Hydrogen sulfide H2S.
* * * * * * *
7791120 | Thallium chloride TlCl.
* * * * * * *
8001352 | Chlorinated camphene. Toxaphene.
11096825 | Aroclor 1260.
11097691 | Aroclor 1254.
11104282 | Aroclor 1221.
* * * * * * *
11141165 | Aroclor 1232.
* * * * * * *
12039520 | Selenious acid, dithallium(1+) salt. Thallium (I) selenite.
* * * * * * *
12672296 | Aroclor 1248.
12674112 | Aroclor 1016.
* * * * * * *
13463393 | Nickel carbonyl Ni(CO)4, (T-4)-.
* * * * * * *
16752775 | Ethanimidothioic acid, N-[[(methylamino)carbonyl] oxy]-, methyl ester. Methomyl.
* * * * * * *
17804352 | Carbamic acid, [1-[(butylamino)carbonyl]-1H-benzimidazol-2-yl]-, methyl ester (Benomyl).
18883664 | D-Glucose, 2-deoxy-2[[(methylnitrosoamino)-carbonyl]amino]-. Glucopyranose, 2-deoxy-2-(3-methyl-3-nitrosoureido)-, D-. Streptozotocin.
20816120 | Osmium oxide OsO4, (T-4)-. Osmium tetroxide.
20830813 | Daunomycin. 5,12-Naphthacenedione, 8-acetyl-10-[(3-amino-2,3,6-trideoxy-alpha-L-lyxo-hexopyranosyl)oxy]-7,8,9,10-tetrahydro-6,8,11-trihydroxy-1-methoxy-, (8S-cis)-.
* * * * * * *
23135220 | Ethanimidothioic acid, 2-(dimethylamino)-N-[[(methylamino)carbonyl]oxy]-2-oxo-, methyl ester (Oxamyl).
* * * * * * *
39196184 | Thiofanox. 2-Butanone, 3,3-dimethyl-1-(methylthio)-,O-[(methylamino)carbonyl] oxime.
* * * * * * *
53469219 | Aroclor 1242.

6. Section 302.5 is amended by revising paragraph (b) to read as follows:

§ 302.5 Determination of reportable quantities.

* * * * *

(b) Unlisted hazardous substances. Unlisted hazardous substances designated by 40 CFR 302.4(b) have the reportable quantity of 100 pounds, except for those unlisted hazardous wastes which exhibit toxicity identified in 40 CFR 261.24. Unlisted hazardous wastes which exhibit toxicity have the reportable quantities listed in Table 302.4 for the contaminant on which the characteristic of toxicity is based. The reportable quantity applies to the waste itself, not merely to the toxic contaminant. If an unlisted hazardous waste exhibits toxicity on the basis of more than one contaminant, the reportable quantity for that waste shall be the lowest of the reportable quantities listed in Table 302.4 for those contaminants. If an unlisted hazardous waste exhibits the characteristic of toxicity and one or more of the other characteristics referenced in 40 CFR 302.4(b), the reportable quantity for that waste shall be the lowest of the applicable reportable quantities.

7. Section 302.6 is amended by revising paragraph (a) to read as follows:

§ 302.6 Notification requirements.

(a) Any person in charge of a vessel or an offshore or an onshore facility shall, as soon as he or she has knowledge of any release (other than a federally permitted release or application of a pesticide) of a hazardous substance from such vessel or facility in a quantity equal to or exceeding the reportable quantity determined by this part in any 24-hour period, immediately notify the National Response Center ((800) 424-8802; in Washington, DC (202) 426-2675 or (202) 267-2675; the facsimile number is (202) 267-2165; and the telex number is 892427).

* * * * *

8. Section 302.7 is amended by revising paragraph (a)(3) to read as follows:

§ 302.7 Penalties.

(a) * * *

(3) In charge of a facility from which a hazardous substance is released, other than a federally permitted release, in a quantity equal to or greater than that reportable quantity determined under this part who fails to notify immediately the National Response Center as soon as he or she has knowledge of such release or who submits in such a notification any information which he knows to be false or misleading shall be subject to all of the sanctions, including criminal penalties, set forth in section 103(b) of the Act.

* * * * *

9. Section 302.8 is amended by revising paragraphs (e)(1)(iv)(H) and (f)(4)(viii) to read as follows:

§ 302.8 Continuous releases.

* * * * *

(e) * * *

(1) * * *

(iv) * * *

(H) A signed statement that the hazardous substance release(s) described is(are) continuous and stable in quantity and rate under the definitions in paragraph (b) of this section and that all reported information is accurate and current to the best knowledge of the person in charge.

(f) * * *

(4) * * *

(viii) A signed statement that the hazardous substance release(s) is(are) continuous and stable in quantity and rate under the definitions in paragraph (b) of this section and that all reported information is accurate and current to the best knowledge of the person in charge.

* * * * *

[FR Doc. 02-16866 Filed 7-8-02; 8:45 am]

BILLING CODE 6560-50-P